DEPARTMENT OF HOUSING AND URBAN DEVELOPMENT

[Docket No. FR-4557-N-07]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7262, Department of Housing and Urban Development, 451 Seventh Street SW, Washington, DC 20410; telephone (202) 708-1234; TDD number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2000 for suitability for use to assist the homeless. The properties were reviewed using information provided to HUD by Federal landholding agencies regarding unutilized and underutilized buildings and real property controlled by such agencies or by GSA regarding this inventory of excess or surplus Federal property.

In accordance with 24 CFR part 581.3(b) landholding agencies are required to notify HUD by December 31, 2000, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: U.S. Army: Jeff Holste, CEMP-IP, U.S. Army Corps of Engineers, Installation Support Center, Planning Branch, 441 G Street, NW, Washington, DC 20314-1000; (202) 761-5737; Corps of Engineers: Shirley Middleswarth, Army Corps of Engineers, Management and Disposal Division, 441 G Street, Washington, DC 20314-1000; (202) 761-7425; U.S. Navy: Charles C. Cocks, Dept. of Navy, Real Estate Policy Division, Naval Facilities Engineering Command, Washington Navy Yard, 1322 Patterson Ave., SE, Suite 1000, Washington, DC 20374-5065; (202) 685-9200; U.S. Air Force: Barbara Jenkins, Air Force Real Estate Agency (Area/MI), Bolling AFB, 112 Luke Avenue, Suite 104, Washington, DC 20332-8020; (202) 767-4184; GSA: Brian K. Polly, Office of Property Disposal, GSA, 18th and F Streets NW, Washington, DC 20405; (202) 501-0386; Dept. of Veterans Affairs: Anatolij Kushnir, Asset & Enterprise Development Service, Dept. of Veterans Affairs, room 419, Lafayette Bldg., 811 Vermont Ave. NW, Washington, DC 20420; (202) 565-5941; Dept. of Energy: Tom Knox, Office of Contract & Resource Management, MA-53, Washington, DC 20585; (202) 586-8715; Dept. of Transportation: Rugene Spruill, Space Management, Transportation Administrative Service Center, DOT, 400 Seventh St. SW, room 2310, Washington, DC 20590; (202) 366-4246; Dept. of Interior: Linda Tribby, Acquisition & Property Management, Dept. of Interior, 1849 C St. NW, MS 5512, Washington, DC 20240; (202) 606-3139; (These are not toll-free numbers).

Dated: February 8, 2001.
John D. Garrity,
Director, Office of Special Needs Assistance Programs.

TITLE V PROPERTIES REPORTED IN YEAR 2000 WHICH ARE SUITABLE AND AVAILABLE

Air Force

California

Building

Bldg. 604

Property #: 18199010237

Point Arena Air Force Station

Co: Mendocino CA 95468-5000

Status: Unutilized

Comment: 1232 sq. ft.; stucco-wood frame; most recent use—housing

Bldg. 605

Property #: 18199010238

Point Arena Air Force Station

Co: Mendocino CA 95468-5000

Status: Unutilized

Comment: 1232 sq. ft.; stucco-wood frame; most recent use—housing

Bldg. 612

Property #: 18199010239

Point Arena Air Force Station

Co: Mendocino CA 95468-5000

Status: Unutilized

Comment: 1232 sq. ft.; stucco-wood frame; most recent use—housing

Bldg. 611

Property #: 18199010240

Point Arena Air Force Station

Co: Mendocino CA 95468-5000

Status: Unutilized

Comment: 1232 sq. ft.; stucco-wood frame; most recent use—housing

Bldg. 613

Property #: 18199010241

Point Arena Air Force Station

Co: Mendocino CA 95468-5000

Status: Unutilized

Comment: 1232 sq. ft.; stucco-wood frame; most recent use—housing

Bldg. 614

Property #: 18199010242

Point Arena Air Force Station

Co: Mendocino CA 95468-5000

Status: Unutilized

Comment: 1232 sq. ft.; stucco-wood frame; most recent use—housing

Bldg. 615

Property #: 18199010243

Point Arena Air Force Station

Co: Mendocino CA 95468-5000

Status: Unutilized

Comment: 1232 sq. ft.; stucco-wood frame; most recent use—housing

Bldg. 616

Property #: 18199010244

Point Arena Air Force Station

Co: Mendocino CA 95468-5000

Status: Unutilized

Comment: 1232 sq. ft.; stucco-wood frame; most recent use—housing

Bldg. 617

Property #: 18199010245

Point Arena Air Force Station

Co: Mendocino CA 95468-5000

Status: Unutilized

Comment: 1232 sq. ft.; stucco-wood frame; most recent use—housing

Bldg. 618

Property #: 18199010246

Point Arena Air Force Station

Co: Mendocino CA 95468-5000

Status: Unutilized

Comment: 1232 sq. ft.; stucco-wood frame; most recent use—housing; needs rehab

Colorado

Building

Bldg. 964

Property #: 18199930016

Former Lowry AFB

Denver Co: CO 80220-

Status: Unutilized

Comment: 14495 sq. ft., local land use controls, most recent use—child care/kitchen facility

Massachusetts

Building

Bldg. 001

Property #: 18199940001

Air Natl Guard Station

50 Skyline Drive

Worcester Co: MA 01605-2898

Status: Excess

Comment: 37557 sq. ft., most recent use—shops/vehicle maintenance

Bldg. 002

Property #: 18199940002

Air Natl Guard Station

50 Skyline Drive

Worcester Co: MA 01605-2898

Status: Excess

Comment: 5580 sq. ft., most recent use—office/shops

Bldg. 003

Property #: 18199940003

Air Natl Guard Station

50 Skyline Drive

Worcester Co: MA 01605-2898

Status: Excess

Comment: 3840 sq. ft., most recent use—warehouse

Bldg. 004

Property #: 18199940004

Air Natl Guard Station

50 Skyline Drive

Worcester Co: MA 01605-2898

Status: Excess

Comment: 225 sq. ft., most recent use—shop

Bldg. 005

Property #: 18199940005

Air Natl Guard Station

50 Skyline Drive

Worcester Co: MA 01605-2898

Status: Excess

Comment: 8000 sq. ft., most recent use—warehouse

Nebraska

Land

Hastings Radar Bomb Scoring

Property #: 18199810027

Hastings Co: Adams NE 68901-

Status: Unutilized

Comment: 11 acres

New York

Building

Bldg. 1452 & 297 acres

Property #: 18199920030

AVA Test Annex

Town of Ava Co: Oneida NY 13303-

Status: Unutilized

Comment: 11000 sq. ft. on 297 acres (67 acres of wetland), most recent use—electronic research testing, presence of asbestos/lead paint

Bldg. 1453

Property #: 18199920031

AVA Test Annex

Town of Ava Co: Oneida NY 13303-

Status: Unutilized

Comment: 266 sq. ft., most recent use—generator bldg., presence of asbestos

Bldg. 1454

Property #: 18199920032

AVA Test Annex

Town of Ava Co: Oneida NY 13303-

Status: Unutilized

Comment: 53 sq. ft., most recent use—switch station, presence of asbestos

Lockport Comm. Facility

Property #: 18200040004

Shawnee Road

Lockport Co: Niagara NY

Status: Excess

Comment: 2 concrete block bldgs., (415 & 2929 sq. ft.) on 7.68 acres

South Dakota

Building

West Communications Annex

Property #: 18199340051

Ellsworth Air Force Base

Ellsworth AFB Co: Meade SD 57706-

Status: Unutilized

Comment: 2 bldgs. on 2.37 acres, remote area, lacks infrastructure, road hazardous during winter storms, most recent use—industrial storage

Army

Alabama

Building

Bldg. 60101

Property #: 21199520152

Shell Army Heliport

Ft. Rucker Co: Dale AL 36362-5000

Status: Unutilized

Comment: 6082 sq. ft., 1-story, most recent use—airfield fire station, off-site use only

Bldg. 60103

Property #: 21199520154

Shell Army Heliport

Ft. Rucker Co: Dale AL 36362-5000

Status: Unutilized

Comment: 12516 sq. ft., 2-story, most recent use—admin., off-site use only

Bldg. 60110

Property #: 21199520155

Shell Army Heliport

Ft. Rucker Co: Dale AL 36362-5000

Status: Unutilized

Comment: 8319 sq. ft., 1-story, most recent use—admin., off-site use only

Bldg. 60113

Property #: 21199520156

Shell Army Heliport

Ft. Rucker Co: Dale AL 36362-5000

Status: Unutilized

Comment: 4000 sq. ft., 1-story, most recent use—admin., off-site use only

Alaska

Building

Bldg. 58780

Property #: 21199930118

Fort Richardson

Ft. Richardson Co: AK 99505-

Status: Excess

Comment: 3230 sq. ft., most recent use—admin., off-site use only

Bldg. 08100

Property #: 21200020157

Fort Richardson

Ft. Richardson Co: AK 99505-6500

Status: Unutilized

Comment: 4688 sq. ft., concrete, most recent use—hazard bldg., off-site use only

Bldgs. 09100, 09104-09106

Property #: 21200020158

Fort Richardson

Ft. Richardson Co: AK 99505-6500

Status: Unutilized

Comment: various sq. ft., concrete, most recent use—hazard bldg., off-site use only

5 Bldgs.

Property #: 21200020159

Fort Richardson

09108, 09110-09112, 09114

Ft. Richardson Co: AK 99505-6500

Status: Unutilized

Comment: various sq. ft., concrete, most recent use—hazard bldg., off-site use only

Bldgs. 09128, 09129

Property #: 21200020160

Fort Richardson

Ft. Richardson Co: AK 99505-6500

Status: Unutilized

Comment: various sq. ft., concrete, most recent use—hazard bldg., off-site use only

Bldgs. 09151, 09155, 09156

Property #: 21200020161

Fort Richardson

Ft. Richardson Co: AK 99505-6500

Status: Unutilized

Comment: various sq. ft., concrete, most recent use—hazard bldg., off-site use only

Bldg. 09158

Property #: 21200020162

Fort Richardson

Ft. Richardson Co: AK 99505-6500

Status: Unutilized

Comment: 672 sq. ft., most recent use—storage shed, off-site use only

Bldgs. 09160-09162

Property #: 21200020163

Fort Richardson

Ft. Richardson Co: AK 99505-6500

Status: Unutilized

Comment: 11520 sq. ft., concrete, most recent use—NCO-ENL FH, off-site use only

Bldgs. 09164, 09165

Property #: 21200020164

Fort Richardson

Ft. Richardson Co: AK 99505-6500

Status: Unutilized

Comment: 2304 & 2880 sq. ft., most recent use—storage, off-site use only

Bldg. 10100

Property #: 21200020165

Fort Richardson

Ft. Richardson Co: AK 99505-6500

Status: Unutilized

Comment: 4688 sq. ft., concrete, most recent use—hazard bldg., off-site use only

Bldg. 00390

Property #: 21200030067

Fort Richardson

Ft. Richardson Co: AK 99505-

Status: Excess

Comment: 13632 sq. ft., off-site use only

Bldgs. 01200, 01202

Property #: 21200030068

Fort Richardson

Ft. Richardson Co: AK 99505-

Status: Excess

Comment: 4508 & 6366 sq. ft., most recent use—hazard bldg., off-site use only

Bldg. 01204

Property #: 21200030069

Fort Richardson

Ft. Richardson Co: AK 99505-

Status: Excess

Comment: 5578 sq. ft., most recent use—VOQ transient, off-site use only

Bldgs. 01205-01207

Property #: 21200030070

Fort Richardson

Ft. Richardson Co: AK 99505-

Status: Excess

Comment: various sq. ft., most recent use—hazard bldg., off-site use only

Bldgs. 01208, 01210, 01212

Property #: 21200030071

Fort Richardson

Ft. Richardson Co: AK 99505-

Status: Excess

Comment: various sq ft., most recent use—hazard bldg., off-site use only

Bldgs. 01213, 01214

Property #: 21200030072

Fort Richardson

Ft. Richardson Co: AK 99505-

Status: Excess

Comment: 11964 & 13740 sq. ft., most recent use—transient UPH, off-site use only

Bldgs. 01218, 01230

Property #: 21200030073

Fort Richardson

Ft. Richardson Co: AK 99505-

Status: Excess

Comment: 480 & 188 sq. ft., most recent use—hazard bldgs., off-site use only

Bldgs. 01231, 01232

Property #: 21200030074

Fort Richardson

Ft. Richardson Co: AK 99505-

Status: Excess

Comment: 458 & 4260 sq. ft., most recent use—hazard bldgs., off-site use only

Bldg. 01234

Property #: 21200030075

Fort Richardson

Ft. Richardson Co: AK 99505-

Status: Excess

Comment: 615 sq. ft., most recent use—admin., off-site use only

Bldg. 01237

Property #: 21200030076

Fort Richardson

Ft. Richardson Co: AK 99505-

Status: Excess

Comment: 408 sq. ft., most recent use—fuel/pol bldg., off-site use only

Bldg. 01272

Property #:21200030077

Fort Richardson

Ft. Richardson Co: AK 99505-

Status: Excess

Comment: 308 sq. ft., most recent use—storage, off-site use only

Bldg. 03002

Property #:21200030078

Fort Richardson

Ft. Richardson Co: AK 99505-

Status: Excess

Comment: 7480 sq. ft., most recent use—storage, off-site use only

Bldg. 03725

Property #:21200030079

Fort Richardson

Ft. Richardson Co: AK 99505-

Status: Excess

Comment: 7200 sq. ft., most recent use—veh. maint. shop, off-site use only

Bldg. 08109

Property #:21200030080

Fort Richardson

Ft. Richardson Co: AK 99505-

Status: Excess

Comment: 1920 sq. ft., most recent use—storage, off-site use only

Bldg. 21001

Property #:21200030081

Fort Richardson

Ft. Richardson Co: AK 99505-

Status: Excess

Comment: 3200 sq. ft., most recent use—family housing, off-site use only

Bldg. 22001

Property #:21200030082

Fort Richardson

Ft. Richardson Co: AK 99505-

Status: Excess

Comment: 1448 sq. ft., most recent use—family housing, off-site use only

Bldg. 22022

Property #:21200030083

Fort Richardson

Ft. Richardson Co: AK 99505-

Status: Excess

Comment: 1508 sq. ft., most recent use—family housing, off-site use only

Arizona

Bldg. 30012

Property #:21199310298

Fort Huachuca

Sierra Vista Co: Cochise AZ 85635-

Status: Excess

Comment: 237 sq. ft., 1-story block, most recent use—storage

Bldg. S-306

Property #:21199420346

Yuma Proving Ground

Yuma Co: Yuma/La Paz AZ 85365-9104

Status: Unutilized

Comment: 4103 sq. ft., 2-story, needs major rehab, off-site use only

Bldg. 503, Yuma Proving Ground

Property #:21199520073

Yuma Co: Yuma AZ 85365-9104

Status: Underutilized

Comment: 3789 sq. ft., 2-story, major structural changes required to meet floor loading & fire code requirements, presence of asbestos, off-site use only

5 Bldgs.

Property #:21199840129

Fort Huachuca

Sierra Vista Co: Cochise AZ 85635-

Location: 44101, 44102, 44124, 44125, 44201

Status: Excess

Comment: various sq. ft. & bdrm units, presence of asbestos/lead paint, most recent use—family housing, off-site use only

Bldg. 12521, 13572

Property #:21199920183

Fort Huachuca

Sierra Vista Co: Cochise AZ 85635-

Status: Unutilized

Comment: 448 sq. ft., & 54 sq. ft., off-site use only

Bldgs. 43101-43109

Property #: 21199940001

Fort Huachuca

Sierra Vista Co: Cochise AZ 85635-

Status: Excess

Comment: 969 sq. ft. per unit, 2-units per bldg., wood/stucco, presence of asbestos/lead paint, most recent use—housing, off-site use only

Bldg. 72908

Property #: 21200010079

Fort Huachuca

Sierra Vista Co: Cochise AZ 85635-

Status: Unutilized

Comment: 16491 sq. ft., presence of asbestos/lead paint, most recent use—veh. maint., off-site use only

Bldg. 63001

Property #: 21200010080

Fort Huachuca

Sierra Vista Co: Cochise AZ 85635-

Status: Unutilized

Comment: 2280 sq. ft., presence of asbestos/lead paint, most recent use-admin., off-site use only

8 Bldgs.

Property #: 21200010081

Fort Huachuca

Sierra Vista Co: Cochise AZ 85635-

Location: 13570, 15701, 70650, 70651, 87848, 87850, 87851, 87853

Status: Unutilized

Comment: various sq. ft., presence of asbestos/lead paint, most recent use—storage, off-site use only

2 Bldgs.

Property #: 21200010082

Fort Huachuca

Sierra Vista Co: Cochise AZ 85635-

Location: 15542, 15546

Status: Unutilized

Comment: 552 & 400 sq. ft., presence of asbestos/lead paint, most recent use—restrooms, off-site use only

2 Bldgs.

Property #: 21200010083

Fort Huachuca

Sierra Vista Co: Cochise AZ 85635-

Location: 15544, 15552

Status: Unutilized

Comment: 9713 & 2895 sq. ft., presence of asbestos/lead paint, most recent use—classrooms, off-site use only

Bldg. 15543

Property #: 21200010084

Fort Huachuca

Sierra Vista Co: Cochise AZ 85635-

Status: Unutilized

Comment: 416 sq. ft., presence of asbestos/lead paint, most recent use—rec. shelter, off-site use only

7 Bldgs.

Property #: 21200010085

Fort Huachuca

Sierra Vista Co: Cochise AZ 85635-

Location: 15550, 70108, 70109, 84004, 84107, 84108, 87852

Status: Unutilized

Comment: various sq. ft., presence of asbestos/lead paint, most recent use—admin., off-site use only

34 Bldgs.

Property #: 21200020166

Fort Huachuca

62001-62022, 64001-64012

Sierra Vista Co: Cochise AZ 85635-

Status: Unutilized

Comment: 658 & 587 sq. ft., presence of asbestos/lead paint, most recent use—one bedroom family housing, off-site use only

California

Building

Bldg. 104

Property #: 21199910088

Presidio of Monterey

Monterey Co: CA 93944-

Status: Unutilized

Comment: 8039 sq. ft., presence of asbestos/lead paint, most recent use—office, off-site use only

Bldg. 106

Property #: 21199910089

Presidio of Monterey

Monterey Co: CA 93944-

Status: Unutilized

Comment: 1950 sq. ft., presence of asbestos/lead paint, most recent use—office/storage, off-site use only

Bldg. 125

Property #: 21199910090

Presidio of Monterey

Monterey Co: CA 93944-

Status: Unutilized

Comment: 371 sq. ft., presence of asbestos/lead paint, most recent use—office, off-site use only

Bldg. 340

Property #: 21199910093

Presidio of Monterey

Monterey Co: CA 93944-

Status: Unutilized

Comment: 6500 sq. ft., presence of asbestos/lead paint, most recent use—office, off-site use only

Bldg. 341

Property #: 21199910094

Presidio of Monterey

Monterey Co: CA 93944-

Status: Unutilized

Comment: 371 sq. ft., presence of asbestos/lead paint, most recent use—office, off-site use only

Bldg. 4214

Property #: 21199910095

Presidio of Monterey

Monterey Co: CA 93944-

Status: Unutilized

Comment: 3168 sq. ft., presence of asbestos/lead paint, most recent use—office, off-site use only

Bldgs. 204-207, 517

Property #: 21200020167

Presidio of Monterey

Monterey Co: CA 93944-5006

Status: Unutilized

Comment: 4780 & 10950 sq. ft., presence of asbestos/lead paint, most recent use—classroom/admin/storage, off-site use only

Bldg. S251

Property #: 21200040043

Army Reserve

6357 Woodly Ave.

Van Nuys Co: Los Angeles CA 91406-6496

Status: Excess

Comment: 800 sq. ft., needs repair, presence of asbestos most recent use—storage, off-site use only

Connecticut

Building

Bldg. DKL12

Property #: 21200030084

USARC Middletown

Middletown Co: Middlesex CT 06457-

Status: Unutilized

Comment: 39 sq. ft., asbestos/lead paint, needs rehab, most recent use—sentry station, off-site use only

Georgia

Building

Bldg. 2285

Property #: 21199011704

Fort Benning

Fort Benning Co: Muscogee GA 31905-

Status: Unutilized

Comment: 4574 sq. ft., most recent use—clinic; needs substantial rehabilitation; 1 floor

Bldg. 1252, Fort Benning

Property #: 21199220694

Ft. Benning Co: Muscogee GA 31905-

Status: Unutilized

Comment: 583 sq. ft., 1 story, most recent use—storehouse, needs major rehab, off-site removal only

Bldg. 4881, Fort Benning

Property #: 21199220707

Ft. Bennning Co: Muscogee GA 31905-

Status: Unutilized

Comment: 2449 sq. ft., 1 story, most recent use—storehouse, need repairs, off-site removal only

Bldg. 4963, Fort Benning

Property #: 21199220710

Ft. Benning Co: Muscogee GA 31905-

Status: Unutilized

Comment: 6077 sq. ft., 1 story, most recent use—storehouse, need repairs, off-site removal only

Bldg. 2396, Fort Benning

Property #: 21199220712

Ft. Benning Co: Muscogee Ga 31905-

Status: Unutilized

Comment: 9786 sq. ft., 1 story, most recent use—dining facility, needs major rehab, off-site removal only

Bldg. 4882, Fort Benning

Property #: 21199220727

Ft. Benning Co: Muscogee GA 31905-

Status: Unutilized

Comment: 6077 sq. ft., 1 story, most recent use—storage, need repairs, off-site removal only

Bldg. 4967, Fort Benning

Property #: 21199220728

Ft. Benning Co: Muscogee GA 31905-

Status: Unutilized

Comment: 6077 sq. ft., 1 story, most recent use—storage, need repairs, off-site removal only

Bldg. 4977, Fort Benning

Property #: 21199220736

Ft. Benning Co: Muscogee GA 31905-

Status: Unutilized

Comment: 192 sq. ft., 1 story, most recent use—offices, need repairs, off-site removal only

Bldg. 4944, Fort Benning

Property #: 21199220747

Ft. Benning Co: Muscogee GA 31905-

Status: Unutilized

Comment: 6400 sq. ft., 1 story, most recent use—vehicle maintenance shop, need repairs, off-site removal only

Bldg. 4960, Fort Benning

Property #: 21199220752

Ft. Benning Co: Muscogee GA 31905-

Status: Unutilized

Comment: 3335 sq. ft., 1 story, most recent use—vehicle maintenance shop, off-site removal only

Bldg. 4969, Fort Benning

Property #: 21199220753

Ft. Benning Co: Muscogee GA 31905-

Status: Unutilized

Comment: 8416 sq. ft., 1 story, most recent use—vehicle maintenance shop, off-site removal only

Bldg. 4884, Fort Benning

Property #: 21199220762

Ft. Benning Co: Muscogee GA 31905-

Status: Unutilized

Comment: 2000 sq. ft., 1 story, most recent use—headquarters bldg., need repairs, off-site removal only

Bldg. 4964, Fort Benning

Property #: 21199220763

Ft. Benning Co: Muscogee GA 31905-

Status: Unutilized

Comment: 2000 sq. ft., 1 story, most recent use—headquarters bldg., need repairs, off-site removal only

Bldg. 4966, Fort Benning

Property #: 21199220764

Ft. Benning Co: Muscogee GA 31905-

Status: Unutilized

Comment: 2000 sq. ft., 1 story, most recent use—headquarters bldg., need repairs, off-site removal only

Bldg. 4965, Fort Benning

Property #: 21199220769

Ft. Benning Co: Muscogee GA 31905-

Status: Unutilized

Comment: 7713 sq. ft., 1 story, most recent use—supply bldg., need repairs, off-site removal only

Bldg. 4945, Fort Benning

Property #: 21199220779

Ft. Benning Co: Muscogee GA 31905-

Status: Unutilized

Comment: 220 sq. ft., 1 story, most recent use—gas station, needs major rehab, off-site removal only

Bldg. 4979, Fort Benning

Property #: 21199220780

Ft. Benning Co: Muscogee GA 31905-

Status: Unutilized

Comment: 400 sq. ft., 1 story, most recent use—oil house, need repairs, off-site removal only

Bldg. 4023, Fort Benning

Property #: 21199310461

Ft. Benning Co: Muscogee GA 31905-

Status: Unutilized

Comment: 2269 sq. ft., 1-story, needs rehab, most recent use—maintenance shop, off-site use only

Bldg. 4024, Fort Benning

Property #: 21199310462

Ft. Benning Co: Muscogee GA 31905-

Status: Unutilized

Comment: 3281 sq. ft., 1-story, needs rehab, most recent use—maintenance shop, off-site use only

Bldg. 4067, Fort Benning

Property #: 21199310465

Ft. Benning Co: Muscogee GA 31905-

Status: Unutilized

Comment: 4406 sq. ft., 1-story, needs rehab, most recent use—admin., off-site use only

Bldg. 11813

Property #: 21199410269

Fort Gordon

Fort Gordon Co: Richmond GA 30905-

Status: Unutilized

Comment: 70 sq. ft.; 1 story; metal; needs rehab.; most recent use—storage; off-site use only

Bldg. 21314

Property #: 21199410270

Fort Gordon

Fort Gordon Co: Richmond GA 30905-

Status: Unutilized

Comment: 85 sq. ft.; 1 story; needs rehab.; most recent use—storage; off-site use only

Bldg. 12809

Property #: 21199410272

Fort Gordon

Fort Gordon Co: Richmond GA 30905-

Status: Unutilized

Comment: 2788 sq. ft.; 1 story; wood; needs rehab.; most recent use—maintenance shop; off-site use only

Bldg. 10306

Property #: 21199410273

Fort Gordon

Fort Gordon Co: Richmond GA 30905-

Status: Unutilized

Comment: 195 sq. ft.; 1 story; wood; most recent use—oil storage shed; off-site use only

Bldg. 4051, Fort Benning

Property #: 21199520175

Ft. Benning Co: Muscogee GA 31905-

Status: Unutilized

Comment: 967 sq. ft., 1-story, needs rehab, most recent use—storage, off-site use only

Bldg. 2141

Property #: 21199610655

Fort Gordon

Fort Gordon Co: Richmond GA 30905-

Status: Unutilized

Comment: 2283 sq. ft., needs repair, most recent use—office, off-site use only

Bldg. 322

Property #: 21199720156

Fort Benning

Ft. Benning Co: Muscogee GA 31905-

Status: Unutilized

Comment: 9600 sq. ft., needs rehab, most recent use—admin., off-site use only

Bldg. 1737

Property #: 21199720161

Fort Benning

Ft. Benning Co: Muscogee GA 31905-

Status: Unutilized

Comment: 1500 sq. ft., needs rehab, most recent use—storage, off-site use only

Bldg. 2593

Property #: 21199720167

Fort Benning

Ft. Benning Co: Muscogee GA 31905-

Status: Unutilized

Comment: 13644 sq. ft., needs rehab, most recent use—parachute shop, off-site use only

Bldg. 2595

Property #: 21199720168

Fort Benning

Ft. Benning Co: Muscogee GA 31905-

Status: Unutilized

Comment: 3356 sq. ft., needs rehab, most recent use—chapel, off-site use only

Bldgs. 2865, 2869, 2872

Property #: 21199720169

Fort Benning

Ft. Benning Co: Muscogee GA 31905-

Status: Unutilized

Comment: approx. 1100 sq. ft. each, needs rehab, most recent use—shower fac., off-site use only

Bldg. 4476

Property #: 21199720184

Fort Benning

Ft. Benning Co: Muscogee GA 31905-

Status: Unutilized

Comment: 3148 sq. ft., needs rehab, most recent use—vehicle maint. shop, off-site use only

8 Bldgs.

Property #: 21199720189

Fort Benning

4700-4701, 4704-4707

4710-4711

Ft. Benning Co: Muscogee GA 31905-

Status: Unutilized

Comment: 6433 sq. ft. each, nees rehab, most recent use—unaccompanied personnel housing, off-site use only

Bldg. 4714

Property #: 21199720191

Fort Benning

Ft. Benning Co: Muscogee GA 31905-

Status: Unutilized

Comment: 1983 sq. ft., needs rehab, most recent use—battalion headquarters bldg., off-site use only

Bldg. 4702

Property #: 21199720192

Fort Benning

Ft. Benning Co: Muscogee GA 31905-

Status: Unutilized

Comment: 3690 sq. ft., needs rehab, most recent use—dining facility off-site use only

Bldgs. 4712-4713

Property #: 21199720193

Fort Benning

Ft. Benning Co: Muscogee GA 31905-

Status: Unutilized

Comment: 1983 sq. ft. and 10270 sq. ft., needs rehab, most recent use—company headquarters bldg., off-site use only

Bldg. 305

Property #: 21199810268

Fort Benning

Ft. Benning Co: Muscogee GA 31905-

Status: Unutilized

Comment: 4083 sq. ft., most recent use—recreation center, off-site use only

Bldg. 318

Property #: 21199810269

Fort Benning

Ft. Benning Co: Muscogee GA 31905-

Status: Unutilized

Comment: 374 sq. ft., poor condition, most recent use—maint. shop, off-site use only

Bldg. 1792

Property #: 21199810274

Fort Benning

Ft. Benning Co: Muscogee GA 31905-

Status: Unutilized

Comment: 10200 sq. ft., most recent use—storage, off-site use only

Bldg. 1836

Property #: 21199810276

Fort Benning

Ft. Benning Co: Muscogee GA 31905-

Status: Unutilized

Comment: 2998 sq. ft., most recent use—admin., off-site use only

Bldg. 4373

Property #: 21199810286

Fort Benning

Ft. Benning Co: Muscogee GA 31905-

Status: Unutilized

Comment: 409 sq. ft., poor condition, most recent use—station bldg. off-site use only

Bldg. 4628

Property #: 21199810287

Fort Benning

Ft. Benning Co: Muscogee GA 31905—

Status: Unutilized

Comment: 5483 sq. ft., most recent use—admin., off-site use only

Bldg. 92

Property #: 21199830278

Fort Benning

Ft. Benning Co: Muscogee GA 31905—

Status: Unutilized

Comment: 637 sq. ft., needs rehab, most recent use—admin., off-site use only

Bldg. 2445

Property #: 21199830279

Fort Benning

Ft. Benning Co: Muscogee GA 31905—

Status: Unutilized

Comment: 2385 sq. ft., needs rehab, most recent use—fire station, off-site use only

Bldg. 4232

Property #: 21199830279

Fort Benning

Ft. Benning Co: Muscogee GA 31905—

Status: Unutilized

Comment: 3720 sq. ft., needs rehab, most recent use—maint. bay, off-site use only

Bldg. 39720

Property #: 21199930119

Fort Gordon

Ft. Gordon Co: Richmond GA 31905—

Status: Unutilized

Comment: 1520 sq. ft., concrete block, possible asbestos/lead paint, most recent use—office, off-site use only

Bldg. 492

Property #: 21199930120

Fort Benning

Ft. Benning Co: Muscogee GA 31905—

Status: Unutilized

Comment: 720 sq. ft., most recent use—admin/maint, off-site use only

Bldg. 880

Property #: 21199930121

Fort Benning

Ft. Benning Co: Muscogee GA 31905—

Status: Unutilized

Comment: 57110 sq. ft., most recent use—instruction, off-site use only

Bldg. 1370

Property #: 21199930122

Fort Benning

Ft. Benning Co: Muscogee GA 31905—

Status: Unutilized

Comment: 5204 sq. ft., most recent use—hdqts. bldg., off-site use only

Bldg. 2288

Property #: 21199930123

Fort Benning

Ft. Benning Co: Muscogee GA 31905—

Status: Unutilized

Comment: 2481 sq. ft., most recent use—admin., off-site use only

Bldg. 2290

Property #: 21199930124

Fort Benning

Ft. Benning Co: Muscogee GA 31905—

Status: Unutilized

Comment: 455 sq. ft., most recent use—storage, off-site use only

Bldg. 2293

Property #: 21199930125

Fort Benning

Ft. Benning Co: Muscogee GA 31905—

Status: Unutilized

Comment: 2600 sq. ft., most recent use—hdqts. bldg., off-site use only

Bldg. 2297

Property #: 21199930126

Fort Benning

Ft. Benning Co: Muscogee GA 31905—

Status: Unutilized

Comment: 5156 sq. ft., most recent use—admin

Bldg. 2502

Property #: 21199930127

Fort Benning

Ft. Benning Co: Muscogee GA 31905-

Status: Unutilized

Comment: 10257 sq. ft., most recent use—repair shop, off-site use only

Bldg. 2508

Property #: 21199930128

Fort Benning

Ft. Benning Co: Muscogee GA 31905-

Status: Unutilized

Comment: 2434 sq. ft., most recent use—storage, off-site use only

Bldg. 2815

Property #: 21199930129

Fort Benning

Ft. Benning Co: Muscogee GA 31905-

Status: Unutilized

Comment: 2578 sq. ft., most recent use—hdqts. bldg., off-site use only

Bldg. 3815

Property #: 21199930130

Fort Benning

Ft. Benning Co: Muscogee GA 31905-

Status: Unutilized

Comment: 7575 sq. ft., most recent use—storage, off-site use only

Bldg. 3816

Property #: 21199930131

Fort Benning

Ft. Benning Co: Muscogee GA 31905-

Status: Unutilized

Comment: 7514 sq. ft., most recent use—storage, off-site use only

Bldg. 5886

Property #: 21199930134

Fort Benning

Ft. Benning Co: Muscogee GA 31905-

Status: Unutilized

Comment: 67 sq. ft., most recent use—maint/storage, off-site use only

Bldgs. 5974-5978

Property #: 21199930135

Fort Benning

Ft. Benning Co: Muscogee GA 31905-

Status: Unutilized

Comment: 400 sq. ft., most recent use—storage, off-site use only

Bldg. 5993

Property #: 21199930136

Fort Benning

Ft. Benning Co: Muscogee GA 31905-

Status: Unutilized

Comment: 960 sq. ft., msot recent use—storage, off-site use only

Bldg. 5994

Property #: 21199930137

Fort Benning

Ft. Benning Co: Muscogee GA 31905-

Status: Unutilized

Comment: 2016 sq. ft., most recent use—storage, off-site use only

Bldg. 2214

Property #: 21200020171

Fort Gordon

Ft. Gordon Co: Richmond GA 30905

Status: Unutilized

Comment: 13508 sq. ft., possible asbestos/lead paint, most recent use—storage/admin., off-site use only

Bldg. 2233

Property #: 21200020172

Fort Gordon

Ft. Gordon Co: Richmond GA 30905-

Status: Unutilized

Comment: 1720 sq. ft., possible asbestos/lead paint, most recent use—admin., off-site use only

Bldg. T-1003

Property #: 21200030085

Fort Stewart

Hinesville Co: Liberty GA 31514-

Status: Excess

Comment: 9367 sq. ft., poor condition, most recent use—admin., off-site use only

Bldgs. T-1005, T-1006, T-1007

Property #: 21200030086

Fort Stewart

Hinesville Co: Liberty GA 31514-

Status: Excess

Comment: 9267 sq. ft., poor condition, most recent use—storage, off-site use only

Bldgs. T-1015, T-1016, T-1017

Property #: 21200030087

Fort Stewart

Hinesville Co: Liberty GA 31514-

Status: Excess

Comment: 7496 sq. ft., poor condition, most recent use—storage, off-site use only

Bldgs. T-1018, T-1019

Property #: 21200030088

Fort Stewart

Hinesville Co: Liberty GA 31514-

Status: Excess

Comment: 9267 sq. ft., poor condition, most recent use—storage, off-site use only

Bldgs. T-1020, T-1021

Property #: 21200030089

Fort Stewart

Hinesville Co: Liberty GA 31514-

Status: Excess

Comment: 9267 sq. ft., poor condition, most recent use—storage, off-site use only

Bldg. T-1022

Property #: 21200030090

Fort Stewart

Hinesville Co: Liberty GA 31514-

Status: Excess

Comment: 9267 sq. ft., poor condition, most recent use—storage, off-site use only

Bldg. T-1027

Property #: 21200030091

Fort Stewart

Hinesville Co: Liberty GA 31514-

Status: Excess

Comment: 9024 sq. ft., poor condition, most recent use—storage, off-site use only

Bldg. T-1028

Property #: 21200030092

Fort Stewart

Hinesville Co: Liberty GA 31514-

Status: Excess

Comment: 7496 sq. ft., poor condition, most recent use—storage, off-site use only

Bldgs. T-1035, T-1036, T-1037

Property #: 21200030093

Fort Stewart

Hinesville Co: Liberty GA 31514-

Status: Excess

Comment: 1626 sq. ft., poor condition, most recent use—storage, off-site use only

Bldgs. T-1038, T-1039

Property #: 21200030094

Fort Stewart

Hinesville Co: Liberty GA 31514-

Status: Excess

Comment: 1626 sq. ft., poor condition, most recent use—storage, off-site use only

Bldgs. T-1040, T-1042

Property #: 21200030095

Fort Stewart

Hinesville Co: Liberty GA 31514-

Status: Excess

Comment: 1626 sq. ft., poor condition, most recent use—storage, off-site use only

Bldgs. T-1086, T-1087, T-1088

Property #: 21200030096

Fort Stewart

Hinesville Co: Liberty GA 31514-

Status: Excess

Comment: 7680 sq. ft., poor condition, most recent use—storage, off-site use only

Bldg. P-7751

Property #: 21200030097

Fort Stewart

Hinesville Co: Liberty GA 31514-

Status: Excess

Comment: 192 sq. ft., poor condition, off-site use only

Bldg. 223

Property #: 21200040044

Fort Benning

Ft. Benning Co: Muscogee GA 31905-

Status: Unutilized

Comment: 21556 sq. ft., most recent use—gen. purpose

Bldg. 228

Property #: 21200040045

Fort Benning

Ft. Benning Co: Muscogee GA 31905-

Status: Unutilized

Comment: 20220 sq. ft., most recent use—gen. purpose

Bldg. 2051

Property #: 21200040046

Fort Benning

Ft. Benning Co: Muscogee GA 31905-

Status: Unutilized

Comment: 6077 ft., most recent use—storage

Bldg. 2053

Property #: 21200040047

Fort Benning

Ft. Benning Co: Muscogee GA 31905-

Status: Unutilized

Comment: 14520 sq. ft., most recent use—storage

Bldg. 2677

Property #: 21200040048

Fort Benning

Ft. Benning Co: Muscogee GA 31905-

Status: Unutilized

Comment: 19326 sq. ft., most recent use—maint. shop

Land

Land (Railbed)

Property #: 21199440440

Fort Benning

Ft. Benning Co: Muscogee GA 31905-

Status: Unutilized

Comment: 17.3 acres extending 1.24 miles, no known utilities potential

Hawaii

Building

P-88

Property #: 21199030324

Aliamanu Military

Reservation

Honolulu Co: Honolulu HI 96818-

Location: Approximately 600 feet from Main Gate on Aliamanu Drive.

Status: Unutilized

Comment: 45216 sq. ft. underground tunnel complex, pres. of asbestos clean-up required of contamination, use of respirator required by those entering property, use limitations

Bldg. T-337

Property #: 21199640203

Fort Shafter

Honolulu Co: Honolulu HI 96819-

Status: Unutilized

Comment: 132 sq. ft., most recent use—storage, off-site use only

Illinois

Building

Bldg. 54

Property #: 21199620666

Rock Island Arsenal

Rock Island Co: Rock Island IL 61299-

Status: Unutilized

Comment: 2000 sq. ft., most recent use—oil storage, needs repair, off-site use only

Kansas

Building

Bldg. 166, Fort Riley

Property #: 21199410325

Ft. Riley Co: Geary KS 66442-

Status: Unutilized

Comment: 3803 sq. ft., 3-story brick residence, needs rehab, presence of asbestos, located within National Registered Historic District

Bldg. P-390

Property #: 21199740295

Fort Leavenworth

Leavenworth KS 66027-

Status: Unutilized

Comment: 4713 sq. ft., presence of lead based paint, most recent use—swine house, off-site use only

Bldg. P-68

Property #: 21199820153

Fort Leavenworth

Leavenworth KS 66027-

Status: Unutilized

Comment: 2236 sq. ft., most recent use—vehicle storage, off-site use only

Bldg. P-321

Property #: 21199820157

Fort Leavenworth

Leavenworth KS 66027-

Status: Unutilized

Comment: 600 sq. ft., most recent use—picnic shelter, off-site use only

Bldg. P-347

Property #: 21199820158

Fort Leavenworth

Leavenworth KS 66027-

Status: Unutilized

Comment: 2135 sq. ft., most recent use—bath house, off-site use only

Bldg. S-809

Property #: 21199820160

Fort Leavenworth

Leavenworth KS 66027-

Status: Unutilized

Comment: 39 sq. ft., most recent use—access control, off-site use only

Bldg. S-830

Property #: 21199820161

Fort Leavenworth

Leavenworth KS 66027-

Status: Unutilized

Comment: 5789 sq. ft., most recent use—underground storage, off-site use only

Bldg. S-831

Property #: 21199820162

Fort Leavenworth

Leavenworth KS 66027-

Status: Unutilized

Comment: 5789 sq. ft., most recent use—underground storage, off-site use only

Bldg. P-243

Property #: 21199830321

Fort Leavenworth

Leavenworth KS 66027-

Status: Unutilized

Comment: 242 sq. ft., most recent use—industrial, off-site use only

Bldg. P-242

Property #: 21199920202

Fort Leavenworth

Leavenworth CO: KS 66027-

Status: Unutilized

Comment: 4680 sq. ft., most recent use—storage, off-site use only

Bldg. P-75

Property #: 21199930140

Fort Leavenworth

Leavenworth CO: KS 66027-

Status: Unutilized

Comment: 12129 sq. ft., most recent use—storage, off-site use only

Bldg. P-223

Property #: 21199930146

Fort Leavenworth

Leavenworth CO: KS 66027-

Status: Unutilized

Comment: 7174 sq. ft., most recent use—storage, off-site use only

Bldg. T-236

Property #: 21199930147

Fort Leavenworth

Leavenworth CO: KS 66027-

Status: Unutilized

Comment: 4563 sq. ft., most recent use—storage, off-site use only

Bldg. P-241

Property #: 21199930148

Fort Leavenworth

Leavenworth Co: KS 66027-

Status: Unutilized

Comment: 5920 sq. ft., most recent use—storage, off-site use only

Bldg. T-257

Property #: 21199930149

Fort Leavenworth

Leavenworth Co: KS 66027-

Status: Unutilized

Comment: 5920 sq. ft., most recent use—storage, off-site use only

Kentucky

Building

Bldg. 02813

Property #: 21200030102

Fort Knox

Ft. Knox Co: Hardin KY 40121-

Status: Underutilized

Comment: 60 sq. ft., needs rehab, possible asbestos/lead paint, most recent use—shed, off-site use only

Louisiana

Building

Bldg. 8405, Fort Polk

Property #: 21199640524

Ft. Polk Co: Vernon Parish LA 71459-

Status: Underutilized

Comment: 1029 sq. ft., most recent use—office

Bldg. 8407, Fort Polk

Property #: 21199640525

Ft. Polk Co: Vernon Parish LA 71459-

Status: Unutilized

Comment: 2055 sq. ft., most recent use—admin

Bldg. 8408, Fort Polk

Property #: 21199640526

Ft. Polk Co: Vernon Parish LA 71459-

Status: Underutilized

Comment: 2055 sq. ft., most recent use—admin

Bldg. 8414, Fort Polk

Property #: 21199640527

Ft. Polk Co: Vernon Parish LA 71459-

Status: Underutilized

Comment: 4172 sq. ft., most recent use—barracks

Bldg. 8423, Fort Polk

Property #: 21199640528

Ft. Polk Co: Vernon Parish LA 71459-

Status: Underutilized

Comment: 4172 sq. ft., most recent use—barracks

Bldg. 8424, Fort Polk

Property #: 21199640529

Ft. Polk Co: Vernon Parish LA 71459-

Status: Underutilized

Comment: 4172 sq. ft., most recent use—barracks

Bldg. 8426, Fort Polk

Property #: 21199640530

Ft. Polk Co: Vernon Parish LA 71459-

Status: Underutilized

Comment: 4172 sq. ft., most recent use—barracks

Bldg. 8427, Fort Polk

Property #: 21199640531

Ft. Polk Co: Vernon Parish LA 71459-

Status: Underutilized

Comment: 4172 sq. ft., most recent use—barracks

Bldg. 8428, Fort Polk

Property #: 21199640532

Ft. Polk Co: Vernon Parish LA 71459—

Status: Underutilized

Comment: 4172 sq. ft., most recent use—barracks

Bldg. 8429, Fort Polk

Property #: 21199640533

Ft. Polk Co: Vernon Parish LA 71459—

Status: Underutilized

Comment: 4172 sq. ft., most recent use—barracks

Bldg. 8430, Fort Polk

Property #: 21199640534

Ft. Polk Co: Vernon Parish LA 71459—

Status: Underutilized

Comment: 4172 sq. ft., most recent use—barracks

Bldg. 8431, Fort Polk

Property #: 21199640535

Ft. Polk Co: Vernon Parish LA 71459—

Status: Underutilized

Comment: 4172 sq. ft., most recent use—barracks

Bldg. 8432, Fort Polk

Property #: 21199640536

Ft. Polk Co: Vernon Parish LA 71459—

Status: Underutilized

Comment: 4172 sq. ft., most recent use—barracks

Bldg. 8433, Fort Polk

Property #: 21199640537

Ft. Polk Co: Vernon Parish LA 71459—

Status: Underutilized

Comment: 4172 sq. ft., most recent use—barracks

Bldg. 8446, Fort Polk

Property #: 21199640538

Ft. Polk Co: Vernon Parish LA 71459—

Status: Underutilized

Comment: 2093 sq. ft., most recent use—admin

Bldg. 8449, Fort Polk

Property #: 21199640539

Ft. Polk Co: Vernon Parish LA 71459—

Status: Underutilized

Comment: 2093 sq. ft., most recent use—office

Bldg. 8450, Fort Polk

Property #: 21199640540

Ft. Polk Co: Vernon Parish LA 71459—

Status: Underutilized

Comment: 2093 sq. ft., most recent use—admin

Bldg. 8458, Fort Polk

Property #: 21199640542

Ft. Polk Co: Vernon Parish LA 71459—

Status: Underutilized

Comment: 4172 sq. ft., most recent use—barracks

Bldg. 8459, Fort Polk

Property #: 21199640543

Ft. Polk Co: Vernon Parish LA 71459—

Status: Underutilized

Comment: 4172 sq. ft., most recent use—barracks

Bldg. 8460, Fort Polk

Property #: 21199640544

Ft. Polk Co: Vernon Parish LA 71459—

Status: Underutilized

Comment: 4172 sq. ft., most recent use—barracks

Bldg. 8461, Fort Polk

Property #: 21199640545

Ft. Polk Co: Vernon Parish LA 71459-

Status: Underutilized

Comment: 4172 sq. ft., most recent use—barracks

Bldg. 8462, Fort Polk

Property #: 21199640546

Ft. Polk Co: Vernon Parish LA 71459-

Status: Underutilized

Comment: 4172 sq. ft., most recent use—barracks

Bldg. 8463, Fort Polk

Property #: 21199640547

Ft. Polk Co: Vernon Parish LA 71459-

Status: Underutilized

Comment: 4172 sq. ft., most recent use—barracks

Bldg. 8501, Fort Polk

Property #: 21199640548

Ft. Polk Co: Vernon Parish LA 71459-

Status: Underutilized

Comment: 1687 sq. ft., most recent use—office

Bldg. 8502, Fort Polk

Property #: 21199640549

Ft. Polk Co: Vernon Parish LA 71459-

Status: Underutilized

Comment: 1029 sq. ft., most recent use—office

Bldg. 8541, Fort Polk

Property #: 21199640551

Ft. Polk Co: Vernon Parish LA 71459-

Status: Underutilized

Comment: 4172 sq. ft., most recent use—barracks

Bldg. 8542, Fort Polk

Property #: 21199640552

Ft. Polk Co: Vernon Parish LA 71459-

Status: Underutilized

Comment: 4172 sq. ft., most recent use—barracks

Bldg. 8543, Fort Polk

Property #: 21199640553

Ft. Polk Co: Vernon Parish LA 71459-

Status: Underutilized

Comment: 4172 sq. ft., most recent use—barracks

Bldg. 8545, Fort Polk

Property #: 21199640555

Ft. Polk Co: Vernon Parish LA 71459-

Status: Underutilized

Comment: 4172 sq. ft., most recent use—barracks

Bldg. 8546, Fort Polk

Property #: 21199640556

Ft. Polk Co: Vernon Parish LA 71459-

Status: Underutilized

Comment: 4172 sq. ft., most recent use—barracks

Bldg. 8547, Fort Polk

Property #: 21199640557

Ft. Polk Co: Vernon Parish LA 71459-

Status: Underutilized

Comment: 4172 sq. ft., most recent use—barracks

Bldg. 8548, Fort Polk

Property #: 21199640558

Ft. Polk Co: Vernon Parish LA 71459-

Status: Underutilized

Comment: 4172 sq. ft., most recent use—barracks

Bldg. 8549, Fort Polk

Property #: 21199640559

Fort Polk Co: Vernon Parish LA 71459-

Status: Underutilized

Comment: 4172 sq. ft., most recent use—barracks

Maryland

Building

Bldg. 370

Property #: 21199730256

Fort Meade

Ft. Meade Co: Anne Arundel MD 20755-5115

Status: Unutilized

Comment: 19583 sq. ft., most recent use—NCO club, possible asbestos/ead paint

Bldg. 2472

Property #: 21199740306

Fort George G. Meade

Ft. Meade Co: Anne Arundel MD 20755-5115

Status: Unutilized

Comment: 7670 sq. ft., presence of asbestos/lead paint, most recent use—admin., off-site use only

Bldg. 4700

Property #: 21199740309

Fort George G. Meade

Ft. Meade Co: Anne Arundel MD 20755-5115

Status: Unutilized

Comment: 36619 sq. ft., presence of asbestos/lead paint, most recent use—admin., off-site use only

Bldg. 6294

Property #: 21199810302

Fort Meade

Ft. Meade Co: Anne Arundel MD 20755-5115

Status: Unutilized

Comment: 4720 sq. ft., needs rehab, presence of asbestos/lead paint, most recent use—custodial, off-site use only

Bldg. 2478

Property #: 21199940026

Fort George G. Meade

Ft. Meade Co: Anne Arundel MD 20755-5115

Status: Unutilized

Comment: 2534 sq. ft., needs rehab, presence of asbestos, most recent use—health clinic, off-site use only

Bldg. 2845

Property #: 21199940027

Fort George G. Meade

Ft. Meade Co: Anne Arundel MD 20755-5115

Status: Unutilized

Comment: 6104 sq. ft., needs rehab, presence of asbestos/lead paint, most recent use—admin., off-site use only

Bldg. 176

Property #: 21200020187

Fort George G. Meade

Ft. Meade Co: Anne Arundel MD 20755-5115

Status: Unutilized

Comment: 2441, sq. ft., presence of asbestos/lead paint, most recent use—storage, off-site use only

Bldg. 2831

Property #: 21200030103

Ft. George G. Meade

Ft. Meade Co: Anne Arundel MD 20755-5115

Status: Unutilized

Comment: 9652 sq. ft., presence of asbestos/lead paint, most recent use—dental clinic, off-site use only

Land

13 acres

Property #: 21199930151

Ft. George G. Meade

west side of Rt 175

Ft. Meade Co: Anne Arundel MD 20755-5111

Status: Underutilized

Comment: small paved area, remainder wooded

Missouri

Building

Bldg. T599

Property #: 21199230260

Fort Leonard Wood

Ft. Leonard Wood Co: Pulaski MO 65473-5000

Status: Underutilized

Comment: 18270 sq. ft., 1-story, presence of asbestos, most recent use—storehouse, off-site use only

Bldg. T2171

Property #: 21199340212

Fort Leonard Wood

Fort Leonard Wood CO: Pulaski MO 65473-5000

Status: Unutilized

Comment: 1296 sq. ft., 1-story wood frame, most recent use—administrative, no handicap fixtures, lead base paint, off-site use only

Bldg. 6822

Property #: 21199340219

Fort Leonard Wood

Fort Leonard Wood CO: Pulaski MO 65473-5000

Status: Underutilized

Comment: 4000 sq. ft., 1-story wood frame, most recent use—storage, no handicap fixtures, off-site use only

Bldg. T1497

Property #: 21199420441

Fort Leonard Wood

Fort Leonard Wood CO: Pulaski MO 65473-5000

Status: Underutilized

Comment: 4720 sq. ft., 2-story, presence of lead base paint, most recent use—admin/gen. purpose, off-site use only

Bldg. T2139

Property #: 21199420446

Fort Leonard Wood

Fort Leonard Wood CO: Pulaski MO 65473-5000

Status: Underutilized

Comment: 3663 sq. ft., 1-story, presence of lead base paint, most recent use—admin/gen. purpose, off-site use only

Bldg. T2191

Property #: 21199440334

Fort Leonard Wood

Fort Leonard Wood CO: Pulaski MO 65473-5000

Status: Excess

Comment: 4720 sq. ft., 2-story wood frame, off-site removal only, to be vacated 8/95, lead based paint, most recent use—barracks

Bldg. T2197

Property #: 21199440335

Fort Leonard Wood

Fort Leonard Wood CO: Pulaski MO 65473-5000

Status: Excess

Comment: 4720 sq. ft., 2 story wood frame, off-site removal only, to be vacated 8/95, lead based paint, most recent use—barracks

Bldg. T590

Property #: 21199510110

Fort Leonard Wood

Fort Leonard Wood CO: Pulaski MO 65473-

Status: Excess

Comment: 3263 sq. ft., 1-story, wood frame, most recent use—admin., to be vacated 8/95, off-site use only

Bldg. T2385

Property #: 21199510115

Fort Leonard Wood

Fort Leonard Wood CO: Pulaski MO 65473-

Status: Excess

Comment: 3158 sq. ft., 1-story, wood frame, most recent use—admin., to be vacated 8/95, off-site use only

Bldgs. T-2340 thru T2343

Property #: 21199710138

Fort Leonard Wood

Fort Leonard Wood CO: Pulaski MO 65473-5000

Status: Underutilized

Comment: 9267 sq. ft. each, most recent use—storage/general purpose

Bldg. 1226

Property #: 21199730275

Fort Leonard Wood

Fort Leonard Wood CO: Pulaski MO 65473-5000

Status: Unutilized

Comment: 1600 sq. ft., presence of asbestos/lad paint, most recent use—admin., off-site use only

Bldg. 1271

Property #: 21199730276

Fort Leonard Wood

Fort Leonard Wood CO: Pulaski MO 65473-5000

Status: Unutilized

Comment: 2360 sq. ft., presence of asbestos/lead paint, most recent use—storage, off-site use only

Bldg. 1280

Property #: 21199730277

Fort Leonard Wood

Fort Leonard Wood CO: Pulaski MO 65473-5000

Status: Unutilized

Comment: 1144 sq. ft., presence of asbestos/lead paint, most recent use—classroom, off-site use only

Bldg. 1281

Property #: 21199730278

Fort Leonard Wood

Ft. Leonard Wood Co: Pulaski MO 65473-5000

Status: Unutilized

Comment: 2360 sq. ft., presence of asbestos/lead paint, most recent use—classroom, off-site use only

Bldg. 1282

Property #: 21199730279

Fort Leonard Wood

Ft. Leonard Wood Co: Pulaski MO 65473-5000

Status: Unutilized

Comment: 4720 sq. ft., presence of asbestos/lead paint, most recent use—barracks, off-site use only

Bldg. 1283

Property #: 21199730280

Fort Leonard Wood

Ft. Leonard Wood Co: Pulaski MO 65473-5000

Status: Unutilized

Comment: 1296 sq. ft., presence of asbestos/lead paint, most recent use—storage, off-site use only

Bldg. 1284

Property #: 21199730281

Fort Leonard Wood

Ft. Leonard Wood Co: Pulaski MO 65473-5000

Status: Unutilized

Comment: 4720 sq. ft., presence of asbestos/lead paint, most recent use—admin., off-site use only

Bldg. 1285

Property #: 21199730282

Fort Leonard Wood

Ft. Leonard Wood Co: Pulaski MO 65473-5000

Status: Unutilized

Comment: 4720 sq. ft., presence of asbestos/lead paint, most recent use—barracks, off-site use only

Bldg. 1286

Property #: 21199730283

Fort Leonard Wood

Ft. Leonard Wood Co: Pulaski MO 65473-5000

Status: Unutilized

Comment: 1296 sq. ft., presence of asbestos/lead paint, most recent use—admin., off-site use only

Bldg. 1287

Property #: 21199730284

Fort Leonard Wood

Ft. Leonard Wood Co: Pulaski MO 65473-5000

Status: Unutilized

Comment: 4720 sq. ft., presence of asbestos/lead paint, most recent use—barracks, off-site use only

Bldg. 1288

Property #: 21199730285

Fort Leonard Wood

Ft. Leonard Wood Co: Pulaski MO 65473-5000

Status: Unutilized

Comment: 2360 sq. ft., presence of asbestos/lead paint, most recent use—dining facility, off-site use only

Bldg. 1289

Property #: 21199730286

Fort Leonard Wood

Ft. Leonard Wood Co: Pulaski MO 65473-5000

Status: Unutilized

Comment: 1144 sq. ft., presence of asbestos/lead paint, most recent use—classroom, off-site use only

Bldg. 430

Property #: 21199810305

Fort Leonard Wood

Ft. Leonard Wood Co: Pulaski MO 65473-5000

Status: Unutilized

Comment: 4100 sq. ft., presence of asbestos/lead paint, most recent use—Red Cross facility, off-site use only

Bldg. 758

Property #: 21199810306

Fort Leonard Wood

Ft. Leonard Wood Co: Pulaski MO 65473-5000

Status: Unutilized

Comment: 2400 sq. ft., presence of asbestos/lead paint, most recent use—classroom, off-site use only

Bldg. 759

Property #: 21199810307

Fort Leonard Wood

Ft. Leonard Wood Co: Pulaski MO 65473-5000

Status: Unutilized

Comment: 2400 sq. ft., presence of asbestos/lead paint, most recent use—classroom, off-site use only

Bldg. 760

Property #: 21199810308

Fort Leonard Wood

Ft. Leonard Wood Co: Pulaski MO 65473-5000

Status: Unutilized

Comment: 2400 sq. ft., presence of asbestos/lead paint, off-site use only

Bldg. 761-766

Property #: 21199810309

Fort Leonard Wood

Ft. Leonard Wood Co: Pulaski MO 65473-5000

Status: Unutilized

Comment: 2400 sq. ft. each, presence of asbestos/lead paint, most recent use—classroom, off-site use only

Bldg. 1650

Property #: 21199810311

Fort Leonard Wood

Ft. Leonard Wood Co: Pulaski MO 65473-5000

Status: Unutilized

Comment: 1676 sq. ft., presence of asbestos/lead paint, most recent use—union hall, off-site use only

Bldg. 2111

Property #: 21199810312

Fort Leonard Wood

Ft. Leonard Wood Co: Pulaski MO 65473-5000

Status: Unutilized

Comment: 1600 sq. ft., presence of asbestos/lead paint, most recent use—union hall, off-site use only

Bldg. 2170

Property #: 21199810313

Fort Leonard Wood

Ft. Leonard Wood Co: Pulaski MO 65473-5000

Status: Unutilized

Comment: 1296 sq. ft., presence of asbestos/lead paint, most recent use—admin., off-site use only

Bldg. 2204

Property #: 21199810315

Fort Leonard Wood

Ft. Leonard Wood Co: Pulaski MO 65473-5000

Status: Unutilized

Comment: 3525 sq. ft., presence of asbestos/lead paint, most recent use—admin., off-site use only

Bldg. 2225

Property #: 21199810316

Fort Leonard Wood

Ft. Leonard Wood Co: Pulaski MO 65473-5000

Status: Unutilized

Comment: 820 sq. ft., presence of lead paint, most recent use—storage, off-site use only

Bldg. 2271

Property #: 21199810317

Fort Leonard Wood

Ft. Leonard Wood Co: Pulaski MO 65473-5000

Status: Unutilized

Comment: 256 sq. ft., presence of lead paint, most recent use—storage, off-site use only

Bldg. 2275

Property #: 21199810318

Fort Leonard Wood

Ft. Leonard Wood Co: Pulaski MO 65473-5000

Status: Unutilized

Comment: 225 sq. ft., presence of lead paint, most recent use—storage, off-site use only

Bldg. 2318

Property #: 21199810322

Fort Leonard Wood

Ft. Leonard Wood Co: Pulaski MO 65473-5000

Status: Unutilized

Comment: 9267 sq. ft., presence of asbestos/lead paint, most recent use—storage, off-site use only

Bldg. 4199

Property #: 21199810327

Fort Leonard Wood

Ft. Leonard Wood Co: Pulaski MO 65473-5000

Status: Unutilized

Comment: 2400 sq. ft., presence of asbestos/lead paint, most recent use—storage, off-site use only

Bldg. 386

Property #: 21199820163

Fort Leonard Wood

Ft. Leonard Wood Co: Pulaski MO 65473-5000

Status: Unutilized

Comment: 4902 sq. ft., presence of asbestos/lead paint, most recent use—fire station, off-site use only

Bldg. 401

Property #: 21199820164

Fort Leonard Wood

Ft. Leonard Wood Co: Pulaski MO 65473-5000

Status: Unutilized

Comment: 9567 sq. ft., presence of asbestos/lead paint, most recent use—admin., off-site use only

Bldg. 856

Property #: 21199820166

Fort Leonard Wood

Ft. Leonard Wood Co: Pulaski MO 65473-5000

Status: Unutilized

Comment: 2400 sq. ft., presence of asbestos/lead paint, most recent use—storage, off-site use only

Bldg. 859

Property #: 21199820167

Fort Leonard Wood

Ft. Leonard Wood Co: Pulaski MO 65473-5000

Status: Unutilized

Comment: 2400 sq. ft., presence of asbestos/lead paint, most recent use—storage, off-site use only

Bldg. 1242

Property #: 21199820168

Fort Leonard Wood

Ft. Leonard Wood Co: Pulaski MO 65473-5000

Status: Unutilized

Comment: 2360 sq. ft., presence of asbestos/lead paint, most recent use—storage, off-site use only

Bldg. 1265

Property #: 21199820169

Fort Leonard Wood

Ft. Leonard Wood Co: Pulaski MO 65473-5000

Status: Unutilized

Comment: 2360 sq. ft., presence of asbestos/lead paint, most recent use—storage, off-site use only

Bldg. 1267

Property #: 21199820170

Fort Leonard Wood

Ft. Leonard Wood Co: Pulaski MO 65473-5000

Status: Unutilized

Comment: 1144 sq. ft., presence of asbestos/lead paint, most recent use—admin., off-site use only

Bldg. 1272

Property #: 21199820171

Fort Leonard Wood

Ft. Leonard Wood Co: Pulaski MO 65473-5000

Status: Unutilized

Comment: 1144 sq. ft., presence of asbestos/lead paint, most recent use—admin., off-site use only

Bldg. 1277

Property #: 21199820172

Fort Leonard Wood

Ft. Leonard Wood Co: Pulaski MO 65473-5000

Status: Unutilized

Comment: 1144 sq. ft., presence of asbestos/lead paint, most recent use—admin., off-site use only

Bldgs. 2142, 2145, 2151-2153

Property #: 21199820174

Fort Leonard Wood

Ft. Leonard Wood Co: Pulaski MO 65473-5000

Status: Unutilized

Comment: 4720 sq. ft., presence of asbestos/lead paint, most recent use—barracks, off-site use only

Bldg. 2150

Property #: 21199820175

Fort Leonard Wood

Ft. Leonard Wood Co: Pulaski MO 65473-5000

Status: Unutilized

Comment: 2892 sq. ft., presence of asbestos/lead paint, most recent use—dayroom, off-site use only

Bldg. 2155

Property #: 21199820176

Fort Leonard Wood

Ft. Leonard Wood Co: Pulaski MO 65473-5000

Status: Unutilized

Comment: 1296 sq. ft., presence of asbestos/lead paint, most recent use—admin., off-site use only

Bldgs. 2156, 2157, 2163, 2164

Property #: 21199820177

Fort Leonard Wood

Ft. Leonard Wood Co: Pulaski MO 65473-5000

Status: Unutilized

Comment: 4720 sq. ft., presence of asbestos/lead paint, most recent use—barracks, off-site use only

Bldg. 2165

Property #: 21199820178

Fort Leonard Wood

Ft. Leonard Wood Co: Pulaski MO 65473-5000

Status: Unutilized

Comment: 2892 sq. ft., presence of asbestos/lead paint, most recent use—dayroom, off-site use only

Bldg. 2167

Property #: 21199820179

Fort Leonard Wood

Ft. Leonard Wood Co: Pulaski MO 65473-5000

Status: Unutilized

Comment: 1296 sq. ft., presence of asbestos/lead paint, most recent use—admin., off-site use only

Bldgs. 2169, 2181, 2182, 2183

Property #: 21199820180

Fort Leonard Wood

Ft. Leonard Wood Co: Pulaski MO 65473-5000

Status: Unutilized

Comment: 4720 sq. ft., presence of asbestos/lead paint, most recent use—barracks, off-site use only

Bldg. 2186

Property #: 21199820181

Fort Leonard Wood

Ft. Leonard Wood Co: Pulaski MO 65473-5000

Status: Unutilized

Comment: 1296 sq. ft., presence of asbestos/lead paint, most recent use—admin., off-site use only

Bldg. 2187

Property #: 21199820182

Fort Leonard Wood

Ft. Leonard Wood Co: Pulaski MO 65473-5000

Status: Unutilized

Comment: 2892 sq. ft., presence of asbestos/lead paint, most recent use—dayroom, off-site use only

Bldgs. 2192, 2196, 2198

Property #: 21199820183

Fort Leonard Wood

Ft. Leonard Wood Co: Pulaski MO 65473-5000

Status: Unutilized

Comment: 4720 sq. ft., presence of asbestos/lead paint, most recent use—barracks, off-site use only

Bldgs. 2304, 2306

Property #: 21199820184

Fort Leonard Wood

Ft. Leonard Wood Co: Pulaski MO 65473-5000

Status: Unutilized

Comment: 1625 sq. ft., presence of asbestos/lead paint, most recent use—storage, off-site use only

Bldg. 12651

Property #: 21199820186

Fort Leonard Wood

Ft. Leonard Wood Co: Pulaski MO 65473-5000

Status: Unutilized

Comment: 240 sq. ft., presence of lead paint, off-site use only

Bldg. 1448

Property #: 21199830327

Fort Leonard Wood

Ft. Leonard Wood Co: Pulaski MO 65473-5000

Status: Unutilized

Comment: 8450 sq. ft., presence of asbestos/lead paint, most recent use—training, off-site use only

Bldg. 2210

Property #: 21199830328

Fort Leonard Wood

Ft. Leonard Wood Co: Pulaski MO 65473-5000

Status: Unutilized

Comment: 808 sq. ft., presence of asbestos/lead paint, most recent use—storage, off-site use only

Bldg. 2270

Property #: 21199830329

Fort Leonard Wood

Ft. Leonard Wood Co: Pulaski MO 65473-5000

Status: Unutilized

Comment: 256 sq. ft., presence of asbestos/lead paint, most recent use—storage, off-site use only

Bldg. 6036

Property #: 21199910101

Fort Leonard Wood

Ft. Leonard Wood Co: Pulaski MO 65473-5000

Status: Underutilized

Comment: 240 sq. ft., off-site use only

Bldg. 9110

Property #: 21199910108

Fort Leonard Wood

Pulaski Co: MO 65473-8994

Status: Underutilized

Comment: 6498 sq. ft., presence of asbestos/lead paint, most recent use—family, quarters, off-site use only

Bldg. 9113, 9115, 9117

Property #: 21199910109

Fort Leonard Wood

Pulaski Co: MO 65473-8994

Status: Underutilized

Comment: 4332 sq. ft., presence of asbestos/lead paint, most recent use—family, quarters, off-site use only

Bldg. 493

Property #: 21199930158

Fort Leonard Wood

Ft. Leonard Wood Co: Pulaski MO 65473-

Status: Unutilized

Comment: 26936 sq. ft., concrete presence of asbestos/lead paint, most recent use—store, off-site use only

Bldg. 1178

Property #: 21200040058

Fort Leonard Wood

Ft. Leonard Wood Co: Pulaski MO 65473-8994

Status: Unutilized

Comment: 3203 sq. ft., most recent use—fire station, off-site use only

New Hampshire

Building

Bldg. KG001

Property #: 21200030104

Grenier Field USARC

Manchester Co: Rockingham NH 03103-7474

Status: Excess

Comment: 18994 sq. ft., presence of asbestos, most recent use—classroom, off-site use only

Bldg. KG002

Property #: 21200030105

Grenier Field USARC

Manchester Co: Rockingham NH 03103-7474

Status: Excess

Comment: 20014 sq. ft., presence of asbestos, most recent use—storage/store, off-site use only

Bldg. KG003

Property #: 21200030106

Grenier Field USARC

Manchester Co: Rockingham NH 03103-7474

Status: Excess

Comment: 3458 sq. ft., presence of asbestos, most recent use—veh. maint., off-site use only

Bldg. KG005

Property #: 21200030107

Grenier Field USARC

Manchester Co: Rockingham NH 03103-7474

Status: Excess

Comment: 3005 sq. ft., presence of asbestos, most recent use—storage, off-site use only

New Jersey

Building

Bldg. 178

Property #: 21199740312

Armament R&D Engineering Center

Picatinny Arsenal Co: Morris NJ 07806-5000

Status: Unutilized

Comment: 2067 sq. ft., most recent use—research, off-site use only

Bldg. 642

Property #: 21199740314

Armament R&D Engineering Center

Picatinny Arsenal Co: Morris NJ 07806-5000

Status: Unutilized

Comment: 280 sq. ft., most recent use—explosives testing, off-site use only

Bldg. 732

Property #: 21199740315

Armament R&D Engineering Center

Picatinny Arsenal Co: Morris NJ 07806-5000

Status: Untilized

Comment: 9077 sq. ft., need rehab., most recent use—storage, off-site use only

Bldg. 3117

Property #: 21199740322

Armament R&D Engineering Center

Picatinny Arsenal Co: Morris NJ 07806-5000

Status: Unutilized

Comment: 100 sq. ft., most recent use—sentry station, off-site use only

Bldg. Bldg. 3219

Property #: 21199740326

Armament R&D Engineering Center

Picatinny Arsenal Co: Morris NJ 07806-5000

Status: Unutilized

Comment: 288 sq. ft., most recent use—snack bar, off-site use only

New Mexico

Building

9 MFH Units

Property #: 21200040062

White Sands Missile Range

White Sands Co: Dona Ana NM 88002-

Location: 11201, 12210, 11214, 11217, 11220, 11223, 11244, 11247, 11264

Status: Unutilized

Comment: 1620 sq. ft. each, major repairs required, presence of asbestos, most recent use—housing, off-site use only

19 MFH Units

Property #: 21200040063

White Sands Missile Range

White Sands Co: Dona Ana NM 88002-

Location: 11202, 11209, 11212, 11216, 11219, 11222, 11224, 11227, 11236, 11241, 11242, 11245, 11249, 11253, 11257, 11260, 11263, 11270, 11273

Status: Unutilized

Comment: 1606 sq. ft. each, major repairs required, presence of asbestos, most recent use—housing, off-site use only

34 MFU Units

Property #: 21200040064

White Sands Missile Range

White Sands Co: Dona Ana NM 88002-

Status: Unutilized

Comment: 1512 sq. ft. each, major repairs required, presence of asbestos, most recent use—housing, off-site use only

12 MFH Units

Property #: 21200040065

White Sands Missile Range

White Sands Co: Dona Ana NM 88002-

Location: 11204, 11207, 11226, 11229, 11232, 11235, 11238, 11251, 11255, 11258, 11261, 11266

Status: Unutilized

Comment: 1590 sq. ft. each, major repairs required, presence of asbestos, most recent use—housing, off-site use only

Bldg. 23644

Property #: 21200040066

White Sands Missile Range

White Sands Co: Dona Ana NM 88002-

Status: Unutilized

Comment: 80 sq. ft., poor condition, presence of asbestos, most recent use—equip. facility, off-site use only

New York

Building

Bldg. 801

Property #: 21200030108

US Military Academy

Highlands Co. Orange NY 10996-1592

Status: Unutilized

Comment: 27726 sq. ft., needs repair, possible lead paint, most recent use—warehouse, off-site use only

Bldgs. 109, 110

Property #: 21200040067

Fort Hamilton

Brooklyn Co: NY 11252-

Status: Unutilized

Comment: 39723 sq. ft., needs repair, presence of asbestos, most recent use—guest house, off-site use only

Bldg. T-2276

Property #: 21200040069

Fort Drum

Ft. Drum Co: Jefferson NY 13602-

Status: Unutilized

Comment: 5310 sq. ft., needs repair, most recent use—officer's quarters, off-site use only

Land

Land—6.965 Acres

Property #: 21199540018

Dix Avenue

Queensbury Co: Warren, NY 12801-

Status: Unutilized

Comment: 6.96 acres of vacant land, located in industrial area, potential utilities

300 acres

Property #: 21200040070

U.S. Military Academy

Highlands Co: Orange NY 10996-1592

Status: Unutilized

Comment: approx. 300 acres, contains wetlands and rare flora

Oklahoma

Building

Bldg. T-838, Fort Sill

Property #: 21199220609

838 Macomb Road

Lawton Co: Comanche OK 73503-5100

Status: Unutilized

Comment: 151 sq. ft., wood frame, 1 story, off-site removal only, most recent use—vet facility (quarantine stable)

Bldg. T-954, Fort Sill

Property #: 21199240659

954 Quinette Road

Lawton Co: Comanche OK 73503-5100

Status: Unutilized

Comment: 3571 sq. ft., 1 story wood frame, needs rehab, off-site use only, most recent use—motor repair shop

Bldg. T-3325, Fort Sill

Property #: 21199240681

3325 Naylor Road

Lawton Co: Comanche OK 73503-5100

Status: Unutilized

Comment: 8832 sq. ft., 1 story wood frame, needs rehab, off-site use only, most recent use—warehouse

Bldg. T1652, Fort Sill

Property #: 21199330380

Lawton Co: Comanche OK 73503-5100

Status: Unutilized

Comment: 1505 sq. ft., 1-story wood, possible asbestos, most recent use—storage, off-site use only

Bldg. T5637, Fort Sill

Property #: 21199330419

Lawton Co: Comanche OK 73503-5100

Status: Unutilized

Comment: 1606 sq. ft., 1 story, possible asbestos, most recent use—storage, off-site use only

Bldg. T-4226

Property #: 21199440384

Fort Sill

Lawton Co: Comanche OK 73503-

Status: Unutilized

Comment: 114 sq. ft., 1-story wood frame, possible asbestos and lead paint, most recent use—storage, off-site use only

Bldg. P-1015, Fort Sill

Property #: 21199520197

Lawton Co: Comanche OK 73501-5100

Status: Unutilized

Comment: 15402 sq. ft., 1-story, most recent use—storage, off-site use only

Bldg. P-366, Fort Sill

Property #: 21199610740

Lawton Co: Comanche OK 73503-

Status: Unutilized

Comment: 482 sq. ft., possible asbestos, most recent use—storage, off-site use only

Bldg. T-2952

Property #: 21199710047

Fort Sill

Lawton Co: Comanche OK 73503-5100

Status: Unutilized

Comment: 4327 sq. ft., possible asbestos and lead paint, most recent use—motor repair shop, off-site use only

Bldg. P-5042

Property #: 21199710066

Fort Sill

Lawton Co: Comanche OK 73503-5100

Status: Unutilized

Comment: 119 sq. ft., possible asbestos and lead paint, most recent use—heatplant, off-site use only

6 Buildings

Property #: 21199710085

Fort Sill

Lawton Co: Comanche OK 73503-5100

Location: P-6449, S-6451, T-6452, P-6460, P-6463, S-6450

Status: Unutilized

Comment: various sq. ft., possible asbestos and lead paint, most recent use—range support, off-site use only

4 Buildings

Property #: 21199710086

Fort Sill

Lawton Co: Comanche OK 73503-5100

Location: T-6465, T-6466, T-6467, T-6468

Status: Unutilized

Comment: various sq. ft., possible asbestos and leadpaint, most recent use—range support, off-site use only,

Building P-6539

Property #: 21199710087

Fort Sill

Lawton Co: Comanche OK 73503-5100

Status: Unutilized

Comment: 1483 sq. ft., possible asbestos and leadpaint, most recent use—office, off-site use only,

Bldg. T-208

Property #: 21199730344

Fort Sill

Lawton Co: Comanche OK 73503-5100

Status: Unutilized

Comment: 20525 sq. ft., possible asbestos/lead paint, most recent use—training center, off-site use only,

Bldg. T-214

Property #: 21199730346

Fort Sill

Lawton Co: Comanche OK 73503-5100

Status: Unutilized

Comment: 6332 sq. ft., possible asbestos/lead paint, most recent use—training center, off-site use only,

Bldgs. T-215, T-216

Property #: 21199730347

Fort Sill

Lawton Co: Comanche OK 73503-5100

Status: Unutilized

Comment: 6300 sq. ft. each, possible asbestos/lead paint, most recent use—storage, off-site use only,

Bldg. T-217

Property #: 21199730348

Fort Sill

Lawton Co: Comanche OK 73503-5100

Status: Unutilized

Comment: 6394 sq. ft., possible asbestos/lead paint, most recent use—training center, off-site use only,

Bldg. T-810

Property #: 21199730350

Fort Sill

Lawton Co: Comanache OK 73503-5100

Status: Unutilized

Comment: 7205 sq. ft., possible asbestos/lead paint, most recent use—hay storage, off-site use only,

Bldgs. T-837, T-839

Property #: 21199730351

Fort Sill

Lawton Co: Comanche OK 73503-5100

Status: Unutilized

Comment: approx. 100 sq. ft. each, possible asbestos/lead paint, most recent use—storage, off-site use only,

Bldg. P-934

Property #: 21199730353

Fort Sill

Lawton Co: Comanche OK 73503-5100

Status: Unutilized

Comment: 402 sq. ft., possible asbestos/lead paint, most recent use—storage, off-site use only,

Bldg. T-1177

Property #: 21199730356]

Fort Sill

Lawton Co: Comanche OK 73503-5100

Status: Unutilized

Comment: 183 sq. ft., possible asbestos/lead paint, most recent use—snack bar, off-site use only,

Bldgs. T-1468, T-1469

Property #: 21199730357

Fort Sill

Lawton Co: Comanche OK 73503-5100

Status: Unutilized

Comment: 114 sq. ft., possible asbestos/lead paint, most recent use—storage, off-site use only,

Bldg. T-1470

Property #: 21199730358

Fort Sill

Lawton Co: Comanche OK 73503-5100

Status: Unutilized

Comment: 3120 sq. ft., possible asbestos/lead paint, most recent use—storage, off-site use only,

Bldg. T-1940

Property #: 21199730360

Fort Sill

Lawton Co: Comanche OK 73503-5100

Status: Unutilized

Comment: 1400 sq. ft., possible asbestos/lead paint, most recent use—storage, off-site use only

Bldgs. T-1954, T-2022

Property #: 21199730362

Fort Sill

Lawton Co: Comanche OK 73503-5100

Status: Unutilized

Comment: approx. 100 sq. ft., each, possible asbestos/lead paint, most recent use—storage, off-site use only

Bldg. T-2180

Property #: 21199730363

Fort Sill

Lawton Co: Comanche OK 73503-5100

Status: Unutilized

Comment: possible asbestos/lead paint, most recent use—vehicle maint. facility, off-site use only

Bldg. T-2184

Property #: 21199730364

Fort Sill

Lawton Co: Comanche OK 73503-5100

Status: Unutilized

Comment: 454 sq. ft., possible asbestos/lead paint, most recent use—storage, off-site use only

Bldg. T-2185

Property #: 21199730365

Fort Sill

Lawton Co: Comanche OK 73503-5100

Status: Unutilized

Comment: 151 sq. ft., possible asbestos/lead paint, most recent use—fuel storage, off-site use only

Bldgs. T-2186, T-2188, T-2189

Property #: 21199730366

Fort Sill

Lawton Co: Comanche OK 73503-5100

Status: Unutilized

Comment: 1656—3583 sq. ft., possible asbestos/lead paint, most recent use—vehicle maint. shop, off-site use only

Bldg. T-2187

Property #: 21199730367

Fort Sill

Lawton Co: Comanche OK 73503-5100

Status: Unutilized

Comment: 1673 sq. ft., possible asbestos/lead paint, most recent use—storage, off-site use only

Bldg. T-2209

Property #: 21199730368

Fort Sill

Lawton Co: Comanche OK 73503-5100

Status: Unutilized

Comment: 1257 sq. ft., possible asbestos/lead paint, most recent use—storage, off-site use only

Bldgs. T-2240, T-2241

Property #: 21199730369

Fort Sill

Lawton Co: Comanche OK 73503-5100

Status: Unutilized

Comment: approx. 9500 sq. ft., possible asbestos/lead paint, most recent use—storage, off-site use only

Bldgs. T-2262, T-2263

Property #: 21199730370

Fort Sill

Lawton Co: Comanche OK 73503-5100

Status: Unutilized

Comment: approx. 3100 sq. ft., possible asbestos/lead paint, most recent use—maint. shop, off-site use only

Bldgs. T-2271, T-2272

Property #: 21199730371

Fort Sill

Lawton Co: Comanche OK 73503-5100

Status: Unutilized

Comment: 232 sq. ft., possible asbestos/lead paint, most recent use—storage, off-site use only

Bldgs. T-2291 thru T-2296

Property #: 21199730372

Fort Sill

Lawton Co: Comanche OK 73503-5100

Status: Unutilized

Comment: 400 sq. ft., possible asbestos/lead paint, most recent use—storage, off-site use only

5 Bldgs.

Property #: 21199730373

Fort Sill

T-2300, T-2301, T-2303, T-2306, T-2307

Lawton Co: Comanche OK 73503-5100

Status: Unutilized

Comment: various sq. ft., possible asbestos/lead paint, most recent use—storage, off-site use only,

Bldg. T-2406

Property #: 21199730374

Fort Sill

Lawton Co: Comanche OK 73503-5100

Status: Unutilized

Comment: 114 sq. ft., possible asbestos/lead paint, most recent use—storage, off-site use only,

3 Bldgs.

Property #: 21199730376

Fort Sill

T-2430, T-2432, T-2435

Lawton Co: Comanche OK 73503-5100

Status: Unutilized

Comment: approx. 8,900 sq. ft., possible asbestos/lead paint, most recent use—office, off-site use only,

Bldg. T-2434

Property #: 21199730377

Fort Sill

Lawton Co: Comanche OK 73503-5100

Status: Unutilized

Comment: 8997 sq. ft., possible asbestos/lead paint, most recent use—vehicle maint. shop, off-site use only,

Bldgs. T-3001, T-3006

Property #: 21199730383

Fort Sill

Lawton Co: Comanche OK 73503-5100

Status: Unutilized

Comment: approx. 9300 sq. ft., possible asbestos/lead paint, most recent use—storage, off-site use only,

Bldg. T-3025.

Property #: 21199730384

Fort Sill

Lawton Co: Comanche OK 73503-5100

Status: Unutilized

Comment: 5259 sq. ft., possible asbestos/lead paint, most recent use—museum, off-site use only,

Bldg. T-3314

Property #: 21199730385

Fort Sill

Lawton Co: Comanche OK 73503-5100

Status: Unutilized

Comment: 229 sq. ft., possible asbestos/lead paint, most recent use—office, off-site use only,

Bldg. T-3323

Property #: 21199730387

Fort Sill

Lawton Co: Comanche OK 73503-5100

Status: Unutilized

Comment: 8832 sq. ft., possible asbestos/lead paint, most recent use—office, off-site use only,

Bldgs. T-4021, T-4022

Property #: 21199730389

Fort Sill

Lawton Co: Comanche OK 73503-5100

Status: Unutilized

Comment: 442-869 sq. ft., possible asbestos/lead paint, most recent use—storage, off-site use only,

Bldg. T-4065

Property #: 21199730390

Fort Sill

Lawton Co: Comanche OK 73503-5100

Status: Unutilized

Comment: 3145 sq. ft., possible asbestos/lead paint, most recent use—maint. shop, off-site use only,

Bldg. T-4067

Property #: 21199730391

Fort Sill

Lawton Co: Comanche OK 73503-5100

Status: Unutilized

Comment: 1032 sq. ft., possible asbestos/lead paint, most recent use—storage, off-site use only,

Bldg. T-4281

Property #: 21199730392

Fort Sill

Lawton Co: Comanche OK 73503-5100

Status: Unutilized

Comment: 9405 sq. ft., possible asbestos/lead paint, most recent use—storage, off-site use only

Bldgs. T-4401, T-4402

Property #: 21199730393

Fort Sill

Lawton Co: Comanche OK 73503-5100

Status: Unutilized

Comment: 2260 sq. ft., possible asbestos/lead paint, most recent use—office, off-site use only

Bldg. T-4407

Property #: 21199730395

Fort Sill

Lawton Co: Comanche OK 73503-5100

Status: Unutilized

Comment: 3070 sq. ft., possible asbestos/lead paint, most recent use—dining facility, off-site use only

4 Bldgs.

Property #: 21199730396

Fort Sill

#T-4410, T-4414, T-4415, T-4418

Lawton Co: Comanche OK 73503-5100

Status: Unutilized

Comment: 1311 sq. ft., possible asbestos/lead paint, most recent use—office, off-site use only

5 Bldgs.

Property #: 21199730397

Fort Sill

#T-4411 thru T-4413, T-4416 thru T-4417

Lawton Co: Comanche OK 73503-5100

Status: Unutilized

Comment: 1244 sq. ft., possible asbestos/lead paint, most recent use—showers, off-site use only

Bldg. T-4421

Property #: 21199730398

Fort Sill

Lawton Co: Comanche OK 73503-5100

Status: Unutilized

Comment: 3070 sq. ft., possible asbestos/lead paint, most recent use—dining, off-site use only

10 Bldgs.

Property #: 21199730399

Fort Sill

#T-4422 thru T-4427, T-4431 thru T-4434

Lawton Co: Comanche OK 73503-5100

Status: Unutilized

Comment: 2263 sq. ft., possible asbestos/lead paint, most recent use—barracks, off-site use only

6 Bldgs.

Property #: 21199730400

Fort Sill

Lawton Co: Comanche OK 73503-5100

Location: #T-4436, T-4440, T-4445, T-4448, T-4449

Status: Unutilized

Comment: 1311-2263 sq. ft., possible asbestos/lead paint, most recent use—office, off-site use only

5 Bldgs.

Property #: 21199730401

Fort Sill

Lawton Co: Comanche OK 73503-5100

Location: #T-4441, T-4442, T-4443, T-4446, T-4447

Status: Unutilized

Comment: 1244 sq. ft., possible asbestos/lead paint, most recent use—showers, off-site use only

Bldg. T-5041

Property #: 21199730409

Fort Sill

Lawton Co: Comanche OK 73503-5100

Status: Unutilized

Comment: 763 sq. ft., possible asbestos/lead paint, most recent use—storage, off-site use only

Bldgs. T-5044, T-5045

Property #: 21199730410

Fort Sill

Lawton Co: Comanche OK 73503-5100

Status: Unutilized

Comment: 1798/1806 sq. ft., possible asbestos/lead paint, most recent use—class rooms, off-site use only

4 Bldgs.

Property #: 21199730411

Fort Sill

Location: #T-5046, T-5047, T-5048, T-5049

Lawton Co: Comanche OK 73503-5100

Status: Unutilized

Comment: various sq. ft., possible asbestos/lead paint, most recent use—fuel storage, off-site use only

Bldg. T-5420

Property #: 21199730414

Fort Sill

Lawton Co: Comanche OK 73503-5100

Status: Unutilized

Comment: 189 sq. ft., possible asbestos/lead paint, most recent use—fuel storage, off-site use only

Bldg. T-5639

Property #: 21199730416

Fort Sill

Lawton Co: Comanche OK 73503-5100

Status: Unutilized

Comment: 10720 sq. ft., possible asbestos/lead paint, most recent use—office, off-site use only

Bldgs. T-7290, T-7291

Property #: 21199730417

Fort Sill

Lawton Co: Comanche OK 73503-5100

Status: Unutilized

Comment: 224/840 sq. ft., possible asbestos/lead paint, most recent use—kennel, off-site use only

Bldg. T-7775

Property #: 21199730419

Fort Sill

Lawton Co: Comanche OK 73503-5100

Status: Unutilized

Comment: 1452 sq. ft., possible asbestos/lead paint, most recent use—private club, off-site use only

Bldg. T-207

Property #: 21199910130

Fort Sill

Lawton Co: Comanche OK 73503-5100

Status: Unutilized

Comment: 19531 sq. ft., possible asbestos/lead paint, most recent use—office, off-site use only

Bldgs. P-364, P-584, P-588

Property #: 21199910131

Fort Sill

Lawton Co: Comanche OK 73503-5100

Status: Unutilized

Comment: 106 sq. ft., possible asbestos/lead paint, most recent use—utility plant, off-site use only

Bldg. P-599

Property #: 21199910132

Fort Sill

Lawton Co: Comanche OK 73503-5100

Status: Unutilized

Comment: 1400 sq. ft., possible asbestos/lead paint, most recent use—clubhouse, off-site use only

4 Bldgs.

Property #: 21199910133

Fort Sill

P-617, P-1114, P-1386, P-1608

Lawton Co: Comanche OK 73503-5100

Status: Unutilized

Comment: 106 sq. ft., possible asbestos/lead paint, most recent use—utility plant, off-site use only

Bldg. P-746

Property #: 21199910135

Fort Sill

Lawton Co: Comanche OK 73503-5100

Status: Unutilized

Comment: 6299 sq. ft., possible asbestos/lead paint, most recent use—admin., off-site use only

Bldgs. P-1908, P-2078

Property #: 21199910136

Fort Sill

Lawton Co: Comanche OK 73503-5100

Status: Unutilized

Comment: 106 & 131 sq. ft., possible asbestos/lead paint, most recent use—utility plant, off-site use only

Bldg. T-2183

Property #: 21199910139

Fort Sill

Lawton Co: Comanche OK 73503-5100

Status: Unutilized

Comment: 14530 sq. ft., possible asbestos/lead paint, most recent use—repair shop, off-site use only

Bldgs. P-2581, P-2773

Property #: 21199910140

Fort Sill

Lawton Co: Comanche OK 73503-5100

Status: Unutilized

Comment: 4093 and 4129 sq. ft., possible asbestos/lead paint, most recent use—office, off-site use only

Bldg. P-2582

Property #: 21199910141

Fort Sill

Lawton Co: Comanche OK 73503-5100

Status: Unutilized

Comment: 3672 sq. ft., possible asbestos/lead paint, most recent use—admin., off-site use only

Bldgs. P-2912, P-2921, P-2944

Property #: 21199910144

Fort Sill

Lawton Co: Comanche OK 73503-5100

Status: Unutilized

Comment: 1390 sq. ft., possible asbestos/lead paint, most recent use—office, off-site use only

Bldg. S-3169

Property #: 21199910145

Fort Sill

Lawton Co: Comanche OK 73503-5100

Status: Unutilized

Comment: 6437 sq. ft., possible asbestos/lead paint, most recent use—office, off-site use only

Bldg. P-2914

Property #: 21199910146

Fort Sill

Lawton Co: Comanche OK 73503-5100

Status: Unutilized

Comment: 1236 sq. ft., possible asbestos/lead paint, most recent use—storage, off-site use only

Bldg. P-3469

Property #: 21199910147

Fort Sill

Lawton Co: Comanche OK 73503-5100

Status: Unutilized

Comment: 3930 sq. ft., possible asbestos/lead paint, most recent use—car wash, off-site use only

Bldg. S-3559

Property #: 21199910148

Fort Sill

Lawton Co: Comanche OK 73503-5100

Status: Unutilized

Comment: 9462 sq. ft., possible asbestos/lead paint, most recent use—classroom, off-site use only

Bldg. S-4064

Property #: 21199910149

Fort Sill

Lawton Co: Comanche OK 73503-5100

Status: Unutilized

Comment: 1389 sq. ft., possible asbestos/lead paint, off-site use only

Bldg. T-4748

Property #: 21199910151

Fort Sill

Lawton Co: Comanche OK 73503-5100

Status: Unutilized

Comment: 1896 sq. ft., possible asbestos/lead paint, most recent use—classroom, off-site use only

Bldg. S-5086

Property #: 21199910152

Fort Sill

Lawton Co: Comanche OK 73503-5100

Status: Unutilized

Comment: 6453 sq. ft., possible asbestos/lead paint, most recent use—maintenance shop, off-site use only

Bldg. P-5101

Property #: 21199910153

Fort Sill

Lawton Co: Comanche OK 73503-5100

Status: Unutilized

Comment: 82 sq. ft., possible asbestos/lead paint, most recent use—gas station, off-site use only

Bldg. P-5638

Property #: 21199910155

Fort Sill

Lawton Co: Comanche OK 73503-5100

Status: Unutilized

Comment: 300 sq. ft., possible asbestos/lead paint, most recent use—storage, off-site use only

Bldg. S-6430

Property #: 21199910156

Fort Sill

Lawton Co: Comanche OK 73503-5100

Status: Unutilized

Comment: 2080 sq. ft., possible asbestos/lead paint, most recent use—range support, off-site use only

Bldg. T-6461

Property #: 21199910157

Fort Sill

Lawton Co: Comanche OK 73503-5100

Status: Unutilized

Comment: 200 sq. ft., possible asbestos/lead paint, most recent use—range support, off-site use only

Bldg. T-6462

Property #: 21199910158

Fort Sill

Lawton Co: Comanche OK 73503-5100

Status: Unutilized

Comment: 64 sq. ft., possible asbestos/lead paint, most recent use—control tower, off-site use only

Bldg. P-7230

Property #: 21199910159

Fort Sill

Lawton Co: Comanche OK 73503-5100

Status: Unutilized

Comment: 160 sq. ft., possible asbestos/lead paint, most recent use—transmitter bldg., off-site use only

Bldg. S-7960

Property #: 21199930159

Fort Sill

Lawton Co: Comanche OK 73503-

Status: Unutilized

Comment: 120 sq. ft., possible asbestos/lead paint, most recent use—storage, off-site use only

Bldg. S-7961

Property #: 21199930160

Fort Sill

Lawton Co: Comanche OK 73503-

Status: Unutilized

Comment: 36 sq. ft., possible asbestos/lead paint, most recent use—storage, off-site use only

Bldg. T-1931

Property #: 21200010126

Fort Sill

Lawton Co: Comanche OK 73503-5100

Status: Unutilized

Comment: 807 sq. ft., possible asbestos/lead paint, most recent use—storage, off-site use only

Bldg. T-1932

Property #: 21200010127

Fort Sill

Lawton Co: Comanche OK 73503-5100

Status: Unutilized

Comment: 1620 sq. ft., possible asbestos/lead paint, most recent use—storage, off-site use only

Bldg. S-4032

Property #: 21200010128

Fort Sill

Lawton Co: Comanche OK 73503-5100

Status: Unutilized

Comment: 1200 sq. ft., possible asbestos/lead paint, most recent use—storage, off-site use only

Bldg. S-4063

Property #: 21200010129

Fort Sill

Lawton Co: Comanche OK 73503-5100

Status: Unutilized

Comment: 4820 sq. ft., possible asbestos/lead paint, most recent use—classroom, off-site use only

South Carolina

Building

Bldg. 3499

Property #: 21199730310

Fort Jackson

Ft. Jackson Co: Richland SC 29207-

Status: Unutilized

Comment: 3724 sq. ft., needs repair, most recent use—admin

Bldg. 2441

Property #: 21199820187

Fort Jackson

Ft. Jackson Co: Richland SC 29207-

Status: Unutilized

Comment: 2160 sq. ft., needs repair, most recent use—admin

Bldg. 3605

Property #: 21199820188

Fort Jackson

Ft. Jackson Co: Richland SC 29207-

Status: Unutilized

Comment: 711 sq. ft., needs repair, most recent use—storage

Bldg. 1765

Property #: 21200030109

Fort Jackson

Ft. Jackson Co: Richland SC 29207-

Status: Unutilized

Comment: 1700 sq. ft., needs repair, presence of asbestos/lead paint, most recent use—training bldg., off-site use only

Texas

Building

Bldg. T-5901

Property #: 21199330486

Fort Sam Houston

San Antonio Co: Bexar TX 78234-5000

Status: Unutilized

Comment: 742 sq. ft., 1-story wood frame, most recent use—admin., off-site use only

Bldg. 4480, Fort Hood

Property #: 21199410322

Fort Hood Co: Bell TX 76544-

Status: Unutilized

Comment: 2160 sq. ft., 1-story, most recent use—storage, off-site use only

Bldg. P-6615

Property #: 21199440454

Fort Sam Houston

San Antonio Co: Bexar TX 78234-5000

Status:: Excess

Comment: 400 sq. ft., 1-story concrete frame, off-site removal only, most recent use—detached garage

Bldg. 4201, Fort Hood

Property #: 21199520201

Ft. Hood Co: Bell TX 76544-

Status: Unutilized

Comment: 9000 sq. ft., 1-story, off-site use only

Bldg. 7137, Fort Bliss

Property #: 21199640564

El Paso Co: El Paso TX 79916-

Status: Unutilized

Comment: 35736 sq. ft., 3-story, most recent use—housing, off-site use only

Building 4630

Property #: 21199710088

Fort Hood

Fort Hood Co: Bell TX 76544-

Status: Unutilized

Comment: 21833 sq. ft., most recent use—Admin., off-site use only

Bldgs. P-605A & P-606A

Property #: 21199730316

Fort Sam Houston

San Antonio Co: Bexar TX 78234-5000

Status: Unutilized

Comment: 2418 sq. ft., poor condition, presence of asbestos/lead paint, historical category, most recent use—indoor firing range, off-site use only

Bldg. S-1150

Property #: 21199730317

Fort Sam Houston

San Antonio Co: Bexar TX 78234-5000

Status: Unutilized

Comment: 8629 sq. ft., presence of asbestos/lead paint, most recent use—instruction bldg., off-site use only

Bldg. T-5122

Property #: 21199730331

Fort Sam Houston

San Antonio Co: Bexar TX 78234-5000

Status: Unutilized

Comment: 3602 sq. ft., presence of asbestos/lead paint, historical category, most recent use—instruction bldg., off-site use only

Bldg. T-5903

Property #: 21199730332

Fort Sam Houston

San Antonio Co: Bexar TX 78234-5000

Status: Unutilized

Comment: 5200 sq. ft., presence of asbestos/lead paint, historical category, most recent use—admin., off-site use only

Bldg. T-5907

Property #: 21199730333

Fort Sam Houston

San Antonio Co: Bexar TX 78234-5000

Status: Unutilized

Comment: 570 sq. ft., presence of asbestos/lead paint, historical category, most recent use—admin., off-site use only

Bldg. T-5906

Property #: 21199730420

Fort Sam Houston

San Antonio Co: Bexar TX 78234-5000

Status: Unutilized

Comment: 570 sq. ft., presence of asbestos/lead paint, most recent use—admin., off-site use only

Bldg. P-1382

Property #: 21199810365

Fort Sam Houston

San Antonio Co: Bexar TX 78234-5000

Status: Unutilized

Comment: 30082 sq. ft., presence of asbestos/lead paint, most recent use—housing, off-site use only

Bldg. S-1155

Property #: 21199830347

Fort Sam Houston

San Antonio Co: Bexar TX 78234-5000

Status: Unutilized

Comment: 2100 sq. ft., good, hazard abatement required, most recent use—instruction bldg., off-site use only

Bldg. T-5123

Property #: 21199830350

Fort Sam Houston

San Antonio Co: Bexar TX 78234-5000

Status: Unutilized

Comment: 2596 sq. ft., fair, hazard abatement required, most recent use—instruction bldg., off-site use only, historical significance

Bldg. P-6150

Property #: 21199830351

Fort Sam Houston

San Antonio Co: Bexar TX 78234-5000

Status: Unutilized

Comment: 48 sq. ft., fair, hazard abatement required, most recent use—pumphouse, off-site use only

Bldgs. P-6331, P-6335, P-6495

Property #: 21199830353

Fort Sam Houston

San Antonio Co: Bexar TX 78234-5000

Status: Unutilized

Comment: 36 sq. ft., fair, hazard abatement required, most recent use—pumping station, off-site use only

Bldg. P-8000

Property #: 21199830354

Fort Sam Houston

San Antonio Co: Bexar TX 78234-5000

Status: Unutilized

Comment: 1766 sq. ft., fair, hazard abatement required, most recent use—housing, off-site use only

9 Bldgs.

Property #: 21199830355

Fort Sam Houston

San Antonio Co: Bexar TX 78234-5000

Location: #P8001, P8008, 8014, 8027, 8033, 8035, 8127, 8229, 8265

Status: Unutilized

Comment: 2456 sq. ft., fair, hazard abatement required, most recent use—housing, off-site use only

11 Bldgs.

Property #: 21199830356

Fort Sam Houston

San Antonio Co: Bexar TX 78234-5000

Location: #P8003, P80011, 8012, 8019, 8043, 8202, 8204, 8216, 8235, 8241, 8261

Status: Unutilized

Comment: 2358 sq. ft., fair, hazard abatement required, most recent use—housing, off-site use only

Bldgs. P-8003C, P-8220C

Property #: 21199830357

Fort Sam Houston

San Antonio Co: Bexar TX 78234-5000

Status: Unutilized

Comment: 1174 sq. ft., fair, hazard abatement required, most recent use—detached garage, off-site use only

Bldg. P-8004

Property #: 21199830358

Fort Sam Houston

San Antonio Co: Bexar TX 78234-5000

Status: Unutilized

Comment: 2243 sq. ft., fair, hazard abatement required, most recent use—housing, off-site use only

7 Bldgs.

Property #: 21199830359

Fort Sam Houston

San Antonio Co: Bexar TX 78234-5000

Location: #P8005, 8101, 8107, 8141, 8143, 8146, 8150

Status: Unutilized

Comment: 1804 sq. ft., fair, hazard abatement required, most recent use—housing, off-site use only

7 Bldgs.

Property #: 21199830361

Fort Sam Houston

San Antonio Co: Bexar TX 78234-5000

Location: #P8009, 8024, 8207, 8214, 8217, 8226, 8256

Status: Unutilized

Comment: 2253 sq. ft., fair, hazard abatement required, most recent use—housing, off-site use only

4 Bldgs.

Property #: 21199830362

Fort Sam Houston

San Antonio Co: Bexar TX 78234-5000

Location: #P8009C, 8027C, 8248C, 8256C

Status: Unutilized

Comment: 681 sq. ft., fair, hazard abatement required, most recent use—detached garage, off-site use only

3 Bldgs.

Property #: 21199830363

Fort Sam Houston

San Antonio Co: Bexar TX 78234-5000

Location: #P8012C, 8039C, 8224C,

Status: Unutilized

Comment: 1185 sq. ft., fair, hazard abatement required, most recent use—detached garage, off-site use only

Bldg. P8016

Property #: 21199830364

Fort Sam Houston

San Antonio Co: Bexar TX 78234-5000

Location: #P8012C, 8027C, 8248C, 8256C

Status: Unutilized

Comment: 2347 sq. ft., fair, hazard abatement required, most recent use—housing, off-site use only

8 Bldgs.

Property #: 21199830365

Fort Sam Houston

San Antonio Co: Bexar TX 78234-5000

Location: #P8021, 8211, 8244, 8270, 8213, 8223, 8243, 8266

Status: Unutilized

Comment: 249 sq. ft., fair, hazard abatement required, most recent use—housing, off-site use only

Bldg. P-8022

Property #: 21199830366

Fort Sam Houston

San Antonio Co: Bexar TX 78234-5000

Status: Unutilized

Comment: 1849 sq. ft., fair, hazard abatement required, most recent use—housing, off-site use only

5 Bldgs.

Property #: 21199830367

Fort Sam Houston

San Antonio Co: Bexar TX 78234-5000

Location: #P8022C, 8023C, 8106C, 8206C

Status: Unutilized

Comment: 513 sq. ft., fair, hazard abatement required, most recent use—detached garage, off-site use only

Bldgs. P8026, P8028

Property #: 21199830369

Fort Sam Houston

San Antonio Co: Bexar TX 78234-5000

Status: Unutilized

Comment: approx. 1850 sq. ft., fair, hazard abatement required, most recent use—housing, off-site use only

3 Bldgs.

Property #: 21199830370

Fort Sam Houston

San Antonio Co: Bexar TX 78234-5000

Location: #P8028C, P8143C, P8150C,

Status: Unutilized

Comment: 838 sq. ft., fair, hazard abatement required, most recent use—detached garage, off-site use only

3 Bldgs.

Property #: 21199830372

Fort Sam Houston

San Antonio Co: Bexar TX 78234-5000

Location: #P8035C, P8104C, 8236C

Status: Unutilized

Comment: 1017 sq. ft., fair, hazard abatement required, most recent use—detached garage, off-site use only

3 Bldgs.

Property #: 21199830375

Fort Sam Houston

San Antonio Co: Bexar TX 78234-5000

Location: #P8102, 8106, 8108

Status: Unutilized

Comment: 2700 sq. ft., fair, hazard abatement required, most recent use—housing, off-site use only

Bldgs. P8109, P8137

Property #: 21199830376

Fort Sam Houston

San Antonio Co: Bexar TX 78234-5000

Status: Unutilized

Comment: 1540 sq. ft., fair, hazard abatement required, most recent use—housing, off-site use only

Bldgs. P8112, P8228

Property #: 21199830378

Fort Sam Houston

San Antonio Co: Bexar TX 78234-5000

Status: Unutilized

Comment: 1807 sq. ft., fair, hazard abatement required, most recent use—housing, off-site use only

3 Bldgs.

Property #: 21199830380

Fort Sam Houston

San Antonio Co: Bexar TX 78234-5000

Location: P8116, 8151, 8158

Status: Unutilized

Comment: 1691 sq. ft., fair, hazard abatement required, most recent use—housing, off-site use only

Bldg. P8117

Property #: 21199830381

Fort Sam Houston

San Antonio Co: Bexar TX 78234-5000

Status: Unutilized

Comment: 1581 sq. ft., fair, hazard abatement required, most recent use—housing, off-site use only

8 Bldgs.

Property #: 21199830382

Fort Sam Houston

San Antonio Co: Bexar TX 78234-5000

Location: #P8118, 8121, 8125, 8153, 8119, 8120, 8124, 8168

Status: Unutilized

Comment: various sq. ft., fair, hazard abatement required, most recent use—housing, off-site use only

Bldgs. P8122, P8123

Property #: 21199830383

Fort Sam Houston

San Antonio Co: Bexar TX 78234-5000

Status: Unutilized

Comment: approx. 1400 sq. ft., fair, hazard abatement required, most recent use—housing, off-site use only

Bldg. P8126

Property #: 21199830384

Fort Sam Houston

San Antonio Co: Bexar TX 78234-5000

Status: Unutilized

Comment: 1331 sq. ft., fair, hazard abatement required, most recent use—housing, off-site use only

8 Bldgs.

Property #: 21199830386

Fort Sam Houston

San Antonio Co: Bexar TX 78234-5000

Location: P8131C, 8139C, 8203C, 8211C, 8231C, 8243C, 8249C, 8261C

Status: Unutilized

Comment: 849 sq. ft., fair, hazard abatement required, most recent use—detached garage, off-site use only

Bldgs. P8133, P8134

Property #: 21199830387

Fort Sam Houston

San Antonio Co: Bexar TX 78234-5000

Status: Unutilized

Comment: approx. 2000 sq. ft., fair, hazard abatement required, most recent use—housing, off-site use only

Bldgs. P8135, P8136

Property #: 21199830388

Fort Sam Houston

San Antonio Co: Bexar TX 78234-5000

Status: Unutilized

Comment: approx. 1500 sq. ft., fair, hazard abatement required, most recent use—housing, off-site use only

4 Bldgs.

Property #: 21199830389

Fort Sam Houston

San Antonio Co: Bexar TX 78234-5000

Location: #P8144, 8267, 8148, 8149

Status: Unutilized

Comment: approx. 2200 sq. ft., fair, hazard abatement required, most recent use—housing, off-site use only

Bldg. P8171

Property #: 21199830392

Fort Sam Houston

San Antonio Co: Bexar TX 78234-5000

Status: Unutilized

Comment: 1289 sq. ft., fair, hazard abatement required, most recent use—housing, off-site use only

Bldg. P8172

Property #: 21199830393

Fort Sam Houston

San Antonio Co: Bexar TX 78234-5000

Status: Unutilized

Comment: 1597 sq. ft., fair, hazard abatement required, most recent use—housing, off-site use only

Bldgs. P8173, P8174

Property #: 21199830394

Fort Sam Houston

San Antonio Co: Bexar TX 78234-5000

Status: Unutilized

Comment: approx. 2200 sq. ft., fair, hazard abatement required, most recent use—housing, off-site use only

Bldg. P8174C

Property #: 21199830395

Fort Sam Houston

San Antonio Co: Bexar TX 78234-5000

Status: Unutilized

Comment: 670 sq. ft., fair, hazard abatement required, most recent use—detached garage, off-site use only

Bldg. P8175

Property #: 21199830396

Fort Sam Houston

San Antonio Co: Bexar TX 78234-5000

Status: Unutilized

Comment: 2220 sq. ft., fair, hazard abatement required, most recent use—housing, off-site use only

Bldg. P8200

Property #: 21199830397

Fort Sam Houston

San Antonio Co: Bexar TX 78234-5000

Status: Unutilized

Comment: 892 sq. ft., fair, hazard abatement required, most recent use—officers quarters, off-site use only

Bldg. P8205

Property #: 21199830399

Fort Sam Houston

San Antonio Co: Bexar TX 78234-5000

Status: Unutilized

Comment: 1745 sq. ft., fair, hazard abatement required, most recent use—housing, off-site use only

3 Bldgs.

Property #: 21199830400

Fort Sam Houston

San Antonio Co: Bexar TX 78234-5000

Location: #P8206, 8232, 8233

Status: Unutilized

Comment: 2400 sq. ft., fair, hazard abatement required, most recent use—housing, off-site use only

Bldg. P8245

Property #: 21199830401

Fort Sam Houston

San Antonio Co: Bexar TX 78234-5000

Status: Unutilized

Comment: 2876 sq. ft., fair, hazard abatement required, most recent use—housing, off-site use only

Bldgs. P8262C, 8271C

Property #: 21199830403

Fort Sam Houston

San Antonio Co: Bexar TX 78234-5000

Status: Unutilized

Comment: 1006 sq. ft., fair, hazard abatement required, most recent use—detached garage, off-site use only

Bldg. P8269

Property #: 21199830404

Fort Sam Houston

San Antonio Co: Bexar TX 78234-5000

Status: Unutilized

Comment: 2396 sq. ft., fair, hazard abatement required, most recent use—housing, off-site use only

20 Bldgs.

Property #: 21199830405

Fort Sam Houston

San Antonio Co: Bexar TX 78234-5000

Location: #P8271, 8002, 8018, 8025, 8037, 8100, 8130, 8132, 8138, 8140, 8142, 8145, 8147, 8210, 8212, 8221, 8242, 8247, 8264, 8257

Status: Unutilized

Comment: 2777 sq. ft., fair, hazard abatement required, most recent use—housing, off-site use only

Bldg. 41

Property #: 21199920208

Fort Hood

Ft. Hood Co: Coryell TX 76544-

Status: Unutilized

Comment: 1750 sq. ft., needs repair, most recent use—admin., off-site use only

Bldg. 919

Property #: 21199920212

Fort Hood

Ft. Hood Co: Coryell TX 76544-

Status: Unutilized

Comment: 11800 sq. ft., needs repair, most recent use—Bde. Hq. Bldg., off-site use only

Bldg. 923

Property #: 21199920213

Fort Hood

Ft. Hood Co: Coryell TX 76544-

Status: Unutilized

Comment: 4440 sq. ft., needs repair, most recent use—admin., off-site use only

Bldg. 924

Property #: 21199920214

Fort Hood

Ft. Hood Co: Coryell TX 76544-

Status: Unutilized

Comment: 3500 sq. ft., needs repair, most recent use—admn., off-site use only

Bldg. 3959

Property #: 21199920224

Fort Hood

Ft. Hood Co: Coryell TX 76544-

Status: Unutilized

Comment: 3373 sq. ft., needs repair, most recent use—admin., off-site use only

Bldgs. 3967-3969

Property #: 21199920228

Fort Hood

Ft. Hood Co: Coryell TX 76544-

Status: Unutilized

Comment: 5310 sq. ft., needs repair, most recent use—admin., off-site use only

Bldgs. 3970-3971

Property #: 21199920229

Fort Hood

Ft. Hood Co: Coryell TX 76544-

Status: Unutilized

Comment: 3241 sq. ft., needs repair, most recent use—admin., off-site use only

4 Bldgs.

Property #: 21200010132

Fort Sam Houston

S6161, S6162, S6167, S6168

San Antonio Co: Bexar TX 78234-5000

Status: Unutilized

Comment: 900 sq. ft., needs major repairs, most recent use—admin., off-site use only

Bldg. S1448

Property #: 21200010133

Fort Sam Houston

San Antonio Co: Bexar TX 78234-5000

Status: Unutilized

Comment: 4200 sq. ft., possible asbestos/lead paint, most recent use—admin., off-site use only

Bldg. T5001

Property #: 21200010134

Fort Sam Houston

San Antonio Co: Bexar TX 78234-5000

Status: Unutilized

Comment: 1186 sq. ft., needs major repairs, possible asbestos/lead paint, most recent use—admin., off-site use only

Bldg. S6163

Property #: 212200010136

Fort Sam Houston

San Antonio Co: Bexar TX 78234-5000

Status: Unutilized

Comment: 3200 sq. ft., needs major repairs, most recent use—admin., off-site use only

Bldg. S6169

Property #: 21200010137

Fort Sam Houston

San Antonio Co: Bexar TX 78234-5000

Status: Unutilized

Comment: 1800 sq. ft., needs major repairs, most recent use—admin., off-site use only

Bldg. P-2375A

Property #: 21200020202

Fort Sam Houston

San Antonio Co: Bexar TX 78234-5000

Status: Unutilized

Comment: 108 sq. ft., presence of lead paint, most recent use—storage, off-site use only

Bldg. T-5004

Property #: 21200020203

Fort Sam Houston

San Antonio Co: Bexar TX 78234-5000

Status: Unutilized

Comment: 4489 sq. ft., presence of asbestos/lead paint, most recent use—storage, off-site use only

Bldg. 92043

Property #: 21200020206

Fort Hood

Ft. Hood Co: Bell TX 76544-

Status: Unutilized

Comment: 450 sq. ft., most recent use—storage, off-site use only

Bldg. 92044

Property #: 21200020207

Fort Hood

Ft. Hood Co: Bell TX 76544-

Status: Unutilized

Comment: 1920 sq. ft., most recent use—admin., off-site use only

Bldg. 92045

Property #: 21200020208

Fort Hood

Ft. Hood Co: Bell TX 76544-

Status: Unutilized

Comment: 2108 sq. ft., most recent use—maint., off-site use only

Bldg. P-8219

Property #: 21200030110

Fort Sam Houston

San Antonio Co: Bexar TX 78234-5000

Status: Excess

Comment: 2456 sq. ft., presence of asbestos/lead paint, most recent use—family house, off-site use only

Bldg. 4422

Property #: 21200030111

Fort Hood

Ft. Hood Co: Bell TX 76544-

Status: Unutilized

Comment: 5310 sq. ft., most recent use—barracks, off-site use only

Bldg. 4423

Property #: 21200030112

Fort Hood

Ft. Hood Co: Bell TX 76544-

Status: Unutilized

Comment: 5310 sq. ft., most recent use—barracks, off-site use only

Bldg. 4462

Property #: 21200030113

Fort Hood

Ft. Hood Co: Bell TX 76544-

Status: Unutilized

Comment: 5310 sq. ft., most recent use—barracks, off-site use only

Bldg. 4463

Property #: 21200030114

Fort Hood

Ft. Hood Co: Bell TX 76544-

Status: Unutilized

Comment: 5310 sq. ft., most recent use—barracks, off-site use only

Bldg. 4464

Property #: 21200030115

Fort Hood

Ft. Hood Co: Bell TX 76544-

Status: Unutilized

Comment: 5310 sq. ft., most recent use—barracks, off-site use only

Bldg. 4469

Property #: 21200030116

Fort Hood

Ft. Hood Co: Bell TX 76544-

Status: Unutilized

Comment: 5310 sq. ft., most recent use—barracks, off-site use only

Land

Old Camp Bullis Road

Property #: 21199420461

Fort Sam Houston

San Antonio Co: Bexar TX 78234-5000

Status: Unutilized

Comment: 7.16 acres, rural gravel road

Castner Range

Property #: 21199610788

Fort Bliss

El Paso Co: El Paso TX 79916-

Status: Unutilized

Comment: approx. 56.81 acres, portion of floodway, most recent use—recreation picnic park

Virginia

Building

Bldg. 178

Property #: 21199940046

Fort Monroe

Ft. Monroe Co: VA 23651-

Status: Unutilized

Comment: 1180 sq. ft., needs repair, most recent use—storage, off-site use only

Bldg. T246

Property #: 21199940047

Fort Monroe

Ft. Monroe Co: VA 23651-

Status: Unutilized

Comment: 756 sq. ft., needs repair, possible lead paint, most recent use—scout meetings, off-site use only

Bldg. TT0114

Property #: 21200020209

Fort A.P. Hill

Bowling Green Co: Caroline VA 22427-

Status: Unutilized

Comment: 1440 sq. ft., needs rehab, most recent use—admin., off-site use only

Bldg. TT0130

Property #: 21200020213

Fort A.P. Hill

Bowling Green Co: Caroline VA 22427-

Status: Unutilized

Comment: 861 sq. ft., needs rehab, presence of asbestos, most recent use—transient UOQ, off-site use only

Bldg. TT0131

Property #: 21200020214

Fort A.P. Hill

Bowling Green Co: Caroline VA 22427-

Status: Unutilized

Comment: 861 sq. ft., needs rehab, presence of asbestos, most recent use—transient UOQ, off-site use only

Bldg. TT0132

Property #: 21200020215

Fort A.P. Hill

Bowling Green Co: Caroline VA 22427-

Status: Unutilized

Comment: 800 sq. ft., needs rehab, presence of asbestos, most recent use—transient UOQ, off-site use only

Bldg. TT0133

Property #: 21200020216

Fort A.P. Hill

Bowling Green Co: Caroline VA 22427-

Status: Unutilized

Comment: 800 sq. ft., needs rehab, presence of asbestos, most recent use—transient UOQ, off-site use only

Bldg. TT0139

Property #: 21200020217

Fort A.P. Hill

Bowling Green Co: Caroline VA 22427-

Status: Unutilized

Comment: 800 sq. ft., needs rehab, presence of asbestos, most recent use—storage, off-site use only

Bldg. TT0158

Property #: 21200020218

Fort A.P. Hill

Bowling Green Co: Caroline VA 22427-

Status: Unutilized

Comment: 361 sq. ft., needs rehab, presence of asbestos, most recent use—storage, off-site use only

Bldg. TT0163

Property #: 21200020219

Fort A.P. Hill

Bowling Green Co: Caroline VA 22427-

Status: Unutilized

Comment: 1920 sq. ft., needs rehab, presence of asbestos, most recent use—admin., off-site use only

Bldg. P01530

Property #: 21200020222

Fort A.P. Hill

Bowling Green Co: Caroline VA 22427-

Status: Unutilized

Comment: 112 sq. ft., needs rehab, presence of asbestos, most recent use—storage, off-site use only

Bldgs. 1630, 1633, 1636

Property #: 21200030119

Fort Eustis

Ft. Eustis Co: VA 23604-

Status: Unutilized

Comment: 720 sq. ft., most recent use—storehouse, off-site use only

Washington

Building

13 Bldgs., Fort Lewis

Property #: 21199630199

A0402, C0723, C0726, C0727, C0902, C0907, C0922, C0923, C0926, C0927

Ft. Lewis Co: Pierce WA 98433-9500

Status: Unutilized

Comment: 2360 sq. ft., possible asbestos/lead paint, most recent use—barracks, off-site use only

7 Bldgs., Fort Lewis

Property #: 21199630200

A0438, A0439, C0901, C0910, C0911

Ft. Lewis Co: Pierce WA 98433-9500

Status: Unutilized

Comment: 1144 sq. ft., possible asbestos/lead paint, most recent use—dayroom bldgs., off-site use only

6 Bldgs., Fort Lewis

Property #: 21199630204

C0908, C0728, C0921, C0928, C1008

Ft. Lewis Co: Pierce WA 98433-9500

Status: Unutilized

Comment: 2207 sq. ft., possible asbestos/lead paint, most recent use—dining, off-site use only

Bldg. C0909, Fort Lewis

Property #: 21199630205

Ft. Lewis Co: Pierce WA 98433-9500

Status: Unutilized

Comment: 1984 sq. ft., possible asbestos/lead paint, most recent use—admin., off-site use only

Bldg. C0920, Fort Lewis

Property #: 21199630206

Ft. Lewis Co: Pierce WA 98433-9500

Status: Unutilized

Comment: 1984 sq. ft., possible asbestos/lead paint, most recent use—admin., off-site use only

Bldg. C1249, Fort Lewis

Property #: 21199630207

Ft. Lewis Co: Pierce WA 98433-9500

Status: Unutilized

Comment: 992 sq. ft., possible asbestos/lead paint, most recent use—storage, off-site use only

Bldg. 1164, Fort Lewis

Property #: 21199630213

Ft. Lewis Co: Pierce WA 98433-9500

Status: Unutilized

Comment: 230 sq. ft., possible asbestos/lead paint, most recent use—storehouse, off-site use only

Bldg. 1307, Fort Lewis

Property #: 21199630216

Ft. Lewis Co: Pierce WA 98433-9500

Status: Unutilized

Comment: 1092 sq. ft., possible asbestos/lead paint, most recent use—storage, off-site use only

Bldg. 1309, Fort Lewis

Property #: 21199630217

Ft. Lewis Co: Pierce WA 98433-9500

Status: Unutilized

Comment: 1092 sq. ft., possible asbestos/lead paint, most recent use—storage, off-site use only

Bldg. 2167, Fort Lewis

Property #: 21199630218

Ft. Lewis Co: Pierce WA 98433-9500

Status: Unutilized

Comment: 288 sq. ft., possible asbestos/lead paint, most recent use—warehouse, off-site use only

Bldg. 4078, Fort Lewis

Property #: 21199630219

Ft. Lewis Co: Pierce WA 98433-9500

Status: Unutilized

Comment: 10200 sq. ft., needs rehab, possible asbestos/lead paint, most recent use—warehouse, off-site use only

Bldg. 9599, Fort Lewis

Property #: 21199630220

Ft. Lewis Co: Pierce WA 98433-9500

Status: Unutilized

Comment: 12366 sq. ft., possible asbestos/lead paint, most recent use—warehouse, off-site use only

Bldg. A1404, Fort Lewis

Property #: 21199640570

Ft. Lewis Co: Pierce WA 98433-

Status: Unutilized

Comment: 557 sq. ft., needs rehab, most recent use—storage, off-site use only

Bldg. A1419, Fort Lewis

Property #: 21199640571

Ft. Lewis Co: Pierce WA 98433-

Status: Unutilized

Comment: 1307 sq. ft., needs rehab, most recent use—storage, off-site use only

Bldg. EO202

Property #: 21199710149

Fort Lewis

Ft. Lewis Co: Pierce WA 98433-

Status: Unutilized

Comment: 992 sq. ft., possible asbestos/lead paint, most recent use—office, off-site use only

Bldg. EO347

Property #: 21199710156

Fort Lewis

Ft. Lewis Co: Pierce WA 98433-

Status: Unutilized

Comment: 1800 sq. ft., possible asbestos/lead paint, most recent use—office, off-site use only

Bldg. B1008, Fort Lewis

Property #: 21199720216

Ft. Lewis Co: Pierce WA 98433-

Status: Unutilized

Comment: 7387 sq. ft., 2-story, needs rehab, possible asbestos/lead paint, most recent use—medical clinic, off-site use only

Bldgs. B1011-B1012, Fort Lewis

Property #: 21199720217

Ft. Lewis Co: Pierce WA 98433-

Status: Unutilized

Comment: 992 sq. ft. and 1144 sq. ft., needs rehab, possible asbestos/lead paint, most recent use—office, off-site use only

Bldgs. CO509, CO709, CO720

Property #: 21199810372

Fort Lewis

Ft. Lewis Co: Pierce WA 98433-

Status: Unutilized

Comment: 1984 sq. ft., possible asbestos/lead paint, needs rehab, most recent use—storage, off-site use only

4 Bldgs.

Property #: 21199810373

Fort Lewis

CO511, CO710, CO711, CO719

Ft. Lewis Co: Pierce WA 98433-

Status: Unutilized

Comment: 1144 sq. ft., possible asbestos/lead paint, needs rehab, most recent use—dayrooms, off-site use only

11 Bldgs.

Property #: 21199810374

Fort Lewis

Ft. Lewis Co: Pierce WA 98433-

Location: CO28, CO701, CO708, CO721, CO526, CO527, CO702, CO703, CO706, CO707, CO722

Status: Unutilized

Comment: 2207 sq. ft., possible asbestos/lead paint, needs rehab, most recent use—dining, off-site use only

Bldg. 5162

Property #: 21199830419

Fort Lewis

Ft. Lewis Co: Pierce WA 98433-

Status: Unutilized

Comment: 2360 sq. ft., needs repair, presence of asbestos/lead paint, most recent use—office, off-site use only

Bldg. A0631

Property #: 21199830422

Fort Lewis

Ft. Lewis Co: Pierce WA 98433-

Status: Unutilized

Comment: 2207 sq. ft., needs repair, presence of asbestos/lead paint, most recent use—dayroom, off-site use only

Bldg. B0813

Property #: 21199830427

Fort Lewis

Ft. Lewis Co: Pierce WA 98433-

Status: Unutilized

Comment: 1144 sq. ft., needs repair, presence of asbestos/lead paint, most recent use—office, off-site use only

Bldg. B0812

Property #: 21199830428

Fort Lewis

Ft. Lewis Co: Pierce WA 98433-

Status: Unutilized

Comment: 1144 sq. ft., needs repair, presence of asbestos/lead paint, most recent use—dayroom, off-site use only

Bldg. 5224

Property #: 21199830433

Fort Lewis

Ft. Lewis Co: Pierce WA 98433-

Status: Unutilized

Comment: 2360 sq. ft., needs repair, presence of asbestos/lead paint, most recent use—educ. fac., off-site use only

Bldg. U001B

Property #: 21199920237

Fort Lewis

Ft. Lewis Co: Pierce WA 98433-

Status: Excess

Comment: 54 sq. ft., needs repair, presence of asbestos/lead paint, most recent use—control tower, off-site use only

Bldg. U001C

Property #: 21199920238

Fort Lewis

Ft. Lewis Co: Pierce WA 98433-

Status: Unutilized

Comment: 960 sq. ft., needs repair, presence of asbestos/lead paint, most recent use—supply, off-site use only

10 Bldgs.

Property #: 21199920239

Fort Lewis

Ft. Lewis Co: Pierce WA 98433-

Location: U002B, U002C, U005C, U015I, U016E, U019C, U022A, U028B, 0091A, U093C

Status: Excess

Comment: 600 sq. ft., needs repair, presence of asbestos/lead paint, most recent use—range house, off-site use only

6 Bldgs.

Property #: 21199920240

Fort Lewis

Ft. Lewis Co: Pierce WA 98433-

Location: U003A, U004B, U006C, U015B, U016B, U019B

Status: Unutilized

Comment: 54 sq. ft., needs repair, presence of asbestos/lead paint, most recent use—control tower, off-site use only

Bldg. U004D

Property #: 21199920241

Fort Lewis

Ft. Lewis Co: Pierce WA 98433-

Status: Unutilized

Comment: 960 sq. ft., needs repair, presence of asbestos/lead paint, most recent use—supply, off-site use only

Bldg. U005A

Property #: 21199920242

Fort Lewis

Ft. Lewis Co: Pierce WA 98433-

Status: Unutilized

Comment: 360 sq. ft., needs repair, presence of asbestos/lead paint, most recent use—control tower, off-site use only

Bldgs. U006A, U024A

Property #: 21199920243

Fort Lewis

Ft. Lewis Co: Pierce WA 98433-

Status: Excess

Comment: 1440 sq. ft., needs repair, presence of asbestos/lead paint, most recent use—shelter, off-site use only

Bldgs. U007A, U021A

Property #: 21199920244

Fort Lewis

Ft. Lewis Co: Pierce WA 98433-

Status: Excess

Comment: 100 sq. ft., needs repair, presence of asbestos/lead paint, most recent use—control tower, off-site use only

7 Bldgs.

Property #: 21199920245

Fort Lewis

Ft. Lewis Co: Pierce WA 98433-

Location: U014A, U022B, U023A, U043B, U059B, U060A, U101A

Status: Excess

Comment: needs repair, presence of asbestos/lead paint, most recent use—ofc/tower/support, off-site use only

Bldg. U015J

Property #: 21199920246

Fort Lewis

Ft. Lewis Co: Pierce WA 98433-

Status: Excess

Comment: 144 sq. ft., needs repair, presence of asbestos/lead paint, most recent use—tower, off-site use only

Bldg. U018B

Property #: 21199920247

Fort Lewis

Ft. Lewis Co: Pierce WA 98433-

Status: Unutilized

Comment: 121 sq. ft., needs repair, presence of asbestos/lead paint, most recent use—range house, off-site use only

Bldg. U018C

Property #: 21199920248

Fort Lewis

Ft. Lewis Co: Pierce WA 98433-

Status: Unutilized

Comment: 48 sq. ft., needs repair, presence of asbestos/lead paint, off-site use only

Bldg. U024B

Property #: 21199920249

Fort Lewis

Ft. Lewis Co: Pierce WA 98433-

Status: Unutilized

Comment: 168 sq. ft., needs repair, presence of asbestos/lead paint, most recent use—control tower, off-site use only

Bldg. U024D

Property #: 21199920250

Fort Lewis

Ft. Lewis Co: Pierce WA 98433-

Status: Unutilized

Comment: 120 sq. ft., needs repair, presence of asbestos/lead paint, most recent use—ammo bldg., off-site use only

Bldg. U027A

Property #: 21199920251

Fort Lewis

Ft. Lewis Co: Pierce WA-

Status: Excess

Comment: 64 sq. ft., needs repair, presence of asbestos/lead paint, most recent use—tire house, off-site use only

Bldg. U028A-U032A

Property #: 21199920252

Fort Lewis

Ft. Lewis Co: Pierce WA 98433-

Status: Unutilized

Comment: 72 sq. ft., needs repair, presence of asbestos/lead paint, most recent use—control tower, off-site use only

Bldg. U031A

Property #: 21199920253

Fort Lewis

Ft. Lewis Co: Pierce WA 98433-

Status: Excess

Comment: 3456 sq. ft., needs repair, presence of asbestos/lead paint, most recent use—line shed, off-site use only

Bldg. U031C

Property #: 21199920254

Fort Lewis

Ft. Lewis Co: Pierce WA 98433-

Status: Unutilized

Comment: 32 sq. ft., needs repair, presence of asbestos/lead paint, off-site use only

Bldg. U040D

Property #: 21199920255

Fort Lewis

Ft. Lewis Co: Pierce WA 98433-

Status: Excess

Comment: 800 sq. ft., needs repair, presence of asbestos/lead paint, most recent use—range house, off-site use only

Bldg. U052C, U052H

Property #: 21199920256

Fort Lewis

Ft. Lewis Co: Pierce WA 98433-

Status: Excess

Comment: various sq. ft., needs repair, presence of asbestos/lead paint, most recent use—range house, off-site use only

Bldg. U035A, U035B

Property #: 21199920257

Fort Lewis

Ft. Lewis Co: Pierce WA 98433-

Status: Excess

Comment: 192 sq. ft., needs repair, presence of asbestos/lead paint, most recent use—range house, off-site use only

Bldg. U035C

Property #: 21199920258

Fort Lewis

Ft. Lewis Co: Pierce WA 98433-

Status: Excess

Comment: 242 sq. ft., needs repair, presence of asbestos/lead paint, most recent use—range house, off-site use only

Bldg. U039A

Property #: 21199920259

Fort Lewis

Ft. Lewis Co: Pierce WA 98433-

Status: Excess

Comment: 36 sq. ft., needs repair, presence of asbestos/lead paint, most recent use—control tower, off-site use only

Bldg. U039B

Property #: 21199920260

Fort Lewis

Ft. Lewis Co: Pierce WA 98433-

Status: Excess

Comment: 1600 sq. ft., needs repair, presence of asbestos/lead paint, most recent use—grandstand/bleachers, off-site use only

Bldg. U039C

Property #: 21199920261

Fort Lewis

Ft. Lewis Co: Pierce WA 98433-

Status: Excess

Comment: 600 sq. ft., needs repair, presence of asbestos/lead paint, most recent use—support, off-site use only

Bldg. U043A

Property #: 21199920262

Fort Lewis

Ft. Lewis Co: Pierce WA 98433-

Status: Excess

Comment: 132 sq. ft., needs repair, presence of asbestos/lead paint, most recent use—range house, off-site use only

Bldg. U052A

Property #: 21199920263

Fort Lewis

Ft. Lewis Co: Pierce WA 98433-

Status: Excess

Comment: 69 sq. ft., needs repair, presence of asbestos/lead paint, most recent use—tower, off-site use only

Bldg. U052E

Property #: 21199920264

Fort Lewis

Ft. Lewis Co: Pierce WA 98433-

Status: Excess

Comment: 600 sq. ft., needs repair, presence of asbestos/lead paint, most recent use—storage, off-site use only

Bldg. Uo52G

Property #: 21199920265

Fort Lewis

Ft. Lewis Co: Pierce WA 98433-

Status: Excess

Comment: 1600 sq. ft., needs repair, presence of asbestos/lead paint, most recent use—shelter, off-site use only

3 Bldgs.

Property #: 21199920266

Fort Lewis

Ft. Lewis Co: Pierce WA 98433-

Location: U058A, U103A, U018A

Status: Excess

Comment: 36 sq. ft., needs repair, presence of asbestos/lead paint, most recent use—control tower, off-site use only

Bldg. U059A

Property #: 21199920267

Fort Lewis

Ft. Lewis Co: Pierce WA 98433-

Status: Excess

Comment: 16 sq. ft., needs repair, presence of asbestos/lead paint, most recent use—tower, off-site use only

Bldg. U093B

Property #: 21199920268

Fort Lewis

Ft. Lewis Co: Pierce WA 98433-

Status: Excess

Comment: 680 sq. ft., needs repair, presence of asbestos/lead paint, most recent use—range house, off-site use only

4 Bldgs.

Property #: 21199920269

Fort Lewis

Ft. Lewis Co: Pierce WA 98433-

Location: U101B, U101C, U507B, U557A

Status: Excess

Comment: 400 sq. ft., needs repair, presence of asbestos/lead paint, off-site use only

Bldg. U102B

Property #: 21199920270

Fort Lewis

Ft. Lewis Co: Pierce WA 98433-

Status: Excess

Comment: 1058 sq. ft., needs repair, presence of asbestos/lead paint, most recent use—shelter, off-site use only

Bldg. U108A

Property #: 21199920271

Fort Lewis

Ft. Lewis Co: Pierce WA 98433-

Status: Excess

Comment: 31320 sq. ft., needs repair, presence of asbestos/lead paint, most recent use—line shed, off-site use only

Bldg. U110B

Property #: 21199920272

Fort Lewis

Ft. Lewis Co: Pierce WA 98433-

Status: Excess

Comment: 138 sq. ft., needs repair, presence of asbestos/lead paing, most recent use—support, off-site use only

6 Bldgs.

Property #: 21199920273

Fort Lewis

Ft. Lewis Co: Pierce WA 98433-

Location: U111A, U015A, U024E, U052F, U109A, U110A

Status: Excess

Comment: 1000 sq. ft., needs repair, presence of asbestos/lead paint, most recent use—support/shelter/mess, off-site use only

Bldg. U112A

Property #: 21199920274

Fort Lewis

Ft. Lewis Co: Pierce WA 98433-

Status: Excess

Comment: 1600 sq. ft., needs repair, presence of asbestos/lead paint, most recent use—shelter, off-site use only

Bldg. U115A

Property #: 21199920275

Fort Lewis

Ft. Lewis Co: Pierce WA 98433-

Status: Excess

Comment: 36 sq. ft., needs repair, presence of asbestos/lead paint, most recent use—tower, off-site use only

Bldg. U507A

Property #: 21199920276

Fort Lewis

Ft. Lewis Co: Pierce WA 98433-

Status: Excess

Comment: 400 sq. ft., needs repair, presence of asbestos/lead paint, most recent use—support, off-site use only

Bldg. U516B

Property #: 21199920277

Fort Lewis

Ft. Lewis Co: Pierce WA 98433-

Status: Excess

Comment: 5000 sq. ft., needs repair, presence of asbestos/lead paint, most recent use—shed, off-site use only

7 Bldgs.

Property #: 21199920278

Fort Lewis

Ft. Lewis Co: Pierce WA 98433-

Status: Excess

Location: F0002, F0004, F0003, F0005, F0006, F0008, F0009

Comment: various sq. ft., needs repair, presence of asbestos/lead paint, most recent use—storehouse, off-site use only

Bldg. F0022A

Property #: 21199920279

Fort Lewis

Ft. Lewis Co: Pierce WA 98433-

Status: Excess

Comment: 4373 sq. ft., needs repair, presence of asbestos/lead paint, most recent use—gen. inst., off-site use only

Bldg. F0022B

Property #: 21199920280

Fort Lewis

Ft. Lewis Co: Pierce WA 98433-

Status: Excess

Comment: 3100 sq. ft., needs repair, presence of asbestos/lead paint, most recent use—storage, off-site use only

Bldg. C0120

Property #: 21199920281

Fort Lewis

Ft. Lewis Co: Pierce WA 98433-

Status: Excess

Comment: 384 sq. ft., needs repair, presence of asbestos/lead paint most recent use—scale house, off-site use only

Bldg. A0220

Property #: 21199920282

Fort Lewis

Ft. Lewis Co: Pierce WA 98433-

Status: Excess

Comment: 2284 sq. ft., needs repair, presence of asbestos/lead paint most recent use—club facility, off-site use only

18 Bldgs.

Property #: 21199920283

Fort Lewis

Ft. Lewis Co: Pierce WA 98433-

Location: A0337, A0617, B0820, B0821, C0319, C0833, C0310, C0311, C0318, C1019, D0712, D0713, D0720, D0721, D1108, D1153, C1011, C1018

Status: Excess

Comment: 1144 sq. ft., needs repair, presence of asbestos/lead paint, most recent use—day room, off-site use only

Bldg. A0334

Property #: 21199920284

Fort Lewis

Ft. Lewis Co: Pierce WA 98433-

Status: Excess

Comment: 1092 sq. ft., needs repair, presence of asbestos/lead paint, most recent use—sentry station, off-site use only

7 Bldgs.

Property #: 21199920285

Fort Lewis

Ft. Lewis Co: Pierce WA 98433-

Location: C0302, C0303, C0306, C0322, C0323, C0326, C0327

Status: Excess

Comment: 2340 sq. ft., needs repair, presence of asbestos/lead paint, most recent use—barracks, off-site use only

12 Bldgs.

Property #: 21199920287

Fort Lewis

Ft. Lewis Co: Pierce WA 98433-

Location: C1002, C1003, C1006, C1007, C1022, C1023, C1026, C1027, C1207, C1301, C13333, C1334

Status: Excess

Comment: 2360 sq. ft., needs repair, presence of asbestos/lead paint, most recent use—barracks, off-site use only

Bldg. E1010

Property #: 21199920288

Fort Lewis

Ft. Lewis Co: Pierce WA 98433-

Status: Excess

Comment: 148 sq. ft., needs repair, presence of asbestos/lead paint, most recent use—gas station, off-site use only

Bldg. D1154

Property #: 21199920289

Fort Lewis

Ft. Lewis Co: Pierce WA 98433-

Status: Excess

Comment: 1165 sq. ft., needs repair, presence of asbestos/lead paint, most recent use—day room, off-site use only

Bldg. 01205

Property #: 21199920290

Fort Lewis

Ft. Lewis Co: Pierce WA 98433-

Status: Excess

Comment: 87 sq. ft., needs repair, presence of asbestos/lead paint, most recent use—storehouse, off-site use only

Bldg. 01259

Property #: 21199920291

Fort Lewis

Ft. Lewis Co: Pierce WA 98433-

Status: Excess

Comment: 16 sq. ft., needs repair, presence of asbestos/lead paint, most recent use—storage, off-site use only

Bldg. 01266

Property #: 21199920292

Fort Lewis

Ft. Lewis Co: Pierce WA 98433-

Status: Excess

Comment: 45 sq. ft., needs repair, presence of asbestos/lead paint, most recent use—shelter, off-site use only

Bldg. 1445

Property #: 21199920294

Fort Lewis

Ft. Lewis Co: Pierce WA 98433-

Status: Excess

Comment: 144 sq. ft., needs repair, presence of asbestos/lead paint, most recent use—generator bldg., off-site use only

Bldg. 02082

Property #: 21199920295

Fort Lewis

Ft. Lewis Co: Pierce WA 98433-

Status: Excess

Comment: 16 sq. ft., needs repair, presence of asbestos/lead paint, most recent use—storage, off-site use only

Bldgs. 03091, 03099

Property #: 21199920296

Fort Lewis

Ft. Lewis Co: Pierce WA 98433-

Status: Excess

Comment: various sq. ft., needs repair, presence of asbestos/lead paint, most recent use—sentry station, off-site use only

Bldgs. 03100, 3101

Property #: 21199920297

Fort Lewis

Ft. Lewis Co: Pierce WA 98433-

Status: Excess

Comment: various sq. ft., needs repair, presence of asbestos/lead paint, most recent use—storage, off-site use only

Bldg. 4040

Property #: 21199920298

Fort Lewis

Ft. Lewis Co: Pierce WA 98433-

Status: Excess

Comment: 8326 sq. ft., needs repair, presence of asbestos/lead paint, most recent use—shed, off-site use only

Bldgs. 4072, 5104

Property #: 21199920299

Fort Lewis

Ft. Lewis Co: Pierce WA 98433-

Status: Excess

Comment: 24/36 sq. ft., needs repair, presence of asbestos/lead paint, off-site use only

Bldg. 4295

Property #: 21199920300

Fort Lewis

Ft. Lewis Co: Pierce WA 98433-

Status: Excess

Comment: 48 sq. ft., needs repair, presence of asbestos/lead paint, most recent use—storage, off-site use only

Bldg. 5170

Property #: 21199920301

Fort Lewis

Ft. Lewis Co: Pierce WA 98433-

Status: Excess

Comment: 19411 sq. ft., needs repair, presence of asbestos/lead paint, most recent use—store, off-site use only

Bldg. 6191

Property #: 21199920303

Fort Lewis

Ft. Lewis Co: Pierce WA 98433-

Status: Excess

Comment: 3663 sq. ft., needs repair, presence of asbestos/lead paint, most recent use—exchange branch, off-site use only

Bldgs. 08076, 08080

Property #: 21199920304

Fort Lewis

Ft. Lewis Co: Pierce WA 98433-

Status: Excess

Comment: 3660/412 sq. ft., needs repair, presence of asbestos/lead paint, off-site use only

Bldg. 08093

Property #: 21199920305

Fort Lewis

Ft. Lewis Co: Pierce WA 98433-

Status: Excess

Comment: 289 sq. ft., needs repair, presence of asbestos/lead paint, most recent use—boat storage, off-site use only

Bldg. 8279

Property #: 21199920306

Fort Lewis

Ft. Lewis Co: Pierce WA 98433-

Status: Excess

Comment: 210 sq. ft., needs repair, presence of asbestos/lead paint, most recent use—fuel disp. fac., off-site use only

Bldgs. 8280, 8291

Property #: 21199920307

Fort Lewis

Ft. Lewis Co: Pierce WA 98433-

Status: Excess

Comment: 800/464 sq. ft., needs repair, presence of asbestos/lead paint, most recent use—storage, off-site use only

Bldg. 8956

Property #: 21199920308

Fort Lewis

Ft. Lewis Co: Pierce WA 98433-

Status: Excess

Comment: 100 sq. ft., needs repair, presence of asbestos/lead paint, most recent use—storage, off-site use only

Bldg. 9530

Property #: 21199920309

Fort Lewis

Ft. Lewis Co: Pierce WA 98433-

Status: Excess

Comment: 64 sq. ft., needs repair, presence of asbestos/lead paint, most recent use—sentry station, off-site use only

Bldg. 9574

Properity #: 21199920310

Fort Lewis

Ft. Lewis Co: Pierce WA 98433-

Status: Excess

Comment: 6005 sq. ft., needs repair, presence of asbestos/lead paint, most recent use—veh. shop., off-site use only

Bldg. 9596

Properity #: 21199920311

Fort Lewis

Ft. Lewis Co: Pierce WA 98433-

Status: Excess

Comment: 36 sq. ft., needs repair, presence of asbestos/lead paint, most recent use—gas station, off-site use only

Bldg. 9939

Properity #: 21199920313

Fort Lewis

Ft. Lewis Co: Pierce WA 98433-

Status: Excess

Comment: 600 sq. ft., needs repair, presence of asbestos/lead paint, most recent use—recreation, off-site use only

Bldg. 607

Properity #: 21200030120

Vancouver Barracks

Vancouver Co: Clark WA 98661-3826

Status: Unutilized

Comment: 10120 sq. ft., National Historic Preservation Act requirements, most recent use—office

Bldg. 614

Properity #: 21200030121

Vancouver Barracks

Vancouver Co: Clark WA 98661-3826

Status: Unutilized

Comment: 38981 sq. ft., National Historic Preservation Act requirements, most recent use—admin.

Bldg. 626

Properity #: 21200030122

Vancouver Barracks

Vancouver Co: Clark WA 98661-3826

Status: Unutilized

Comment: 1710 sq. ft., National Historic Preservation Act requirements, most recent use—admin.

Bldg. 628

Properity #: 21200030123

Vancouver Barracks

Vancouver Co: Clark WA 98661-3826

Status: Unutilized

Comment: 2621 sq. ft., National Historic Preservation Act requirements, most recent use—admin.

Bldg. 636

Properity #: 21200030124

Vancouver Barracks

Vancouver Co: Clark WA 98661-3826

Status: Unutilized

Comment: 9686 sq. ft., National Historic Preservation Act requirements, most recent use—admin.

Bldg. 638

Properity #: 21200030125

Vancouver Barracks

Vancouver Co: Clark WA 98661-3826

Status: Unutilized

Comment: 33822 sq. ft., National Historic Preservation Act requirements, most recent use—admin.

COE

Arkansas

Land

Parcel 01

Properity #: 31199010071

DeGray Lake

Section 12

Arkadelphia Co: Clark AR 71923-9361

Status: Unutilized

Comment: 77.6 acres

Parcel 02

Properity #: 31199010072

DeGray Lake

Section 13

Arkadelphia Co: Clark AR 71923-9361

Status: Unutilized

Comment: 198.5 acres

Parcel 03

Property #: 31199010073

DeGray Lake

Section 18

Arkadelphia Co: Clark AR 71923-9361

Status: Unutilized

Comment: 5.46 acres

Parcel 04

Property #: 31199010074

DeGray Lake

Section 24, 25, 30 and 31

Arkadelphia Co: Clark AR 71923-9361

Status: Unutilized

Comment: 236.37 acres

Parcel 05

Property #: 31199010075

DeGray Lake

Section 16

Arkadelphia Co: Clark AR 71923-9361

Status: Unutilized

Comment: 187.30 acres

Parcel 06

Property #: 31199010076

DeGray Lake

Section 13

Arkadelphia Co: Clark AR 71923-9361

Status: Unutilized

Comment: 13.0 acres

Parcel 07

Property #: 31199010077

DeGray Lake

Section 34

Arkadelphia Co: Hot Spring AR 71923-9361

Status: Unutilized

Comment: 0.27 acres

Parcel 08

Property #: 31199010078

DeGray Lake

Section 13

Arkadelphia Co: Clark AR 71923-9361

Status: Unutilized

Comment: 14.6 acres

Parcel 09

Property #: 31199010079

DeGray Lake

Section 12

Arkadelphia Co: Hot Spring AR 71923-9361

Status: Unutilized

Comment: 6.60 acres

Parcel 10

Property #: 31199010080

DeGray Lake

Section 12

Arkadelphia Co: Hot Spring AR 71923-9361

Status: Unutilized

Comment: 4.5 acres

Parcel 11

Property #: 31199010081

DeGray Lake

Section 19

Arkadelphia Co: Hot Spring AR 71923-9361

Status: Unutilized

Comment: 19.50 acres

Lake Greeson

Property #: 31199010083

Section 7, 8 and 18

Murfreesboro Co: Pike AR 71958-9720

Status: Unutilized

Comment: 46 acres

Kansas

Land

Parcel 1

Property #: 31199010064

El Dorado Lake

Section 13, 24, and 18

(See County) Co: Butler KS

Status: Unutilized

Comment: 61 acres; most recent use—recreation

Kentucky

Building

Green River Lock & Dam #3

Property #: 31199010022

Rochester Co: Butler KY 42273-

Location: SR 70 west from Morgantown, KY., approximately 7 miles to site.

Status: Unutilized

Comment: 980 sq. ft.; 2 story wood frame; two story residence; potential utilities; needs major rehab

Kentucky River Lock & Dam 3

Property #: 31199010060

Pleasureville Co: Henry KY 40057-

Location: SR 421 North from Frankfort, KY. to highway 561, right on 561 approximately 3 miles to site.

Status: Unutilized

Comment: 897 sq. ft.; 2 story wood frame; structural deficiencies

Bldg. 1

Property #: 31199011628

Kentucky River Lock and Dam

Carrolton Co: Carroll KY 41008-

Location: Take I-71 to Carrolton, KY exit, go east on SR #227 to Highway 320, then left for about 1.5 miles to site.

Status: Unutilized

Comment: 1530 sq. ft.; 2 story wood frame house; subject to periodic flooding; needs rehab

Bldg. 2

Property #: 31199011629

Kentucky River Lock and Dam

Carrolton Co: Carroll KY 41008-

Location: Take I-71 to Carrolton, KY exit, go east on SR #227 to highway 320, then left for about 1.5 miles to site.

Status: Unutilized

Comment: 1530 sq. ft.; 2 story wood frame house; subject to periodic flooding; needs rehab

Utility Bldg, Nolin River Lake

Property #: 31199320002

Moutardier Recreation Site

Co: Edmonson KY

Status: Unutilized

Comment: 541 sq. ft., concrete block, off-site use only

Land

Tract 2625

Property #: 31199010025

Barkley Lake, Kentucky, and Tennessee

Cadiz Co: Trigg KY 42211-

Location: Adjoining the village of Rockcastle.

Status: Excess

Comment: 2.57 acres; rolling and wooded

Tract 2709-10 and 2710-2

Property #: 31199010026

Barkley Lake, Kentucky, and Tennessee

Cadiz Co: Trigg KY 42211-

Location: 2½ miles in a southerly direction from the village of Rockcastle.

Status: Excess

Comment: 2.00 acres; steep and wooded

Tract 2708-1 and 2709-1

Property #: 31199010027

Barkley Lake, Kentucky, and Tennessee

Cadiz Co: Trigg KY 42211-

Location: 2½ miles in a southerly direction from the village of Rockcastle.

Status: Excess

Comment: 3.59 acres; rolling and wooded; no utilities

Tract 2800

Property #: 31199010028

Barkley Lake, Kentucky, and Tennessee

Cadiz Co: Trigg KY 42211-

Location: 4½ miles in a southerly direction from the village of Rockcastle.

Status: Excess

Comment: 5.44 acres; steep and wooded

Tract 2915

Property #: 31199010029

Barkley Lake, Kentucky, and Tennessee

Cadiz Co: Trigg KY 42211-

Location: 6½ miles west of Cadiz.

Status: Excess

Comment: 5.76 acres; steep and wooded; no utilities

Tract 2702

Property #: 31199010031

Barkley Lake, Kentucky, and Tennessee

Cadiz Co: Trigg KY 42211-

Location: 1 mile in a southerly direction from the village of Rockcastle.

Status: Excess

Comment: 4.90 acres; wooded; no utilities

Tract 4318

Property #: 31199010032

Barkley Lake, Kentucky, and Tennessee

Canton Co: Trigg KY 42212-

Location: Trigg Co. adjoining the city of Canton, KY. on the waters of Hopson Creek.

Status: Excess

Comment: 8.24 acres; steep and wooded

Tract 4502

Property #: 31199010033

Barkley Lake, Kentucky and Tennessee

Canton Co: Trigg KY 42212-

Location: 3½ miles in a southerly direction from Canton, KY.

Status: Excess

Comment: 4.26 acres; steep and wooded

Tract 4611

Property #: 31199010034

Barkley Lake, Kentucky and Tennessee

Canton Co: Trigg KY 42212-

Location: 5 miles south of Canton, KY.

Status: Excess

Comment: 10.51 acres; steep and wooded; no utilities

Tract 4619

Property #: 31199010035

Barkley Lake, Kentucky and Tennessee

Canton Co: Trigg KY 42212-

Location: 4½ miles south from Canton, KY.

Status: Excess

Comment: 2.02 acres; steep and wooded; no utilities

Tract 4817

Property #: 31199010036

Barkley Lake, Kentucky and Tennessee

Canton Co: Trigg KY 42212-

Location: 6½ miles south of Canton, KY.

Status: Excess

Comment: 1.75 acres; wooded

Tract 1217

Property #: 31199010042

Barkley Lake, Kentucky and Tennessee

Eddyville Co: Lyon KY 42030-

Location: On the north side of the Illinois Central Railroad

Status: Excess

Comment: 5.80 acres; steep and wooded

Tract 1906

Property #: 31199010044

Barkley Lake, Kentucky and Tennessee

Eddyville Co: Lyon KY 42030-

Location: Approximately 4 miles east of Eddyville, KY

Status: Excess

Comment: 25.86 acres; rolling steep and partially wooded; no utilities

Tract 1907

Property #: 31199010045

Barkley Lake, Kentucky and Tennessee

Eddyville Co: Lyon KY 42030-

Location: On the waters of Pilfen Creek, 4 miles east of Eddyville, KY.

Status: Excess

Comment: 8.71 acres; rolling steep and wooded; no utilities

Tract 2001 #1

Property #: 31199010046

Barkley Lake, Kentucky and Tennessee

Eddyville Co: Lyon KY 42030-

Location: Approximately 4½ miles east of Eddyville, KY.

Status: Excess

Comment: 47.42 acres; steep and wooded; no utilities

Tract 2001 #2

Property #: 31199010047

Barkley Lake, Kentucky and Tennessee

Eddyville Co: Lyon KY 42030-

Location: Approximately 4½ miles east of Eddyville, KY.

Status: Excess

Comment: 8.64 acres; steep and wooded; no utilities

Tract 2005

Property #: 31199010048

Barkley Lake, Kentucky and Tennessee

Eddyville Co: Lyon KY 42030-

Location: Approximately 5½ miles east of Eddyville, KY.

Status: Excess

Comment: 4.62 acres; steep and wooded; no utilities

Tract 2307

Property #: 31199010049

Barkley Lake, Kentucky and Tennessee

Eddyville Co: Lyon KY 42030-

Location: Approximately 7½ miles east of Eddyville, KY.

Status: Excess

Comment: 11.43 acres; steep; rolling and wooded; no utilities

Tract 2403

Property #: 31199010050

Barkley Lake, Kentucky and Tennessee

Eddyville Co: Lyon KY 42030-

Location: 7 miles southeasterly of Eddyville, KY.

Status: Excess

Comment: 1.56 acres; steep and wooded; no utilities

Tract 2504

Property #: 31199010051

Barkley Lake, Kentucky and Tennessee

Eddyville Co: Lyon KY 42030-

Location: 9 miles southeasterly of Eddyville, KY.

Status: Excess

Comment: 24.46 acres; steep and wooded; no utilities

Tract 214

Property #: 31199010052

Barkley Lake, Kentucky and Tennessee

Grand Rivers Co: Lyon KY 42045-

Location: South of the Illinois Central Railroad, 1 mile east of the Cumberland River.

Status: Excess

Comment: 5.5 acres; wooded; no utilities

Tract 215

Property #: 31199010053

Barkley Lake, Kentucky and Tennessee

Grand Rivers Co: Lyon KY 42045-

Location: 5 miles southwest of Kuttawa

Status: Excess

Comment: 1.40 acres; wooded; no utilities

Tract 241

Property #: 31199010054

Barkley Lake, Kentucky and Tennessee

Grand Rivers Co: Lyon KY 42045-

Location: Old Henson Ferry Road, 6 miles west of Kuttawa, KY.

Status: Excess

Comment: 1.26 acres; steep and wooded; no utilities

Tracts 306, 311, 315 and 325

Property #: 31199010055

Barkley Lake, Kentucky and Tennessee

Grand Rivers Co: Lyon KY 42045-

Location: 2.5 miles southwest of Kuttawa, KY. on the waters of Cypress Creek.

Status: Excess

Comment: 38.77 acres; steep and wooded; no utilities

Tracts 2305, 2306, and 2400-1

Property #: 31199010056

Barkley Lake, Kentucky and Tennessee

Eddyville Co: Lyon KY 42030-

Location: 6½ miles southeasterly of Eddyville, KY.

Status: Excess

Comment: 97.66 acres; steep rolling and wooded; no utilities

Tracts 5203 and 5204

Property #: 31199010058

Barkley Lake, Kentucky and Tennessee

Linton Co: Trigg KY 42212-

Location: Village of Linton, KY state highway 1254.

Status: Excess

Comment: 0.93 acres; rolling, partially wooded; no utilities

Tract 5240

Property #: 31199010059

Barkley Lake, Kentucky and Tennessee

Linton Co: Trigg KY 42212-

Location: 1 mile northwest of Linton, KY.

Status: Excess

Comment: 2.26 acres; steep and wooded; no utilities

Tract 4628

Property #: 31199011621

Barkley Lake, Kentucky and Tennessee

Canton Co: Trigg KY 42212-

Location: 4½ miles south from Canton, KY.

Status: Excess

Comment: 3.71 acres; steep and wooded; subject to utility easements

Tract 4619-B

Property #: 31199011622

Barkley Lake, Kentucky and Tennessee

Canton Co: Trigg KY 42212-

Location: 4½ miles south from Canton, KY.

Status: Excess

Comment: 1.73 acres; steep and wooded; subject to utility easements

Tract 2403-B

Property #: 31199011623

Barkley Lake, Kentucky and Tennessee

Eddyville Co: Lyon KY 42038-

Location: 7 miles southeasterly from Eddyville, KY.

Status: Unutilized

Comment: 0.70 acres; wooded; subject to utility easements

Tract 241-B

Property #: 31199011624

Barkley Lake, Kentucky and Tennessee

Grand Rivers Co: Lyon KY 42045-

Location: South of Old Henson Ferry Road, 6 miles west of Kuttawa, KY.

Status: Excess

Comment: 11.16 acres; steep and wooded; subject to utility easements

Tracts 212 and 237

Property #: 31199011625

Barkley Lake, Kentucky and Tennessee

Grand Rivers Co: Lyon KY 42045-

Location: Old Henson Ferry Road, 6 miles west of Kuttawa, KY

Status: Excess

Comment: 2.44 acres; steep and wooded; subject to utility easements

Tracts 215-B

Property #: 31199011626

Barkley Lake, Kentucky and Tennessee

Grand Rivers Co: Lyon KY 42045-

Location: 5 miles southwest of Kuttawa

Status: Excess

Comment: 1.00 acres; steep and wooded; subject to utility easements

Tracts 233

Property #: 31199011627

Barkley Lake, Kentucky and Tennessee

Grand Rivers Co: Lyon KY 42045-

Location: 5 miles southwest of Kuttawa

Status: Excess

Comment: 1.00 acres; steep and wooded; subject to utility easements

Tracts B—Markland Locks & Dam

Property #: 31199130002

Hwy 42, 3.5 miles downstream of Warsaw

Warsaw Co: Gallatin KY 41095-

Status: Unutilized

Comment: 10 acres, most recent use—recreational, possible periodic flooding

Tracts A—Markland Locks & Dam

Property #: 31199130003

Hwy 42, 3.5 miles downstream of Warsaw

Warsaw Co: Gallatin KY 41095-

Status: Unutilized

Comment: 8 acres, most recent use—recreational, possible periodic flooding

Tracts C—Markland Locks & Dam

Property #: 31199130005

Hwy 42, 3.5 miles downstream of Warsaw

Warsaw Co: Gallatin KY 41095-

Status: Unutilized

Comment: 4 acres, most recent use—recreational, possible periodic flooding

Tracts N—819

Property #: 31199140009

Dale Hollow Lake & Dam Project

Illwill Creek, Hwy 90

Hobart Co: Clinton KY 42601-

Status: Underutilized

Comment: 91 acres, most recent use—hunting, subject to existing easements

Portion of Lock & Dam No. 1

Property #: 31199320003

Kentucky River

Carrolton Co: Carroll KY 41008-0305

Status: Unutilized

Comment: approx. 3.5 acres (sloping), access monitored

Portion of Lock & Dam No. 2

Property #: 31199320004

Kentucky River

Lockport Co: Henry KY 40036-9999

Status: Underutilized

Comment: approx. 13.14 acres (sloping), access monitored

Louisiana

Land

Wallace Lake Dam and Reservoir

Property #: 31199011009

Shreveport Co: Caddo LA 71103-

Status: Unutilized

Comment: 10.81 acres; wildlife/forestry; no utilities

Bayou Bodcau Dam and Reservoir

Property #: 31199011010

Houghton Co: Caddo LA 71037-9707

Location: 35 miles Northeast of Shreveport, La.

Status: Unutilized

Comment: 203 acres; wildlife/forestry; no utilities

Massachusetts

Building

Storage Bldg.

Property #: 31200030005

Knightville Dam Road

Huntington Co: Hampshire MA 01050-

Status: Unutilized

Comment: 480 sq. ft., needs rehab, off-site use only

Minnesota

Building

Project Office

Property #: 31200020007

Mississippi Hdqts Lakes

Proj.

Remer Co: Cass MN 56672-

Status: Unutilized

Comment: 780 sq. ft., needs rehab

Storage 1

Property #: 31200020008

Mississippi Hdqts Lakes

Proj.

Remer Co: Cass MN 56672-

Status: Unutilized

Comment: 2240 sq. ft., needs rehab

Storage 2

Property #: 31200020009

Mississippi Hdqts Lakes

Proj.

Remer Co: Cass MN 56672-

Status: Unutilized

Comment: 180 sq. ft., needs rehab

Land

Land, 2.2 acres

Property #31200020010

Mississippi Hdqts Lakes

Proj

Remer Co: Cass MN 56672-

Status: Unutilized

Comments: 2.2 acres, easements

Mississippi

Land

Parcel 7

Property #: 31199011019

Grenada Lake

Sections 22, 23, T24N

Grenada Co: Yalobusha MS 38901-0903

Status: Underutilized

Comment: 100 acres; no utilities; intermittently used under lease—expires 1994

Parcel 8

Property #: 31199011020

Grenada Lake

Sections 20, T24N

Grenada Co: Yalobusha MS 38901-0903

Status: Underutilized

Comment: 30 acres; no utilities; intermittently used under lease—expires 1994

Parcel 9

Property #: 31199011021

Grenada Lake

Sections 20, T24N, R7E

Grenada Co: Yalobusha MS 38901-0903

Status: Underutilized

Comment: 23 acres; no utilities; intermittently used under lease—expires 1994

Parcel 10

Property #: 31199011022

Grenada Lake

Sections 16, 17, 18 T24N R8E

Grenada Co: Calhoun MS 38901-0903

Status: Underutilized

Comment: 490 acres; no utilities; intermittently used under lease—expires 1994

Parcel 2

Property #: 31199011023

Grenada Lake

Sections 20 and T23N, R5E

Grenada Co: Grenada MS 38901-0903

Status: Underutilized

Comment: 60 acres; no utilities; most recent use—wildlife and forestry management

Parcel 3

Property #: 31199011024

Grenada Lake

Section 4, T23N, R5E

Grenada Co: Yalobusha MS 38901-0903

Status: Underutilized

Comment: 120 acres; no utilities; most recent use—wildlife and forestry management; (13.5 acres/agriculture lease)

Parcel 4

Property #: 31199011025

Grenada Lake

Section 2 and 3, T23N, R5E

Grenada Co: Yalobusha MS 38901-0903

Status: Underutilized

Comment: 60 acres; no utilities; most recent use—wildlife and forestry management

Parcel 5

Property #: 31199011026

Grenada Lake

Section 7, T24N, R6E

Grenada Co: Yalobusha MS 38901-0903

Status: Underutilized

Comment: 20 acres; no utilities; most recent use—wildlife and forestry management; (14 acres/agriculture lease)

Parcel 6

Property #: 31199011027

Grenada Lake

Section 9, T24N, R6E

Grenada Co: Yalobusha MS 38903-0903

Status: Underutilized

Comment: 80 acres; no utilities; most recent use—wildlife and forestry management

Parcel 11

Property #: 31199011028

Grenada Lake

Section 20, T24N, R8E

Grenada Co: Calhoun MS 38901-0903

Status: Underutilized

Comment: 30 acres; no utilities; most recent use—wildlife and forestry management

Parcel 12

Property #: 31199011029

Grenada Lake

Section 25, T24N, R7E

Grenada Co: Yalobusha MS 38390-0903

Status: Underutilized

Comment: 30 acres; no utilities; most recent use—wildlife and forestry management

Parcel 13

Property #: 31199011030

Grenada Lake

Section 34, T24N, R7E

Grenada Co: Yalobusha MS 38903-0903

Status: Underutilized

Comment: 35 acres; no utilities; most recent use—wildlife and forestry management; (11 acres/agriculture lease)

Parcel 14

Property #: 31199011031

Grenada Lake

Section 3, T23N, R6E

Grenada Co: Yalobusha MS 38901-0903

Status: Underutilized

Comment: 15 acres; no utilities; most recent use—wildlife and forestry management

Parcel 15

Property #: 31199011032

Grenada Lake

Section 4, T24N, R6E

Grenada Co: Yalobusha MS 38901-0903

Status: Underutilized

Comment: 40 acres; no utilities; most recent use—wildlife and forestry management

Parcel 16

Property #: 31199011033

Grenada Lake

Section 9, T23N, R6E

Grenada Co: Yalobusha MS 28901-0903

Status: Underutilized

Comment: 70 acres; no utilities; most recent use—wildlife and forestry management.

Parcel 17

Property #: 31199011034

Grenada Lake

Section 17, T23N, R7E

Grenada Co: Grenada MS 28901-0903

Status: Underutilized

Comment: 35 acres; no utilities; most recent use—wildlife and forestry management

Parcel 18

Property #: 31199011035

Grenada Lake

Section 22, T23N, R7E

Grenada Co: Grenada MS 28902-0903

Status: Underutilized

Comment: 10 acres; no utilities; most recent use—wildlife and forestry management

Parcel 19

Property #: 31199011036

Grenada Lake

Section 9, T22N, R7E

Grenada Co: Grenda MS 38901-0903

Status: Underutilized

Comment: 20 acres; no utilities; most recent use—wildlife and forestry management

Missouri

Land

Harry S Truman Dam & Reservoir

Property #: 31199030014

Location: Triangular shaped parcel southwest of access road “B”, part of Bledsoe Ferry Park Tract 150.

Status: Underutilized

Comment: 1.7 acres; potential utilities

North Dakota

Building

Office Bldg.

Property #: 31200020001

Lake Oahe Project

3rd & Main

Ft. Yates Co: Sioux ND 58538-

Status: Unutilized

Comment: 1200 sq. ft., 2-story wood, off-site use only

Ohio

Building

Barker Historic House

Property #: 31199120018

Willow Island Locks and Dam

Newport Co: Washington OH 45768-9801

Location: Located at lock site, downstream of lock and dam structure

Status: Unlimited

Comment: 1600 sq. ft. bldg. with ½ acre of land, 2 story brick frame, needs rehab, on Natl Register of Historic Places, no utilities, off-site use only

Dwelling No. 2

Property #: 31199810005

Delaware Lake, Highway 23 North

Delaware OH 43015-

Status: Excess

Comment: 2-story brick w/basement, most recent use—residential., presence of asbestos/lead paint, off-site use only

Oklahoma

Building

Water Treatment Plant

Property #: 31199630001

Belle Starr, Eufaula Lake

Eufaula Co: McIntosh OK 74432-

Status: Excess

Comment: 16′x16′, metal, off-site use only

Water Treatment Plant

Property #: 31199630002

Gentry Creek, Eufaula Lake

Eufaula Co: McIntosh OK 74432-

Status: Excess

Comment: 12′x16′, metal, off-site use only

Land

Pine Creek Lake

Property #: 31199010923

Section 27

(See County) Co: McCurtain OK

Status: Unutilized

Comment: 3 acres; no utilities; subject to right of way for Oklahoma State Highway 3

Pennsylvania

Building

Mahoning Creek Reservoir

Property #: 31199210008

New Bethlehem Co: Armstrong PA 16242-

Status: Unutilized

Comment: 1015 sq. ft., 2 story brick residence, off-site use only

Dwelling

Property #: 31199620008

Lock & Dam 6, Allegheny Riber, 1260 River Rd.

Freeport Co: Armstrong PA 16229-2023

Status: Unutilized

Comment: 2652 sq. ft., 3-story brick house, in close proximity to Lock and Dam, available for interim use for nonresidential purposes

Govt. Dwelling

Property #: 31199640002

Youghiogheny River Lake

Confluence Co: Fayette PA 15424-9103

Status: Unutilized

Comment: 1421 sq. ft., 2-story brick w/basement, most recent use—residential

Dwelling

Property #: 31199710009

Lock & Dam 4, Allegheny River

Natrona Co: Allegheny PA 15065-2609

Status: Unutilized

Comment: 1664 sq. ft., 2-story brick residence, needs repair, off-site use only

Dwelling #1

Property #: 31199740002

Crooked Creek Lake

Ford City Co: Armstrong PA 16226-8815

Status: Excess

Comment: 2030 sq. ft., most recent use—residential, good condition, off-site use only

Dwelling #2

Property #: 31199740003

Crooked Creek Lake

Ford City Co: Armstrong PA 16226-8815

Status: Excess

Comment: 3045 sq. ft., most recent use—residential, good condition, off-site use only

Dwelling #3

Property #: 31199740004

Crooked Creek Lake

Ford City Co: Armstrong PA 16226-8815

Status: Excess

Comment: 1847 sq. ft., most recent use—office, good condition, off-site use only

Govt Dwelling

Property #: 31199740005

East Branch Lake

Wilcox Co: Elk PA 15870-9709

Status: Underutilized

Comment: approx. 5,299 sq. ft., 1-story, most recent use—residence, off-site use only

Dwelling #1

Property #: 31199740006

Loyalhanna Lake

Saltsburg Co: Westmoreland PA 15681-9302

Status: Excess

Comment: 1996 sq. ft., most recent use—residential, good condition, off-site use only

Dwelling #2

Property #: 31199740007

Loyalhanna Lake

Saltsburg Co: Westmoreland PA 15681-9302

Status: Excess

Comment: 1996 sq. ft., most recent use—residential, good condition, off-site use only

Dwelling #1

Property #: 31199740008

Woodcock Creek Lake

Saegertown Co: Crawford PA 16433-0629

Status: Excess

Comment: 2106 sq. ft., most recent use—residential, good condition, off-site use only

Dwelling #2

Property #: 31199740009

Lock & Dam 6, 1260 River Road

Freeport Co: Armstrong PA 16229-2023

Status: Excess

Comment: 2652 sq. ft., most recent use— residential, good condition, off-site use only

Dwelling #2

Property #: 31199830003

Youghiogheny River Lake

Confluence Co: Fayette PA 15424-9103

Status: Excess

Comment: 1421 sq. ft., 2-story + basement, most recent use—residential

Residence/Office

Property #: 31199940002

Cowanesque Lake Project

Lawrenceville Co: Tioga PA 16929-

Status: Unutilized

Comment: 1653 sq. ft. residence, and 2,640 sq. ft. storage bldg., need major repairs, no operating sanitary facilities

Land

Mahoning Creek Lake

Property #: 31199010018

New Bethlehem Co: Armstrong PA 16242-9603

Location: Route 28 north to Belknap, Road #4

Status: Excess

Comment: 2.58 acres; steep and densely wooded

Tracts 610, 611, 612

Property #: 31199011001

Shenango River Lake

Sharpsville Co: Mercer PA 16150-

Location: I-79 North, I-80 West, Exit Sharon. R18 North 4 miles, left on R518, right on Mercer Avenue.

Status: Excess

Comment: 24.09 acres; subject to flowage easement

Tracts L24, L26

Property #: 31199011011

Crooked Creek Lake

Co: Armstrong PA 03051-

Location: Left bank—55 miles downstream of dam.

Status: Unutilized

Comment: 7.59 acres; potential for utilities

Portion of Tract L-21A

Property #: 31199430012

Crooked Creek Lake, LR 03051

Ford City Co: Armstrong PA 16226-

Status: Unutilized

Comment: Approximately 1.72 acres of undeveloped land, subject to gas rights

Portion of Tract 119

Property #: 31200010005

State Rt 969

Curwensville Co: Clearfield PA 16833-

Status: Unutilized

Comment: approx. 17 acres, hilly wooded terrain

Tennessee

Land

Tract 6827

Property #: 31199010927

Barkley Lake

Dover Co: Stewart TN 37058-

Location: 2½ miles west of Dover, TN.

Status: Excess

Comment: .57 acres; subject to existing easements

Tracts 6002-2 and 6010

Property #: 31199010928

Barkley Lake

Dover Co: Stewart TN 37058-

Location: 3½ miles south of village of Tabaccoport.

Status: Excess

Comment: 100.86 acres; subject to existing easements

Tract 11516

Property #: 31199010929

Barkley Lake

Ashland City Co: Dickson TN 37015-

Location: ½ mile downstream from Cheatham Dam

Status: Excess

Comment: 26.25 acres; subject to existing easements

Tract 2319

Property #: 31199010930

J. Percy Priest Dam and Resorvoir

Murfreesboro Co: Rutherford TN 37130-

Location: West of Buckeye Bottom Road

Status: Excess

Comment: 14.48 acres; subject to existing easements

Tract 2227

Property #: 31199010931

J. Percy Priest Dam and Reservoir

Murfreesboro Co: Rutherford TN 37130-

Location: Old Jefferson Pike

Status: Excess

Comment: 2.27 acres; subject to existing easements

Tract 2107

Property #: 31199010932

J. Percy Priest Dam and Reservoir

Murfreesboro Co: Rutherford TN 37130-

Location: Across Fall Creek near Fall Creek camping area.

Status: Excess

Comment: 14.85 acres; subject to existing easements

Tracts 2601, 2602, 2603, 2604

Property #: 31199010933

Cordell Hull Lake and Dam Project

Doe Row Creek

Gainesboro Co: Jackson TN 38562-

Location: TN Highway 56

Status: Unutilized

Comment: 11 acres; subject to existing easements

Tract 1911

Property #: 31199010934

J. Percy Priest Dam and Reservoir

Murfreesboro Co: Rutherford TN 37130-

Location: East of Lamar Road

Status: Excess

Comment: 6.92 acres; subject to existing easements

Tract 2321

Property #: 31199010935

J. Percy Priest Dam and Reservoir

Murfreesboro Co: Rutherford TN 37130-

Location: South of Old Jefferson Pike

Status: Excess

Comment: 12 acres; subject to existing easements

Tract 7206

Property #: 31199010936

Barkley Lake

Dover Co: Stewart TN 37058-

Location: 2½ miles SE of Dover, TN.

Status: Excess

Comment: 10.15 acres; subject to existing easements

Tracts 8813, 8814

Property #: 31199010937

Barkley Lake

Cumberland Co: Stewart TN 37050-

Location: 1½ miles East of Cumberland City.

Status: Excess

Comment: 96 acres; subject to existing easements

Tract 8911

Property #: 31199010938

Barkley Lake

Cumberland City Co: Montgomery TN 37050-

Location: 4 miles east of Cumberland City.

Status: Excess

Comment: 7.7 acres, subject to existing easements

Tract 11503

Property #: 31199010939

Barkley Lake

Ashland City Co: Cheatham TN 37015-

Location: 2 miles downstream from Cheatham Dam.

Status: Excess

Comment: 1.1 acres; subject to existing easements

Tracts 11523, 11524

Property #: 31199010940

Barkley Lake

Ashland City Co: Cheatham TN 37015-

Location: 2½ miles downstream from Cheatham Dam.

Status: Excess

Comment: 19.5 acres; subject to existing easements

Tract 6410

Property #: 31199010941

Barkley Lake

Bumpus Mill Co: Stewart TN 37028-

Location: 4½ miles SW. of Bumpus Mills.

Status: Excess

Comment: 17 acres; subject to existing easements

Tract 9707

Property #: 31199010943

Barkley Lake

Palmyer Co: Montgomery TN 37142-

Location: 3 miles NE of Palmyer, TN. Highway 149

Status: Excess

Comment: 6.6 acres; subject ot existing easements

Tract 6949

Property #: 31199010944

Barkley Lake

Dover Co: Stewart TN 37058-

Location: 1½ miles SE of Dover, TN.

Status: Excess

Comment: 29.67 acres; subject to existing easements

Tracts 6005 and 6017

Property #: 31199011173

Barkley Lake

Dover Co: Stewart TN 37058-

Location: 3 miles south of Village of Tobaccoport.

Status: Excess

Comment: 5 acres; subject to existing easements

Tracts K-1191, K-1135

Property #: 31199130007

Old Hickory Lock and Dam

Hartsville Co: Trousdale TN 37074-

Status: Underutilized

Comment: 92 acres (38 acres in floodway), most recent use—recreation

Tract A-102

Property #: 31199140006

Dale Hollow Lake & Dam

Project

Canoe Ridge, State Hwy 52

Celina Co: Clay TN 38551-

Status: Underutilized

Comment: 351 acres, most recent use—hunting, subject to existing easements

Tract A-120

Property #: 31199140007

Dale Hollow Lake & Dam

Project

Swann Ridge, State Hwy NO. 53

Celina Co: Clay TN 38551-

Status: Underutilized

Comment: 883 acres, most recent use—hunting, subject to existing easements

Tracts A-20, A-21

Property #: 3119914008

Dale Hollow Lake & Dam

Project

Red Oak Ridge, State Hwy No. 53

Celina Co: Clay TN 38551-

Status: Underutilized

Comment: 821 acres, most recent use—recreation, subject to existing easements

Tracts D-185

Property #: 31199140010

Dale Hollow Lake & Dam

Project

Ashburn Creek, Hwy No. 53

Livingston Co: Clay TN 38570-

Status: Underutilized

Comment: 883 acres, most recent use—hunting, subject to existing easements

Virginia

Building

Metal Bldg.

Property #: 31199620009

John H. Kerr Dam & Reservoir

Co: Boydton VA

Status: Excess

Comment: 800 sq. ft., most recent use—storage, off-site use only

Washington

Building

Fishhook Park Residence

Property #: 31200030009

Ice Harbor

Prescott Co: Walla Walla WA 99323-

Status: Unutilized

Comment: Mobile home, off-site use only

Charbonneau Park Residence

Property #: 31200030010

Ice Harbor

Burbank Co: Walla Walla WA 99323-

Status: Unutilized

Comment: 1344 sq. ft. mobile home, off-site use only

Levey Park Residence

Property #: 31200030011

Ice Harbor

Pasco Co: Franklin WA 00000-

Status: Unutilized

Comment: 924 sq. ft. mobile home, off-site use only

West Virginia

Building

Dwelling 1

Property #: 31199810003

Summersville Lake

Summersville Co: Nicholas WV 26651-9802

Status: Excess

Comment: 1200 sq. ft., presence of asbestos/lead paint, most recent use—residential, off-site use only

Dwelling 2

Property #: 31199810004

Sutton Lake

Sutton Co: Braxton WV 26651-9802

Status: Excess

Comment: 1100 sq. ft., most recent use—residential, off-site use only

Wisconsin

Building

Former Lockmaster's Dwelling

Property #: 31199011524

Cedar Locks

4527 East Wisconsin Road

Appleton Co: Outagamie WI 54911-

Status: Unutilized

Comment: 1224 sq. ft.; 2 story brick/wood frame residence; needs rehab; secured area with alternate access

Former Lockmaster's Dwelling

Property #: 31199011525

Appleton 4th Lock

905 South Lowe Street

Appleton Co: Outagamie WI 54911-

Status: Unutilized

Comment: 908 sq. ft.; 2 story wood frame residence; needs rehab

Former Lockmaster's Dwelling

Property #: 31199011527

301 Canal Street

Kaukauna Co: Outagamie WI 54131-

Status: Unutilized

Comment: 1290 sq. ft.; 2 story wood frame residence; needs rehab; secured area with alternate access

Former Lockmaster's Dwelling

Property #: 31199011531

Appleton 1st Lock

905 South Oneida Street

Appleton Co: Outagamie WI 54911-

Status: Unutilized

Comment: 1300 sq. ft.; potential utilities; 2 story wood frame residence; needs rehab; secured area with alternate access

Former Lockmaster's Dwelling

Property #: 31199011533

Rapid Croche Lock

Lock Road

Wrightstown Co: Outagamie WI 54180-

Location: 3 miles southwest of intersection State Highway 96 and Canal Road.

Status: Unutilized

Comment: 1952 sq. ft.; 2 story wood frame residence; potential utilities; needs rehab

Former Lockmaster's Dwelling

Property #: 31199011535

Little KauKauna Lock

Little Kaukauna

Lawrence Co: Brown WI 54130-

Location: 2 miles southeasterly from intersection of Lost Dauphin Road (County Truck Highway “D”) and River Street.

Status: Unutilized

Comment: 1224 sq. ft.; 2 story brick/wood frame residence; needs rehab.

Former Lockmaster's Dwelling

Property #: 31199011536

Little Chute, 2nd Lock

214 Mill Street

Little Chute Co: Outagamie WI 54140-

Status: Unutilized

Comment: 1224 sq. ft.; 2 story brick/wood frame residence; potential utilities; needs rehab; secured area with alternate access

Energy

Idaho

Building

Bldg. CF603

Property #: 41200020004

Idaho Natl Eng & Env Lab

Scoville Co: Butte ID 83415-

Status: Excess

Comment: 15005 sq. ft.; cinder block; presence of asbestos/lead paint, major rehab; off-site use only

New Jersey

Building

Module 4, C63

Property #: 41200030002

Princeton Plasma Physics Lab

Princeton Co: Mercer NJ 08540-

Status: Excess

Comment: modular unit, 693 sq. ft.; most recent use—office, off-site use only

New Mexico

Building

Bldgs. 847, 6600

Property #: 41200020021

Kirtland AFB

Albuquerque Co: Bernalilo NM 87185-

Status: Excess

Comment: 4053 sq. ft.; & 1501 sq. ft., needs rehab; presence of asbestos, off-site use only

GSA

Arkansas

Land

7 acres

Property #: 54200040003

Army Reserve

Installation 05572

West Memphis Co: Crittenden AR 72301-

Status: Surplus

Comment: 7 acres, subject to existing easements

GSA Number: 7-D-AR-0557

Idaho

Land

25′ × 100′ Site

Property #: 54200010007

1520 N St. & 2290 E St.

Rogerson Co: Twin Falls ID 00000-

Status: Unutilized

Comment: lot too small to meet minimum size for residence, zoning/agriculture, no sewer service

GSA Number: 9-A-ID-545

Illinois

Building

Milo Comm. Tower Site

Property #: 54200020018

350 N. Rt. 8

Milo Co: Bureau IL 56142-

Status: Excess

Comment: 120 sq. ft.; cinder block bldg.

GSA Number: 1-D-IL-795

LaSalle Comm. Tower Site

Property #: 54200020019

1600 NE 8th St.

Richland Co: LaSalle IL 61370-

Status: Excess

Comment: 120 sq. ft. cinder block bldg. and a 300′ tower

GSA Number: 1-D-IL-724

Army Reserve Center

Property #: 54200030001

PVT Perry F. Modrow

5020 State Street

E. St. Louis Co: St. Clair IL 62205-1398

Status: Excess

Comment: 16300 sq. ft. training center & 2,656 sq. ft. garage, presence of lead paint

GSA Number: 1-D-IL-726

Minnesota

Building

GAP Filler Radar Site

Property #: 54199910009

St. Paul Co: Rice MN 55101-

Status: Excess

Comment: 1266 sq. ft., concrete block, presence of asbestos/lead paint, most recent use—storage, zoning requirements

GSA Number: 1-GR(1)-MN-475

Missouri

Building

Hardesty Federal Complex

Property #: 54199940001

607 Hardesty Avenue

Kansas City Co: Jackson MO 64124-3032

Status: Excess

Comment: 7 warehouses and support buildings (540 to 216,000 sq. ft.) on 17.47 acres, major rehab, most recent use—storage/office, utilities easement

GSA Number: 7-G-MO-637

Natl Weather Svc Ofc

Property #: 54200020015

4100 Mexico Road

St. Peters Co: St. Charles MO 00000-

Status: Excess

Comment: 4774 sq. ft. presence of asbestos, good condition, most recent use—office

GSA Number: 7-C-MO-641

Nebraska

Land

0.34 acres

Property #: 54200040002

Offutt AFB adjacent to 36th St.

Bellevue Co: Sarpy NE 68113-

Status: Surplus

Comment: 0.34 acres, subject to existing easements

GSA Number: 7-D-NE-0527

New Jersey

Building

Old Bridge Housing

Property #: 54199940010

Route 9

Old Bridge Co: NJ 08857-

Status: Excess

Comment: 12 three bedroom housing units, no long-term wastewater treatment system for property, presence of asbestos/lead paint, needs repair

GSA Number: 0-0-NJ-000

Holmdel Housing Site

Property #: 54200040005

Telegraph Hill Road

Holmdel Co: Monmouth NJ 07733-

Status: Excess

Comment: 12 housing units on 5.59 acres, 1,196 sq. ft. each, extreme disrepair

GSA Number: 1-N-NJ-622

New York

Building

“Terry Hill”

Property #: 54199830008

County Road 51

Manorville NY

Status: Surplus

Comment: 2 block structures, 780/272 sq. ft., no sanitary facilities, most recent use—storage/comm. facility, w/6.19 acres in fee and 4.99 acre easement, remote area

GSA Number: 1-D-NY-864

Binghampton Depot

Property #: 54199910015

Nolans Road

Binghampton Co: NY 00000-

Status: Excess

Comment: 45977 sq. ft., needs repair, presence of asbestos, most recent use—office

GSA Number: 1-G-NY-760A

Naval Reserve Center

Property #: 54200040006

Frankfort Co: Herkimer NY

Status: Excess

Comment: 23800 sq. ft., brick, good condition, most recent use—training center

GSA Number: 1-D-NY-874

Ohio

Land

Jersey Tower Site

Property #: 54199910013

Tract No. 100 & 100E

Jersey Co: Licking OH 00000-

Status: Surplus

Comment: 4.24 acres, subject to preservation of wetlands

GSA Number: 1-W-OH-813

Licking County Tower Site

Property #: 54200020021

Summit & Haven Corner Rds.

Pataskala Co: Licking OH 43062-

Status: Excess

Comment: Parcel 100 = 3.67 acres, Parcel 100E = 0.57 acres

GSA Number: 1-W-OH-813

Pennsylvania

Land

Gwen Site #868

Property #: 54200040007

Bonneauville

Smith Road

Gettysburg Co: Adams PA

Status: Surplus

Comment: 13.85 acres, most recent use—to support communication

GSA Number: 4-D-PA-0788

Wyoming

Land

Flying J

Property #: 54200020022

Shoshone Project

Park Co: WY 82414-

Status; Excess

Comment: approx. 46.35 acres, no utilities, most recent use—oil refinery

GSA Number: 7-1-WY-0539A

Interior

Virginia

Building

Former Bowen Residence

Property #: 61200010007

Cavalry Court

Spotsylvania Co: VA 22553-

Status: Excess

Comment: 1512 sq. ft. residence, off-site use only

Former Jones Residence

Property #: 61200010008

Plantation Drive

Spotsylvania Co: VA 22553-

Status: Excess

Comment: 1040 sq. ft. residence, off-site use only

Former Busic House

Property #: 61200010009

Brock Rd.

Spotsylvania Co: VA 22553-

Status: Excess

Comment: 4128 sq. ft. residence, off-site use only

Navy

California

Building

Bldg. 301

Property #: 77200020041

Naval Support Activity

Monterey Co: CA 93943-

Status: Excess

Comment: 18608 sq. ft., presence of asbestos/lead paint, needs major rehab

Bldg. 371

Property #: 77200020080

Naval Warfare Systems Center

San Diego Co: CA 92152-

Status: Unutilized

Comment: 29800 sq. ft., needs rehab, presence of asbestos/lead paint, off-site use only

Bldg. 402

Property #: 77200020081

Naval Warfare Systems Center

San Diego Co: CA 92152-

Status: Unutilized

Comment: presence of lead paint, most recent use—storage, off-site use only

Bldg. 417

Property #: 77200020082

Naval Warfare Systems Center

San Diego Co: CA 92152-

Status: Unutilized

Comment: 101 TR, needs rehab, presence of asbestos/lead paint, off-site use only

Bldg. 418

Property #: 77200020083

Naval Warfare Systems Center

San Diego Co: CA 92152-

Status: Unutilized

Comment: 288 sq. ft., presence of lead paint, most recent use-storage, off-site use only

Bldg. 426

Property #: 77200020084

Naval Warfare Systems Center

San Diego Co: CA 92152-

Status: Unutilized

Comment: presence of asbestos/lead paint, off-site use only

Bldg. 434

Property #: 77200020085

Naval Warfare Systems Center

San Diego Co: CA 92152-

Status: Unutilized

Comment: 11440 sq. ft., needs rehab, presence of asbestos/lead paint, off-site use only

Bldg. 210

Property #: 77200020086

Naval Warfare Assessment

Station

Corona Co: CA 91718-5000

Status: Unutilized

Comment: 17708 sq. ft., needs rehab, presence of asbestos/lead paint, most recent use—police station, off-site use only

Bldg. 541

Property #: 77200020087

Naval Warfare Assessment

Station

Corona Co: CA 91718-5000

Status: Unutilized

Comment: 3857 sq. ft., needs rehab, presence of asbestos/lead paint, most recent use—lab, off-site use only

Bldg. 804

Property #: 77200020088

Naval Warfare Assessment

Station

Corona Co: CA 91718-5000

Status: Unutilized

Comment: 3119 sq. ft., needs rehab, presence of asbestos/lead paint, most recent use—admin., off-site use only

Bldg. 805

Property #: 77200020089

Naval Warfare Assessment

Station

Corona Co: CA 91718-5000

Status: Unutilized

Comment: 3732 sq. ft., needs rehab, presence of asbestos/lead paint, most recent use—storage, off-site use only

Bldg. 806

Property #: 77200020090

Naval Warfare Assessment

Station

Corona Co: CA 91718-5000

Status: Unutilized

Comment: 3110 sq. ft., needs rehab, presence of asbestos/lead paint, most recent use—office, off-site use only

Bldg. 807

Property #: 77200020091

Naval Warfare Assessment

Station

Corona Co: CA 91718-5000

Status: Unutilized

Comment: 3110 sq. ft., needs rehab, presence of asbestos/lead paint, most recent use—office, off-site use only

Bldgs. 23027, 23025

Property #: 77200040023

Marine Corps Air Station

Miramar Co: San Diego CA 92132-

Status: Unutilized

Comment: 400 sq. ft., metal siding, most recent use—loading facility, off-site use only

Connecticut

Building

Bldgs. 31, 78, 91

Property #: 77200030055

Naval Submarine Base

New London

Groton Co: New London CT 06349-

Status: Unutilized

Comment: total sq. ft. = 41,809, presence of asbestos, most recent use—storage/training/repair, off-site use only

Bldg. 406

Property #: 77200030056

Naval Submarine Base

New London

Groton Co: New London CT 06349-

Status: Unutilized

Comment: 13546 sq. ft., needs rehab, presence of asbestos, most recent use—shop, off-site use only

Bldg. 392

Property #: 77200030065

Naval Sub Base New London

Groton Co: CT 06349-

Status: Unutilized

Comment: 996 sq. ft., needs repair, possible asbestos/lead paint, most recent use—storage, off-site use only

Hawaii

Building

Bldg. S87, Radio Trans. Fac.

Property #: 77199240011

Lualualei, Naval Station, Eastern Pacific

Wahiawa Co: Honolulu HI 96786-3050

Status: Unutilized

Comment: 7566 sq. ft., 1-story, needs rehab, most recent use—storage, off-site use only

Bldg. 64, Radio Trans. Facility

Property #: 77199310004

Naval Computer & Telecommunications Area

Wahiawa Co: Honolulu HI 96786-3050

Status: Unutilized

Comment: 3612 sq. ft., 1 story, access restrictions, needs rehab, most recent use—storage, off-site use only

Bldg. 442, Naval Station

Property #: 77199630088

Ford Island

Pearl Harbor Co: Honolulu HI 96860-

Status: Excess

Comment: 192 sq. ft., most recent use—storage, off-site use only

Bldg. S180

Property #: 77199640039

Naval Station, Ford Island

Pearl Harbor Co: Honolulu HI 96860-

Status: Unutilized

Comment: 3412 sq. ft., 2-story, most recent use—bomb shelter, off-site use only, relocation may not be feasible

Bldg. S181

Property #: 77199640040

Naval Station, Ford Island

Pearl Harbor Co: Honolulu HI 96860-

Status: Unutilized

Comment: 4258 sq. ft., 1-story, most recent use—bomb shelter, off-site use only, relocation may not be feasible

Bldg. 219

Property #: 77199640041

Naval Station, Ford Island

Pearl Harbor Co: Honolulu HI 96860-

Status: Unutilized

Comment: 620 sq. ft., most recent use—damage control, off-site use only, relocation may not be feasible

Bldg. 220

Property #: 77199640042

Naval Station, Ford Island

Pearl Harbor Co: Honolulu HI 96860-

Status: Unutilized

Comment: 620 sq. ft., most recent use—damage control, off-site use only, relocation may not be feasible

Bldg. 160

Property #: 77199840002

Naval Station, Pearl Harbor

Pearl Harbor Co: Honolulu HI 96860-

Status: Excess

Comment: 6070 sq. ft., needs rehab, presence of lead paint, most recent use—storage/office, off-site use only

Maine

Building

Bldg. 4

Property #: 77199930005

Naval Air Station

Brunswick Co: ME 04011-

Status: Excess

Comment: 16644 sq. ft., presence of asbestos/lead paint, most recent use—headquarters building, off-site use only

Bldg. 8

Property #: 77199930006

Naval Air Station

Brunswick Co: ME 04011-

Status: Excess

Comment: 7413 sq. ft., presence of asbestos/lead paint, most recent use—public works building, off-site use only

Bldg. 12

Property #: 77199930007

Naval Air Station

Brunswick Co: ME 04011-

Status: Excess

Comment: 25354 sq. ft., presence of asbestos/lead paint, most recent use—admin., off-site use only

Bldg. 41

Property #: 77199930008

Naval Air Station

Brunswick Co: ME 04011-

Status: Excess

Comment: 10526 sq. ft., presence of asbestos/lead paint, most recent use—security building, off-site use only

Maryland

Building

Bldg. 139

Property #: 77200010032

Naval Surface Warfare Center

Carderock Division

West Bethesda Co: Montgomery MD 20817-5700

Status: Unutilized

Comment: 4950 sq. ft., possible asbestos/lead paint, most recent use—wind tunnel, off-site use only

New Hampshire

Building

Bldg. 128

Property #: 77199830015

Portsmouth Naval Shipyard

Portsmouth NH 03804-5000

Status: Excess

Comment: 10900 sq. ft., needs rehab, presence of asbestos, most recent use—storage, off-site use only

Bldg. 185

Property #: 77199830016

Portsmouth Naval Shipyard

Portsmouth NH 03804-5000

Status: Excess

Comment: 2310 sq. ft., needs rehab, presence of asbestos, most recent use—office, off-site use only

Bldg. 314

Property #: 77199830017

Portsmouth Naval Shipyard

Portsmouth NH 03804-5000

Status: Excess

Comment: cement block bldg., needs rehab, presence of asbestos, most recent use—storage, off-site use only

Bldg. 336

Property #: 77199830018

Portsmouth Naval Shipyard

Portsmouth NH 03804-5000

Status: Excess

Comment: metal bldg w/cement block foundation, off-site use only

Bldg. 160

Property #: 77199910046

Portsmouth Naval Shipyard

Portsmouth Co. NH 03804-5000

Status: Unutilized

Comment: 6080 sq. ft., possible asbestos, most recent use—storge, off-site use only

Bldg. 179

Property #: 77200020099

Portsmouth Naval Shipyard

Portsmouth Co. NH 03804-5000

Status: Excess

Comment: 1452 sq. ft., needs rehab, presence of asbestos/lead paint, most recent use—quarters, off-site use only

Bldg. 201

Property #: 77200020100

Portsmouth Naval Shipyard

Portsmouth NH 03804-5000

Status: Excess

Comment: 450 sq. ft., presence of asbestos/lead paint, off-site use only

Bldg. 304

Property #: 77200020101

Portsmouth Naval Shipyard

Portsmouth Co: NH 03804-5000

Status: Excess

Comment: 1320 sq. ft., presence of asbestos/lead paint, most recent use—garb. house, off-site use only

Bldg. 10

Property #: 77200020018

Portsmouth Co: NH 03804-5000

Status: Excess

Comment: 12000 sq. ft., presence of asbestos/lead paint, most recent use—shop facility, off-site use only

Bldg. 239

Property #: 77200030019

Portsmouth Naval Shipyard

Portsmouth Co: NH 03804-5000

Status: Excess

Comment: 897 sq. ft., presence of asbestos/lead paint, off-site use only

New Jersey

Building

Bldg. D1-A

Property #: 77199940024

Naval Weapons Station

Colts Neck Co: NJ 07722-

Status: Unutilized

Comment: 1134 sq. ft., presence of lead paint, most recent use—smokehouse/lunchroom, off-site use only

Bldg. HA-1A

Property #: 77199940025

Naval Weapons Station

Colts Neck Co: NJ 07722-

Status: Unutilized

Comment: 120 sq. ft., most recent use—storage, off-site use only

Bldg. C-16

Property #: 77200010014

Naval Weapons Station

Colts Neck Co: Earle NJ 07722-

Status: Unutilized

Comment: 34811 sq. ft., presence of asbestos/lead paint, off-site use only

Bldg. C-25

Property #: 77200010015

Naval Weapons Station

Colts Neck Co: Earle NJ 07722-

Status: Unutilized

Comment: 4448 sq. ft., presence of asbestos/lead paint, off-site use only

Bldg. C-40

Property #: 77200010016

Naval Weapons Station

Colts Neck Co: Earle NJ 07722-

Status: Unutilized

Comment: 6924 sq. ft., presence of asbestos/lead paint, off-site use only

Bldg. 511

Property #: 77200010017

Naval Weapons Station

Colts Neck Co: Earle NJ 07722-

Status: Unutilized

Comment: 1871 sq. ft., presence of asbestos/lead paint, off-site use only

Bldgs. 553, 554, 555

Property #: 77200010018

Naval Weapons Station

Colts Neck Co: Earle NJ 07722-

Status: Unutilized

Comment: guard towers, off-site use only

Bldg. 557

Property #: 77200010019

Naval Weapons Station

Colts Neck Co: Earle NJ 07722-

Status: Unutilized

Comment: 9670 sq. ft., presence of asbestos/lead paint, off-site use only

Pennsylvania

Building

Bldg. 38

Property #: 77200010020

Naval Support Activity

Philadelphia Co: PA 19111-5098

Status: Unutilized

Comment: 6525 sq. ft., metal butler bldg., needs rehab, presence of asbestos/lead paint, off-site use only

Bldg. 5

Property #: 77200030071

Navy Surface Warfare Center

Philadelphia Co: PA 19112-

Status: Unutilized

Comment: 286824 sq. ft., needs rehab, presence of asbestos, most recent use—warehouse, off-site use only

Bldg. 47

Property #: 77200030072

Navy Surface Warfare Center

Philadelphia Co: PA 19112-

Status: Unutilized

Comment: 16343 sq. ft., presence of asbestos, most recent use—office, off-site use only

Bldg. 55

Property #: 77200030073

Navy Surface Warfare Center

Philadelphia Co: PA 19112-

Status: Unutilized

Comment: 5603 sq. ft., needs repair, presence of asbestos, most recent use—store, off-site use only

Bldg. 531

Property #: 77200030074

Navy Surface Warfare Center

Philadelphia Co: PA 19112-

Status: Unutilized

Comment: 5102 sq. ft., presence of asbestos, most recent use—office, off-site use only

Bldg. 996

Property #: 77200030075

Navy Surface Warfare Center

Philadelphia Co: PA 19112-

Status: Unutilized

Comment: 1800 sq. ft., presence of asbestos, most recent use—storage, off-site use only

Rhode Island

Building

Bldg. 1

Property #: 77200010022

Old Naval Hospital

One Riggs Road

Newport Co: RI 02841-

Status: Unutilized

Comment: 49189 sq. ft., presence of asbestos/lead paint, needs major repair, NEPA requirements, boiler plant which provides heat and hot water to bldg. will be shut down

Bldg. K-61

Property #: 77200030079

Naval Station

Newport Co: RI 02841-

Status: Unutilized

Comment: 32836 sq. ft., presence of asbestos/lead paint, most recent use—office, off-site use only

Bldg. 685

Property #: 77200030080

Naval Station

Middletown Co: Newport RI 02842-

Status: Unutilized

Comment: 25090 sq. ft., needs rehab, presence of asbestos/lead paint, most recent use—navy lodge, off-site use only

Virginia

Building

Bldg. CEP-6

Property #: 77200030064

Naval Station

Norfolk Co: VA 23511-

Status: Excess

Comment: 1056 sq. ft., most recent use—storage, off-site use only

Bldg. CEP-210

Property #: 77200030064

Naval Station

Norfolk Co: VA 23511-

Status: Excess

Comment: 2346 sq. ft., most recent use—storage, off-site use only

Land

Land

Property #: 77200040034

Marine Corps Base

Quantico Co: VA 22134-

Status: Unutilized

Comment: 4900 sq. ft. open space

VA

Alabama

Land

VA Medical Center

Property #: 97199010053

VAMC

Tuskegee Co: Macon AL 36083-

Status: Underutilized

Comment: 40 acres, buffer to VA Medical Center, potential utilities, undeveloped

California

Land

Land

Property #: 97199240001

4150 Clement Street

San Francisco Co: San Francisco CA 94121-

Status: Underutilized

Comment: 4 acres; landslide area

Indiana

Building

Bldg. 105, VAMC

Property #: 97199230006

East 38th Street

Marion Co: Grant IN 46952-

Status: Excess

Comment: 310 sq. ft., 1 story stone structure, no sanitary or heating facilities, National Register of Historic Places

Bldg. 140, VAMC

Property #: 97199230007

East 38th Street

Marion Co: Grant IN 46952-

Status: Excess

Comment: 60 sq. ft., concrete block bldg., most recent use—trash house

Bldg. 7

Property #: 97199810001

VA Northern Indiana Health

Care System

Marion Campus, 1700 East

38th Street

Marion Co: Grant IN 46953-

Status: Underutilized

Comment: 16864 sq. ft., presence of asbestos, most recent use—psychiatric ward, National Register of Historic Places

Bldg. 10

Property #: 97199810002

VA Northern Indiana Health

Care System

Marion Campus, 1700 East

38th Street

Marion Co: Grant IN 46953-

Status: Underutilized

Comment: 16361 sq. ft., presence of asbestos, most recent use—psychiatric ward, National Register of Historic Places

Bldg. 11

Property #: 97199810003

VA Northern Indiana Health

Care System

Marion Campus, 1700 East

38th Street

Marion Co: Grant IN 46953-

Status: Underutilized

Comment: 16361 sq. ft., presence of asbestos, most recent use—psychiatric ward, National Register of Historic Places

Bldg. 18

Property #: 97199810004

VA Northern Indian Health

Care System

Marion Campus, 1700 East

38th Street

Marion Co: Grant IN 46953-

Status: Underutilized

Comment: 13802 sq. ft., presence of asbestos, most recent use—psychiatric ward, National Register of Historic Places

Bldg. 25

Property #: 97199810005

VA Northern Indiana Health

Care System

Marion Campus, 1700 East

38th Street

Marion Co: Grant IN 46953-

Status: Unutilized

Comment: 32892 sq. ft., presence of asbestos, most recent use—psychiatric ward, National Register of Historic Places

Iowa

Land

40.66 acres

Property #: 97199740002

VA Medical Center

1515 West Pleasant St.

Knoxville Co: Marion IA 50138-

Status: Unutilized

Comment: golf course, easement requirements.

Maryland

Land

VA Medical Center

Property #: 97199010020

9500 North Point Road

Fort Howard Co: Baltimore MD 21052-

Status: Underutilized

Comment: Approx. 10 acres, wetland and periodically floods, most recent use—dump site for leaves

Pennsylvania

Building

Bldg. 25—VA Medical Center

Property #: 9719920001

Delafield Road

Pittsburgh Co: Allegheny PA 15215-

Status: Unutilized

Comment: 133 sq. ft., one story brick guard house, needs rehab

Bldg. 3, VAMC

Property #: 97199230012

1700 South Lincoln Avenue

Lebanon Co: Lebanon PA 17042-

Status: Underutilized

Comment: portion of bldg. (3850 and 4360 sq. ft.), most recent use—storage, second floor-lacks elevator access

Texas

Land

Land

Property #: 97199010079

Olin E. Teague Veterans

Center

1901 South 1st Street

Temple Co: Bell TX 76504-

Status: Underutilized

Comment: 13 acres, portion formerly landfill, portion near flammable materials, railroad crosses property, potential utilities

Wisconsin

Building

Bldg. 8

Property #: 97199010056

VA Medical Center

County Highway E

Tomah Co: Monroe WI 54660-

Status: Underutilized

Comment: 2200 sq. ft., story wood frame, possible asbestos potential utilities, structural deficiencies, needs rehab

Land

VA Medical Center

Property #: 97199010054

County Highway E

Tomah Co: Monroe WI 54660-

Status: Underutilized

Comment: 12.4 acres, serves as buffer between center and private property, no utilities

Title V Properties Reported in Year 2000 Which are Suitable and Unavailable

Air Force

Colorado

Building

Bldg. 9023

Property #: 18199730010

U.S. Air Force Academy

Colorado Springs Co: El Paso CO 80814-2400

Status: utilized

Bldg. 9027

Property #: 18199730011

U.S. Air Force Academy

Colorado Springs Co: El Paso CO 80814-2400

Status: Underutilized

Reason: Utilized

Idaho

Building

Bldg. 224

Property #: 18199840008

Mountain home Air Force

Co: Elmore ID 83648-

Status: Unutlized

Reason: Extension of runway

Iowa

Building

Bldg. 00627

Property #: 18199310001

Sioux Gateway Airport

Sioux City Co: Woodbury IA 51110-

Status: Unutilized

Reason: Will be transferred to Sioux City

Bldg. 00669

Property #: 18199310002

Sioux Gateway Airport

Sioux City Co: Woodbury IA 51110-

Status: Unutilized

Reason: Will be transferred to Sioux City

Maine

Building

Dow Pines Rec Site

Property #: 18200040005

Great Pond Co: Hancock ME 04408-

Status: Excess

Reason: Transferred to Navy

New Hampshire

Building

Bldg. 127

Property #: 18199320057

New Boston Air Force Station

Amherst Co: Hillsborough NH 03031-1514

Status: Excess

Reason: Ongoing installation mission consideration

Army

Georgia

Building

Bldg. 4090

Property #: 21199630007

Fort Benning

Ft. Benning Co: Muscogee GA 31905-

Status: Unutilized

Reason: Plan to utilize as a museum

Kansas

Building

Bldg. P-295

Property #: 21199810296

Fort Leavenworth

Leavenworth Co: Leavenworth KS 66027-

Status: Unutilized

Reason: Reutilized

Missouri

Building

Bldg. 2172

Property #: 21200040059

Fort Leonard Wood

Ft. Leonard Wood Co: Pulaski MO 65473-8994

Status: Unutilized

Reason: Reutilized

Bldg. 5041

Property #: 21200040060

Fort Leonard Wood

Ft. Leonard Wood Co: Pulaski MO 65473-8994

Status: Unutilized

Reason: Reutilized

Bldg. 5286

Property #: 21200040061

Fort Leonard Wood

Ft. Leonard Wood Co: Pulaski MO 65473-8994

Status: Unutilized

Reason: Reutilized

North Carolina

Land

.92 Acre—Land

Property #: 21199610728

Military Ocean Terminal, Sunny Point

Southport Co: Brunswick NC 28461-5000

Status: Unutilized

Reason: Contains well owned by Town; within an explosive buffer zone

10 Acre—Land

Property #: 21199610729

Military Ocean Terminal, Sunny Point

Southport Co: Brunswick NC 28461-5000

Status: Unutilized

Reason: Within an explosives buffer zone

257 Acre—Land

Property #: 21199610730

Military Ocean Terminal, Sunny Point

Southport Co: Brunswick NC 28461-5000

Status: Underutilized

Reason: Within an explosives buffer zone

24.83 acres—Tract of Land

Property #: 21199620685

Military Ocean Terminal, Sunny Point

Southport Co: Brunswick NC 28461-5000

Status: Underutilized

Reason: Explosive buffer zone

Texas

Building

Bldg. P-2000, Fort Sam Houston

Property #: 21199220389

San Antonio Co: Bexar TX 78234-5000

Status: Underutilized

Reason: Area programmed for future use

Bldg. P-2001, Fort Sam Houston

Property #: 21199220390

San Antonio Co: Bexar TX 78234-5000

Status: Underutilized

Reason: Area programmed for future use

COE

California

Building

Sante Fe Flood Control Basin

Property #: 31199011298

Irwindale Co: Los Angeles CA 91706-

Status: Unutilized

Reason: Needed for contract personnel

Illinois

Building

Bldg. 7

Property #: 31199010001

Ohio River Locks & Dam No. 53

Grand Chain Co: Pulaski IL 62941-9801

Status: Unutilized

Reason: Project integrity and security; safety liability

Bldg. 6

Property #: 31199010002

Ohio River Locks & Dam No. 53

Grand Chain Co: Pulaski IL 62941-9801

Status: Unutilized

Reason: Project integrity and security; safety liability

Bldg. 5

Property #: 31199010003

Ohio River Locks & Dam No. 53

Grand Chain Co: Pulaski IL 62941-9801

Status: Unutilized

Reason: Project integrity and security; safety liability

Bldg. 4

Property #: 31199010004

Ohio River Locks & Dam No. 53

Grand Chain Co: Pulaski IL 62941-9801

Status: Unutilized

Reason: Project integrity and security; safety liability

Bldg. 3

Property #: 31199010005

Ohio River Locks & Dam No. 53

Grand Chain Co: Pulaski IL 62941-9801

Status: Unutilized

Reason: Project integrity and security; safety liability

Bldg. 2

Property #: 31199010006

Ohio River Locks & Dam No. 53

Grand Chain Co: Pulaski IL 62941-9801

Status: Unutilized

Reason: Project integrity and security; safety liability

Bldg. 1

Property #: 31199010007

Ohio River Locks & Dam No. 53

Grand Chain Co: Pulaski IL 62941-9801

Status: Unutilized

Reason: Project integrity and security; safety liability

Land

Lake Shelbyville

Property #: 31199240004

Shelbyville Co: Shelby & Moultrie IL 62565-9804

Status: Unutilized

Reason: Disposal action initiated

Ohio

Building

Bldg.—Berlin Lake

Property #: 31199640001

7400 Bedell Road

Berlin Center Co: Mahoning OH 44401-9797

Status: Unutilized

Reason: utilized as construction office

Pennsylvania

Building

Tract 353

Property #: 31199430019

Grays Landing Lock & Dam Project

Greensboro Co: Greene PA 15338-

Status: Unutilized

Reason: To be transferred to Borough

Tract 403A

Property #: 31199430021

Grays Landing Lock & Dam Project

Greensboro Co: Greene PA 15338-

Status: Unutilized

Reason: To be transferred to Borough

Tract 403B

Property #: 31199430022

Grays Landing Lock & Dam

Project

Greensboro Co: Green PA 15338-

Status: Unutilized

Reason: To be transferred to Borough

Tract 403C

Property #: 31199430023

Grays Landing Lock & Dam

Project

Greensboro Co: Green PA 15338-

Status: Unutilized

Reason: To be transferred to Borough

Tract 434

Property #: 31199430024

Grays Landing Lock & Dam

Project

Greensboro Co: Green PA 15338-

Status: Unutilized

Reason: To be transferred to Borough

Tract 224

Property #: 31199440001

Grays Landing Lock & Dam

Project

Greensboro Co: Green PA 15338-

Status: Unutilized

Reason: Disposal action initiated

Env. Learning Ctr.

Property #: 31200030007

Rt. 66/Crooked Creek Dam

Ford City Co: Armstrong PA 16226-

Status: Unutilized

Reason: Organization to lease facility

Land

East Branch Clarion River Lake

Property #: 31199011012

Wilcox Co: Elk PA

Status: Underutilized

Reason: Location near damsite

Dashields Locks and Dam

Property #: 31199210009

(Glenwillard, PA)

Crescent Twp. Co: Allegheny PA 15046-0475

Status: Unutilized

Reason: Leased to Township

Texas

Land

Parcel #222

Property #: 31199010421

Lake Texoma

Co: Grayson TX

Status: Excess

Reason: Landfill to be investigated

Wisconsin

Building

Former Lockmaster's Dwelling

Property #: 31199011526

DePere Lock

100 James Street

De Pere Co: Brown WI 54115-

Status: Unutilized

Reason: In negotiation for transfer to the State

DOT

Georgia

Land

Land—St. Simons Boathouse

Property #: 87199540003

St. Simons Island Co: Glynn GA 31522-0577

Status: Unutilized

Reason: Reversionary clause in deed

Energy

Idaho

Building

Bldg. CFA-613

Property #: 41199630001

Central Facilities Area

Idaho National Engineering

Lab

Scoville Co: Butte ID 83415-

Status: Unutilized

Reason: Historical issues

GSA

Alabama

Building

Residence 1223

Property #: 54200020023

204 Akin Drive

Tuskegee Co: Macon AL 36083-

Status: Excess

GSA Number: 4-A-AL-768

Reason: On line auction in process

Arizona

Land

0.322 acres

Property #: 54200020025

Madison Street Property

Yuma Co: AZ 00000-

Status: Excess

GSA Number: 9-I-AZ-814

Reason: Written expression of interest from city

California

Building

112 Bldgs.—Skaggs Island

Property #: 54199730001

Naval Security Group

Skaggs Island Co: Sonoma CA

Status: Excess

GSA Number: 9-N-CA-1488

Reason: Public benefit interest

Marine Culture Laboratory

Property #: 54199830011

Granite Canyon

34500 Coast Highway

Monterey CA 93940-

Status: Surplus

GSA Number: 9-C-CA-1499

Reason: Wildlife conservation

Natl Weather Svc Station

Property #: 54199840007

Blue Canyon Airport

Emigrant Gap CA 95715-

Status: Surplus

GSA Number: 9-C-CA-1521

Reason: Public benefit interest

Naval & Marine Corps Readiness

Property #: 54199910005

1700 Stadium Way

Los Angeles Co: Los Angeles CA 90012-

Status: Excess

GSA Number: 9-N-CA-1523

Reason: Emergency service pending

Eureka Federal Building

Property #: 54199930024

5th & H Streets

Eureka Co: CA 95501-

Status: Surplus

GSA Number: 9-G-CA-1529

Reason: Received expressions of interest

Georgia

Building

Federal Building

Property #: 54199910014

109 N. Main Street

Lafayette Co: Walker GA 30728-

Status: Excess

GSA Number: 4-G-GA-858

Reason: Homeless interest

Illinois

Building

Radar Communication Link

Property #: 54199820013

½ mi east of 116th St.

Co: Will IL

Status: Excess

GSA Number: 2-U-IL-696

Reason: Negotiated sale

Army Reserve Center

Property #: 54199940008

1881 East Fremont Street

Galesburg Co: Knox IL 61401-

Status: Excess

GSA Number: 1-D-IL-720

Reason: Negotiated sale

Maryland

Building

Washington Court Apartments

Property #: 54199940005

Maryland Rt. 755

Edgewood Co: Harford MD 21040-

Status: Excess

GSA Number: 4-D-MD-559

Reason: Negotiated sale

De LaSalle Bldg.

Property #: 54200020007

Avondale Co: Prince George MD 20782-

Status: Excess

GSA Number: 4-G-MD-565A

Reason: Written expression of interest

Cheltenham Naval Comm. Dtchmt.

Property #: 77199330010

9190 Commo Rd., AKA 7700

Redman Rd.

Clinton Co: Prince George MD 20397-5520

Status: Excess

GSA Number: 4-N-MD-544A

Reason: Public benefit interest

Land

12.52 acres

Property #: 54200020020

Casson Neck

Cambridge Co: Dorchester MD 00000-

Status: Excess

GSA Number: 4-U-MD-600A

Reason: Parks & Rec interest

Michigan

Building

Detroit Job Corps Center

Property #: 54199410002

10401 E. Jefferson & 1438

Garland;

1265 St. Clair

Detroit Co: Wayne MI 42128-

Status: Surplus

GSA Number: 2-L-MI-757

Reason: Education application

Parcel 1

Property #: 5419973001

Old Lifeboat Station

East Tawas Co: Iosco MI

Status: Excess

GSA Number: 1-UU-MI-500

Reason: Advertised

Minnesota

Building

MG Clement Trott Mem. USARC

Property #: 54199930003

Walker Co: Cass MN 56484-

Status: Excess

GSA Number: 1-D-MN-575

Reason: Federal interest

Mississippi

Building

Federal Building

Property #: 54199910004

236 Sharkey Street

Clarksdale Co: Coahoma MS 38614-

Status: Excess

GSA Number: 4-G-MS-553

Reason: Will be leased back to Federal tenants

Land

Proposed Site

Property #: 54200010005

Army Reserve Center

Waynesboro Co: Wayne MS 39367-

Status: Excess

GSA Number: 4-D-MS-0555

Reason: Written expression of interest received from Co.

North Carolina

Building

Tarheel Army Missile Plant

Property #: 54199820002

Burlington Co: Alamance NC 27215-

Status: Excess

GSA Number: 4-D-NC-593

Reason: Advertised

Vehicle Maint. Facility

Property #: 54200020012

310 New Bern Ave.

Raleigh Co: Wake NC 27601-

Status: Excess

GSA Number: NC076AB

Reason: Federal need

Goldsboro Federal Bldg.

Property #: 54200020016

134 North John Street

Goldsboro Co: Wayne NC 27530-

Status: Excess

GSA Number: 4-G-NC-736

Reason: Written expression of interest from DOE

Land

6.45 acres

Property #: 54200020011

Portion of McKinney Lake

Fish Hatchery

Millstone Church Road

Hoffman Co: Richmond NC 28347-

Status: Excess

GSA Number: 4-GR-NC-570

Reason: Homeless interest received

Ohio

Building

Zanesville Federal Building

Property #: 54199520018

65 North Fifth Street

Zanesville Co: Muskingum OH

Status: Excess

GSA Number: 2-G-OH-781A

Reason: Advertised

Oklahoma

Building

Fed. Bldg./Courthouse

Property #: 54199820009

N. Washington & Broadway Streets

Ardmore Co: Carter OK 73402-

Status: Excess

GSA Number: 7-G-TX-559

Reason: Federal need

Puerto Rico

Land

La Hueca—Naval Station

Property #: 54199420006

Roosevelt Roads

Vieques PR 00765-

Status: Excess

Reason: Federal interest

Bahia Rear Range Light

Property #: 54199940003

Ocean Drive

Catano Co: PR 00632-

Status: Excess

GSA Number: 1-T-PR-508

Reason: Corrections

Tennessee

Building

3 Facilities, Guard Post

Property #: 54199930011

Volunteer Army Ammunition Plant

Chattanooga Co: Hamilton TN 37421-

Status: Surplus

GSA Number: 4-D-TN-594F

Reason: Negotiated sale

4 Bldgs.

Property #: 54199930012

Volunteer Army Ammunition Plant

Railroad System Facilities

Chattanooga Co: Hamilton TN 37421-

Status: Surplus

GSA Number: 4-D-TN-594F

Reason: Negotiated sale

200 bunkers

Property #: 54199930014

Volunteer Army Ammunition Plant

Storage Magazines

Chattanooga Co: Hamilton TN 37421-

Status: Surplus

GSA Number: 4-D-TN-594F

Reason: Negotiated sale

Bldg. 232

Property #: 54199930020

Volunteer Army Ammunition Plant

Chattanooga Co: Hamilton TN 37421-

Status: Surplus

GSA Number: 4-D-TN-594F

Reason: Negotiated sale

2 Laboratories

Property #: 54199930021

Volunteer Army Ammunition Plant

Chattanooga Co: Hamilton TN 37421-

Status: Surplus

GSA Number: 4-D-TN-594F

Reason: Negotiated sale

3 Facilities

Property #: 54199930022

Volunteer Army Ammunition Plant

Water Distribution Facilities

Chattanooga Co: Hamilton TN 37421-

Status: Surplus

GSA Number: 4-D-TN-594F

Reason: Negotiated sale

Naval Hospital

Property #: 54200020005

5720 Integrity Drive

Millington Co: Shelby TN 38054-

Status: Excess

GSA Number: 4-N-TN-648

Reason: Written expression of interest received from DOE

Land

1500 acres

Property #: 54199930015

Volunteer Army Ammunition Plant

Chattanooga Co: Hamilton TN 37421-

Status: Surplus

GSA Number: 4-D-TN-594F

Reason: Negotiated sale

West Virginia

Building

Moundsville Federal Bldg.

Property #: 54200020024

7th Street

Moundsville Co: Marshall WV 26041-

Status: Excess

GSA Number: 4-G-WV-535

Reason: Written expression

Old Post Office

Property #: 54200030004

Maple & King Streets

Martinsburg Co: Berkeley WV 25401-

Status: Excess

GSA Number: 4-G-WV-537

Reason: Written expression via DOE

Former Army Rsv Ctr

Property #: 54200030006

201 Kanawha Avenue

Rainelle Co: Berkeley WV 25962-1107

Status: Excess

GSA Number: 4-D-WV-536

Reason: Written expression of interest from City/County

Wisconsin

Building

Wausau Federal Building

Property #: 54199820016

317 First Street

Wausau Co: Marathon WI 54401-

Status: Excess

GSA Number: 1-G-WI-593

Reason: Advertised

Army Reserve Center

Property #: 54199940004

401 Fifth Street

Kewaunee Co: WI 54216-1838

Status: Excess

GSA Number: 1-D-WI-597

Reason: Public benefit interest

Navy

Puerto Rico

Building

Bldgs. 501 & 502

Property #: 77199530007

U.S. Naval Radio Transmitter

Facility

State Road No. 2

Juana Diaz PR 00795-

Status: Underutilized

Reason: Department of Defense interest

VIRGINIA

BUILDING

Naval Medical Clinic

Property #: 77199010109

6500 Hampton Blvd.

Norfolk Co: Norfolk VA 23508—

Status: Underutilized

Reason: Planned for expansion space

Land

Naval Base

Property #: 77199010156

Norfolk Co: Norfolk VA 23508-

Status: Unutilized

Reason: Identified for use in developing admin. office space

Lane—CD area

Properity #: 77199830022

Naval Base Norfolk

Norfolk VA 23511-2797

Status: Underutilized

Reason: Outlease to Federal Credit Union

VA

Indiana

Building

Bldg. 24, VAMC

Property #: 97199230005

East 38th Street

Marion Co: Grant IN 46952-

Status: Underutilized

Reason: Currently utilized

Bldg. 122

Property #: 97199810006

VA Northern Indiana Health

Care System

Marion Campus, 1700 East

38th Street

Marion Co: Grant IN 46953—

Status: Underutilized

Reason: Fully utilized by construction contractor

Iowa

Land

38 acres

Property #: 97199740001

VA Medical Center

1515 West Pleasant St.

Knoxville Co: Marion IA 50138-

Status: Underutilized

Reason: Enhanced-use Legislation potential

Michigan

Land

VA Medical Center

Property #: 97199010015

5500 Armstrong Road

Battle Creek Co: Calhoun MI 49016-

Status: Underutilized

Reason: Being used for patient and program activities

Montana

Building

VA MT Healthcare

Property #: 97200030001

210 S. Winchester

Miles City Co: Custer MT 59301-

Status: Underutilized

Reason: Transfer to Custer County

New York

Land

VA Medical Center

Property #: 97199010017

Fort Hill Avenue

Canandaigua Co: Ontario NY 14424-

Status: Underutilized

Reason: Portion leased; portion landlocked

Pennsylvania

Land

VA Medical Center

Property #: 97199010016

New Castle Road

Butler Co: Butler PA 16001-

Status: Underutilized

Reason: Used as natural drainage for facility property

Land No. 645

Property #: 97199010080

VA. Medical Center

Highland Drive

Pittsburgh Co: Allegheny PA 15206-

Status: Unutilized

Reason: Property is essential to security and safety of patients

Land—34.16 acres

Property #: 97199340001

VA Medical Center

1400 Black Horse Hill Road

Coatesville Co: Chester PA 19320-

Status: Underutilized

Reason: Needed for mission related functions

Tennessee

Land

44 acres

Property #: 97199740003

VA Medical Center

3400 Lebanon Rd.

Murfreesboro Co: Rutherford TN 37129-

Status: Underutilized

Reason: Enhanced-Use lease agreement pending

Wisconsin

Building

Bldg. 2

Property #: 97199830002

VA Medical Center

5000 West National Ave.

Milwaukee WI 53295-

Status: Underutilized

Reason: Subject of leasing negotiations

[FR Doc. 01-3761 Filed 2-15-01; 8:45 am]

BILLING CODE 4210-29-M